ENVIRONMENTAL PROTECTION AGENCY

40 CFR Part 52

[EPA-R09-OAR-2024-0527; FRL-12812-01-R9]

Air Plan Approval; California; Revised Format for Materials Incorporated by Reference

AGENCY: Environmental Protection Agency (EPA).

ACTION: Final rule; administrative change.

SUMMARY: The Environmental Protection Agency (EPA) is revising the format for materials submitted by the State of California that are incorporated by reference into the California State Implementation Plan (SIP). The regulations and other materials affected by this format change have all been previously submitted by the State of California and approved by the EPA. This format revision will primarily affect the “Identification of plan—in part” sections, as well as the format of the SIP materials that will be available for public inspection at the EPA Regional Office and the National Archives and Records Administration (NARA). This action, which only relates to source-specific requirements and certain local and regional California air district rules, is the fourth of a series of actions intended to change the format for the entire California SIP.

DATES: This rule is effective on August 21, 2025.

ADDRESSES: The EPA has established a docket for this action under Docket ID No. EPA-R09-OAR-2024-0527. SIP materials which are incorporated by reference into 40 CFR part 52 are available for inspection by appointment at Environmental Protection Agency, Region IX, 75 Hawthorne Street, San Francisco, CA 94105-3901. For information on the availability of this material at the EPA Regional Office, please contact the person in the FOR FURTHER INFORMATION CONTACT section of this document.

FOR FURTHER INFORMATION CONTACT: Doris Lo, EPA Region IX, 75 Hawthorne St., San Francisco, CA; telephone: (415) 972-3959; email address: lo.doris@epa.gov.

SUPPLEMENTARY INFORMATION: Throughout this document, the terms “we”, “us,” and “our” refer to the EPA. This supplementary information section is organized as follows:

Table of Contents

I. Background

A. Description of a SIP

B. How the EPA Enforces SIPs

C. How the State and the EPA Update the SIP

D. How the EPA Compiles the SIPs

E. How the EPA Organizes the SIP Compilation

F. Where You Can Find a Copy of the SIP Compilation

G. The Format of the California Identification of Plan Sections

H. When a SIP Revision Becomes Federally Enforceable

I. The Historical Record of SIP Revision Approvals

II. What the EPA Is Doing in This Action

III. Incorporation by Reference

IV. Statutory and Executive Order Reviews

I. Background

A. Description of a SIP

Each State has a SIP containing, among other things, the control measures and strategies used to attain and maintain the national ambient air quality standards (NAAQS). The SIP is extensive, containing such elements as air pollution control regulations, emission inventories, monitoring networks, attainment demonstrations, and enforcement mechanisms.

B. How the EPA Enforces SIPs

Each State must formally adopt the control measures and strategies to attain and maintain the NAAQS after the public has had an opportunity to comment on them. They are then submitted to the EPA as requested SIP revisions upon which the EPA must formally act. Once these control measures and strategies are approved by the EPA, after notice and comment rulemaking, they are incorporated into the federally approved SIP and are identified in part 52 (Approval and Promulgation of Implementation Plans), title 40 of the Code of Federal Regulations (40 CFR part 52). The EPA uses the process of incorporation by reference (IBR) to incorporate material into the CFR by referencing the original document(s) without publishing the full text of the material. The actual State regulations approved by the EPA are not reproduced in their entirety in 40 CFR part 52 but are “incorporated by reference,” which means that the EPA has approved a given State regulation with a specific effective date. This format allows both the EPA and the public to know which measures are contained in a given SIP and to help determine whether the State is enforcing the regulations. This format also assists the EPA and the public in taking enforcement action, should a State not enforce its SIP-approved regulations.

C. How the State and the EPA Update the SIP

The SIP is a dynamic document, which the State can revise as necessary to address the unique air pollution problems in the State. Therefore, the EPA must periodically take action on State SIP revisions containing new and/or revised regulations and other materials in order to make them part of the federally-approved SIP. The EPA establishes a docket for its actions using a unique Docket Identification Number, which is listed in each action. These dockets and the complete submissions are available for viewing on https://www.regulations.gov.

On May 22, 1997 (62 FR 27968), the EPA revised the formatting procedures for incorporating by reference federally-approved SIP revisions, as a result of consultations between the EPA and the Office of the Federal Register. These procedures include: (1) a revised SIP document for each State that would use the IBR process under the provisions of title 1 CFR part 51; (2) a revised mechanism for announcing the EPA's approval of revisions to an applicable SIP and updating both the document that has gone through the IBR process and the CFR; and (3) a revised format of the “Identification of Plan” sections for each applicable subpart in 40 CFR part 52 to reflect these revised IBR procedures. The description of the revised SIP document, IBR procedures, and “Identification of plan” format are discussed in further detail in the May 22, 1997 Federal Register document. We have taken action to revise the format for many State SIPs, see, e.g., 40 CFR 52.1470 and 52.1490 (“Identification of plan” and “Original identification of plan” sections for the State of Nevada SIP), and take a fourth step today toward revising the format of the California SIP.

D. How the EPA Compiles the SIPs

Under the revised SIP format, the federally-approved regulations, source-specific requirements, and nonregulatory provisions (entirely or portions of) submitted by each State agency have been compiled by the EPA into a “SIP compilation.” The SIP compilation contains the regulations, source-specific requirements, and nonregulatory and quasi-regulatory provisions approved by the EPA through previous rulemaking actions published in the Federal Register.

E. How the EPA Organizes the SIP Compilation

Each compilation contains three parts. Part one contains the regulations, part two contains the source-specific requirements, and part three contains the nonregulatory and quasi-regulatory provisions that have been approved by EPA as part of the SIP. Each part consists of a table or tables of identifying information for each SIP-approved regulation, each SIP-approved source-specific requirement, and each nonregulatory or quasi-regulatory SIP provision. The EPA Regional Offices have the primary responsibility for updating the compilations and ensuring their accuracy.

F. Where You Can Find a Copy of the SIP Compilation

EPA Region IX has developed and will maintain the SIP compilation for California. A copy of the full text of California's regulatory and source-specific SIP compilation will also be maintained at NARA.

G. The Format of the California Identification of Plan Sections

Given the size of the California SIP, the EPA is revising the format of the California SIP in a phased manner. On May 26, 2016 (81 FR 33397), the EPA took the first action to revise the format of the “Identification of plan” section in subpart F in accordance with the revised format described in Section I.C. of this document. Through the first action, we revised the heading of § 52.220 to read “Identification of plan—in part” and added an introductory paragraph to convey our division of the California “Identification of plan” section into two sections:

• Amended § 52.220 (renamed “Identification of plan—in part”), which would continue for the time being to function as it has in the past to list past and newly-approved air district rules, local ordinances, source-specific requirements, and nonregulatory and quasi-regulatory provisions and which lists State statutes and State regulations approved on or prior to April 1, 2016; and

• New § 52.220a (“Identification of plan—in part”), which lists the State statutes and State regulations approved as part of the California SIP as of April 1, 2016, using the new table format.

This meant that subsequent EPA approvals of air district rules, local ordinances, source-specific requirements, and nonregulatory and quasi-regulatory provisions would continue to be promulgated in 40 CFR 52.220 using the paragraph format whereas subsequent EPA approvals of State statutes and State regulations would be promulgated in 40 CFR 52.220a using the table format. In preparation for future actions to revise the format of the remaining portions of the California SIP, the May 26, 2016 action also organized 40 CFR 52.220a into five paragraphs: (a) Purpose and scope; (b) Incorporation by reference; (c) EPA-approved regulations; (d) EPA-approved source-specific requirements; and (e) EPA-approved nonregulatory provisions and quasi-regulatory measures. “Nonregulatory provisions and quasi-regulatory measures” refers to items such as transportation control measures, certain nonregulatory statutory provisions, control strategies, and monitoring networks.

Our phased approach to converting the format of the California SIP anticipated that, over time, as the EPA completes further rulemaking actions to convert the format of the California SIP, § 52.220a would include a growing number of air district rules, local ordinances, source-specific requirements, and nonregulatory and quasi-regulatory provisions. Once the conversion process is completed, the EPA will redesignate § 52.220a as § 52.220 and rename it simply “Identification of plan.” At that point, all subsequent actions by the EPA to approve California SIP revisions will be promulgated using the new table format. The revised format does not affect Federal enforceability of the SIP and is consistent with the requirements of section 110(h)(1) of the Clean Air Act (CAA) concerning comprehensive SIP publication.

On June 4, 2025 (90 FR 23618), the EPA took a second action to revise the format of the California SIP by converting the format for local ordinances and air district rules approved on or prior to April 17, 2025, for the following air districts: Amador Air District, Antelope Valley Air Quality Management District (AQMD), Bay Area AQMD, Butte County AQMD, Calaveras County Air Pollution Control District (APCD), Colusa County APCD, Eastern Kern APCD, and El Dorado County AQMD. A third action was taken on July 7, 2025, (90 FR 29934) that converted the format for the nonregulatory provisions and quasi-regulatory measures portion of the California SIP.

In this fourth action to revise the format of the California SIP, we are converting the format and publishing the tables listing EPA-approved source-specific requirements as well as EPA-approved rules adopted by the following 21 California air districts: Feather River AQMD, Glenn County APCD, Great Basin Unified APCD, Imperial County APCD, Lake County AQMD, Lassen County APCD, Mariposa County APCD, Mendocino County AQMD, Modoc County APCD, Monterey Bay Air Resources District, North Coast Unified AQMD, Northern Sierra AQMD, Northern Sonoma County APCD, San Diego County APCD, San Luis Obispo County APCD, Santa Barbara County APCD, Shasta County AQMD, Siskiyou County APCD, Tehama County APCD, Tuolumne County APCD, and Yolo-Solano County AQMD. This format revision involves materials approved on or before June 30, 2025, that are part of the current applicable SIP. All subsequent actions by the EPA to approve California SIP revisions related to source-specific requirements or these 21 air districts will be promulgated in 40 CFR 52.220a, paragraph (c) using the new table format. EPA approvals of rules from Mojave Desert AQMD, Placer County APCD, Sacramento Metropolitan AQMD, San Joaquin Valley Unified APCD, South Coast AQMD, and Ventura County APCD will continue to be promulgated in 40 CFR 52.220 using the paragraph format. The format for portions of the California SIP related to rules from these remaining air districts will be revised in future rulemaking actions.

H. When a SIP Revision Becomes Federally Enforceable

All revisions to the applicable SIP become federally enforceable as of the effective date of the revision to the applicable “Identification of plan” or “Identification of plan—in part” section found in each subpart of 40 CFR part 52. All future revisions to the relevant portion of the applicable SIP being converted to the new table format in this action become federally enforceable as of the effective date of the revisions to paragraph (c) or (d) of § 52.220a, in subpart F of 40 CFR part 52.

I. The Historical Record of SIP Revision Approvals

To facilitate enforcement of previously approved SIP provisions and provide a smooth transition to the new SIP processing system, the EPA will retain the “Identification of plan—in part” section for California appearing in 40 CFR 52.220 until the conversion process is completed. After the conversion of the entire California SIP is completed, the “Identification of plan—in part” section will be moved to 40 CFR 52.250 and renamed “Original identification of plan.” After an initial one or two-year period, the EPA will review its experience with the new SIP processing system and decide whether to retain the “Original identification of plan” section for some further period.

II. What the EPA Is Doing in This Action

In this action, the EPA is revising the format for portions of the applicable California SIP related to source-specific requirements and the rules from the following 21 air districts: Feather River AQMD, Glenn County APCD, Great Basin Unified APCD, Imperial County APCD, Lake County AQMD, Lassen County APCD, Mariposa County APCD, Mendocino County AQMD, Modoc County APCD, Monterey Bay Air Resources District, North Coast Unified AQMD, Northern Sierra AQMD, Northern Sonoma County APCD, San Diego County APCD, San Luis Obispo County APCD, Santa Barbara County APCD, Shasta County AQMD, Siskiyou County APCD, Tehama County APCD, Tuolumne County APCD, Yolo-Solano County AQMD. This format revision involves materials approved on or before June 30, 2025, that are part of the current applicable SIP.

This action constitutes a “housekeeping” exercise to ensure that all EPA-approved revisions to the State programs that have occurred are accurately reflected in 40 CFR part 52. The requirements that apply to States and that relate to SIPs and SIP revisions are set forth in the Clean Air Act and in the EPA's regulations at 40 CFR part 51. When the EPA receives a formal SIP revision request, the Agency must publish the proposed revision in the Federal Register and provide for public comment before approval.

The EPA has determined that this rule falls under the “good cause” exemption in section 553(b)(B) of the Administrative Procedure Act (APA), which, upon finding “good cause,” authorizes agencies to dispense with public participation and section 553(d)(3), which allows an agency to make a rule effective immediately, thereby avoiding the 30-day delayed effective date otherwise provided for in the APA. This action simply reformats and recodifies provisions that are already in effect as a matter of law in Federal and approved State programs. Under section 553 of the APA, an agency may find good cause where notice and public procedure are “impractical, unnecessary, or contrary to the public interest.” Public comment is “unnecessary” and “contrary to the public interest” for this action because the EPA is merely reformatting and recodifying existing law. Immediate notice in the CFR benefits the public by removing outdated citations and making the IBR format clearer and more user-friendly.

III. Incorporation by Reference

In this rule, the EPA is finalizing regulatory text that includes incorporation by reference. In accordance with requirements of 1 CFR 51.5, the EPA is reformatting the materials incorporated by reference in previous rulemakings on submittals of the California SIP and SIP revisions, as described in section II of this preamble. The EPA has made, and will continue to make, these documents generally available through www.regulations.gov and at the appropriate EPA office (see the ADDRESSES section of this preamble for more information).

IV. Statutory and Executive Order Reviews

A. General Requirements

This action does not impose additional requirements beyond those previously approved into the SIP and already imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not subject to Executive Order 13045 (62 FR 19885, April 23, 1997) because it is an administrative action related to State program approval;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply reformats and recodifies provisions that are already in effect as a matter of law in Federal and approved State programs. 5 U.S.C. 802(2). As stated previously, the EPA has made such a good cause finding, including the basis for that finding, and established an effective date of August 21, 2025. The EPA will submit a report containing this rule and other required information to the U.S. Senate, the U.S. House of Representatives, and the Comptroller General of the United States prior to publication of the rule in the Federal Register. This action is not a “major rule” as defined by 5 U.S.C. 804(2).

C. Petitions for Judicial Review

The EPA has also determined that the provisions of section 307(b)(1) of the CAA pertaining to petitions for judicial review are not applicable to this action. Prior EPA rulemaking actions for each individual component of the California SIP compilation had previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon oxides, Incorporation by reference, Intergovernmental relations, Lead, Nitrogen oxides, Ozone, Particulate matter, Reporting and recordkeeping requirements, Sulfur oxides, Volatile organic compounds.

Dated: August 7, 2025.
Joshua F.W. Cook,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by revising the introductory text to read as follows:

§ 52.220 Identification of plan—in part.

This section identifies the local and regional air district rules, local ordinances, source-specific requirements, and nonregulatory materials submitted by the State of California and approved as part of the California state implementation plan. This section also identifies California statutes and state regulations submitted by the State of California and approved as part of the California state implementation plan on or prior to April 1, 2016. New or amended California statutes and state regulations approved after April 1, 2016, are identified in § 52.220a. New or amended local ordinances approved after April 17, 2025, are identified in § 52.220a. New or amended air district rules approved after April 17, 2025, are identified in § 52.220a for the following air districts: Amador Air District, Antelope Valley Air Quality Management District, Bay Area Air Quality Management District, Butte County Air Quality Management District, Calaveras County Air Pollution Control District, Colusa County Air Pollution Control District, Eastern Kern Air Pollution Control District, and El Dorado County Air Quality Management District. New or amended nonregulatory materials approved after July 3, 2025, are identified in § 52.220a. New or amended source-specific requirements approved after June 30, 2025, are identified in § 52.220a. New or amended air district rules approved after June 30, 2025, are identified in § 52.220a for the following air districts: Feather River Air Quality Management District, Glenn County Air Pollution Control District, Great Basin Unified Air Pollution Control District, Imperial County Air Pollution Control District, Lake County Air Quality Management District, Lassen County Air Pollution Control District, Mariposa County Air Pollution Control District, Mendocino County Air Quality Management District, Modoc County Air Pollution Control District, Monterey Bay Air Resources District, North Coast Unified Air Quality Management District, Northern Sierra Air Quality Management District, Northern Sonoma County Air Pollution Control District, San Diego County Air Pollution Control District, San Luis Obispo County Air Pollution Control District, Santa Barbara County Air Pollution Control District, Shasta County Air Quality Management District, Siskiyou County Air Pollution Control District, Tehama County Air Pollution Control District, Tuolumne County Air Pollution Control District, and Yolo-Solano County Air Quality Management District.

* * * * *

3. Section 52.220a is amended by:

a. Adding paragraphs (b)(1)(xii) through (xxxviii);

b. Revising tables 12 through 38 to paragraph (c);

c. Removing table 39 to paragraph (c); and

d. Adding paragraph (d).

The additions and revisions read as follows:

§ 52.220a Identification of plan—in part.

(b) * * *

(1) * * *

(xii) EPA-Approved Feather River Air Quality Management District Regulations; Sutter County Air Pollution Control District Regulations; Yuba County Air Pollution Control District Regulations. Material listed in Table 12 to paragraph (c) of this section was approved by EPA for inclusion in the SIP on June 30, 2025.

(xiii) EPA-Approved Glenn County Air Pollution Control District Regulations. Material listed in Table 13 to paragraph (c) of this section was approved by EPA for inclusion in the SIP on June 30, 2025.

(xiv) EPA-Approved Great Basin Unified Air Pollution Control District Regulations. Material listed in Table 14 to paragraph (c) of this section was approved by EPA for inclusion in the SIP on June 30, 2025.

(xv) EPA-Approved Imperial County Air Pollution Control District Regulations. Material listed in Table 15 to paragraph (c) of this section was approved by EPA for inclusion in the SIP on June 30, 2025.

(xvi) EPA-Approved Lake County Air Quality Management District Regulations. Material listed in Table 16 to paragraph (c) of this section was approved by EPA for inclusion in the SIP on June 30, 2025.

(xvii) EPA-Approved Lassen County Air Pollution Control District Regulations. Material listed in Table 17 to paragraph (c) of this section was approved by EPA for inclusion in the SIP on June 30, 2025.

(xviii) EPA-Approved Mariposa County Air Pollution Control District Regulations. Material listed in Table 18 to paragraph (c) of this section was approved by EPA for inclusion in the SIP on June 30, 2025.

(xix) EPA-Approved Mendocino County Air Pollution Control District Regulations. Material listed in Table 19 to paragraph (c) of this section was approved by EPA for inclusion in the SIP on June 30, 2025.

(xx) EPA-Approved Modoc County Air Pollution Control District Regulations. Material listed in Table 20 to paragraph (c) of this section was approved by EPA for inclusion in the SIP on June 30, 2025.

(xxi) EPA-Approved Mojave Desert Air Quality Management District Regulations (District-Wide, Riverside County Portion of District, And San Bernardino County Portion of District). Reserved.

(xxii) EPA-Approved Monterey Bay Air Resources District Regulations. Material listed in Table 22 to paragraph (c) of this section was approved by EPA for inclusion in the SIP on June 30, 2025.

(xxiii) EPA-Approved North Coast Unified Air Quality Management District Regulations; Del Norte County Air Pollution Control District Regulations; Humboldt County Air Pollution Control District Regulations; Trinity County Air Pollution Control District Regulations. Material listed in Table 23 to paragraph (c) of this section was approved by EPA for inclusion in the SIP on June 30, 2025.

(xxiv) EPA-Approved Northern Sierra Air Quality Management District Regulations; Nevada County Air Pollution Control District Regulations; Plumas County Air Pollution Control District Regulations; Sierra County Air Pollution Control District Regulations. Material listed in Table 24 to paragraph (c) of this section was approved by EPA for inclusion in the SIP on June 30, 2025.

(xxv) EPA-Approved Northern Sonoma County Air Pollution Control District Regulations. Material listed in Table 25 to paragraph (c) of this section was approved by EPA for inclusion in the SIP on June 30, 2025.

(xxvi) EPA-Approved Placer County Air Pollution Control District Regulations. Reserved.

(xxvii) EPA-Approved Sacramento Metropolitan Air Quality Management District Regulations. Reserved.

(xxviii) EPA-Approved San Diego County Air Pollution Control District Regulations. Material listed in Table 28 to paragraph (c) of this section was approved by EPA for inclusion in the SIP on June 30, 2025.

(xxix) EPA-Approved San Joaquin Valley Unified Air Pollution Control District Regulations; Fresno County Air Pollution Control District Regulations; Kern County Air Pollution Control District Regulations; Kings County Air Pollution Control District Regulations; Madera County Air Pollution Control District Regulations; Merced County Air Pollution Control District Regulations; San Joaquin County Air Pollution Control District Regulations; Stanislaus County Air Pollution Control District Regulations; Tulare County Air Pollution Control District Regulations. Reserved.

(xxx) EPA-Approved San Luis Obispo County Air Pollution Control District Regulations. Material listed in Table 30 to paragraph (c) of this section was approved by EPA for inclusion in the SIP on June 30, 2025.

(xxxi) EPA-Approved Santa Barbara County Air Pollution Control District Regulations. Material listed in Table 31 to paragraph (c) of this section was approved by EPA for inclusion in the SIP on June 30, 2025.

(xxxii) EPA-Approved Shasta County Air Quality Management District Regulations. Material listed in Table 32 to paragraph (c) of this section was approved by EPA for inclusion in the SIP on June 30, 2025.

(xxxiii) EPA-Approved Siskiyou County Air Pollution Control District Regulations. Material listed in Table 33 to paragraph (c) of this section was approved by EPA for inclusion in the SIP on June 30, 2025.

(xxxiv) EPA-Approved South Coast Air Quality Management District Regulations; Los Angeles County Air Pollution Control District Regulations; Orange County Air Pollution Control District Regulations; Riverside County Air Pollution Control District Regulations; San Bernardino County Air Pollution Control District Regulations. Reserved.

(xxxv) EPA-Approved Tehama County Air Pollution Control District Regulations. Material listed in Table 35 to paragraph (c) of this section was approved by EPA for inclusion in the SIP on June 30, 2025.

(xxxvi) EPA-Approved Tuolumne County Air Pollution Control District Regulations. Material listed in Table 36 to paragraph (c) of this section was approved by EPA for inclusion in the SIP on June 30, 2025.

(xxxvii) EPA-Approved Ventura County Air Pollution Control District Regulations. Reserved.

(xxxviii) EPA-Approved Yolo-Solano Air Quality Management District Regulations. Material listed in Table 38 to paragraph (c) of this section was approved by EPA for inclusion in the SIP on June 30, 2025.

* * * * *

(c) * * *

* * * * *

Table 12—EPA-Approved Feather River Air Quality Management District Regulations; Sutter County Air Pollution Control District Regulations; Yuba County Air Pollution Control District Regulations
District citation | Title/subject | State effective date | EPA approval date | Additional explanation
RULES AND REGULATIONS (DISTRICT-WIDE APPLICABILITY)
Regulation II—Open Burning
2.0 | Open Burning | October 6, 2008 | December 16, 2014, 79 FR 74647 | Submitted on August 15, 2014. See 40 CFR 52.220(c)(448)(i)(A)(1).
Regulation III—Prohibition—Stationary Emission Sources
3.0 | Visible Emissions | August 12, 1991 | March 19, 2025, 90 FR 12688 | Submitted electronically on May 11, 2023, as an attachment to a letter dated May 10, 2023. See 40 CFR 52.220(c)(610)(i)(E)(1).
3.1, excluding paragraph D | Exceptions to Rule 3.0 | August 12, 1991 | March 19, 2025, 90 FR 12688 | Submitted electronically on May 11, 2023, as an attachment to a letter dated May 10, 2023. See 40 CFR 52.220(c)(610)(i)(E)(2).
3.2 | Particulate Matter Concentration | August 12, 1991 | March 19, 2025, 90 FR 12688 | Submitted electronically on May 11, 2023, as an attachment to a letter dated May 10, 2023. See 40 CFR 52.220(c)(610)(i)(E)(3).
3.3 | Dust and Fumes | August 12, 1991 | March 19, 2025, 90 FR 12688 | Submitted electronically on May 11, 2023, as an attachment to a letter dated May 10, 2023. See 40 CFR 52.220(c)(610)(i)(E)(4).
3.4 | Separation of Emissions | August 12, 1991 | March 19, 2025, 90 FR 12688 | Submitted electronically on May 11, 2023, as an attachment to a letter dated May 10, 2023. See 40 CFR 52.220(c)(610)(i)(E)(5).
3.5 | Combination of Emissions | August 12, 1991 | March 19, 2025, 90 FR 12688 | Submitted electronically on May 11, 2023, as an attachment to a letter dated May 10, 2023. See 40 CFR 52.220(c)(610)(i)(E)(6).
3.6 | Abrasive Blasting | August 12, 1991 | March 19, 2025, 90 FR 12688 | Submitted electronically on May 11, 2023, as an attachment to a letter dated May 10, 2023. See 40 CFR 52.220(c)(610)(i)(E)(7).
3.7 | Reduction of Animal Matter | August 12, 1991 | March 19, 2025, 90 FR 12688 | Submitted electronically on May 11, 2023, as an attachment to a letter dated May 10, 2023. See 40 CFR 52.220(c)(610)(i)(E)(8).
3.8 | Gasoline Dispensing Facilities | June 2, 2014 | July 8, 2015, 80 FR 38959 | Submitted on November 6, 2014. See 40 CFR 52.220(c)(457)(i)(A)(3).
3.10 | Sulfur Oxides | August 12, 1991 | March 19, 2025, 90 FR 12688 | Submitted electronically on May 11, 2023, as an attachment to a letter dated May 10, 2023. See 40 CFR 52.220(c)(610)(i)(E)(9).
3.13 | Circumvention | August 12, 1991 | March 19, 2025, 90 FR 12688 | Submitted electronically on May 11, 2023, as an attachment to a letter dated May 10, 2023. See 40 CFR 52.220(c)(610)(i)(E)(10).
3.14 | Surface Preparation and Clean-Up | August 1, 2016 | April 26, 2021, 86 FR 21941 | Submitted on January 24, 2017. See 40 CFR 52.220(c)(497)(i)(E)(2).
3.15 | Architectural Coatings | August 4, 2014 | December 8, 2015, 80 FR 76222 | Submitted on November 6, 2014. See 40 CFR 52.220(c)(457)(i)(A)(5).
3.17, except specific provisions of subsections E.8, F.2 and F.4 | Wood Heating Devices | October 5, 2009 | December 16, 2014, 79 FR 74647 | Submitted on July 25, 2014. See 40 CFR 52.220(c)(447)(i)(A)(1).
3.19 | Vehicle and Mobile Equipment Coating Operations | August 1, 2016 | September 16, 2020, 85 FR 57712 | Submitted on January 24, 2017. See 40 CFR 52.220(c)(497)(i)(E)(1).
3.20 | Wood Products Coating Operations | August 1, 2011 | April 23, 2015, 80 FR 22646 | Submitted on February 10, 2014. See 40 CFR 52.220(c)(442)(i)(E)(2).
3.21 | Industrial, Institutional, and Commercial Boilers, Steam Generators, and Process Heaters | June 5, 2006 | April 23, 2015, 80 FR 22646 | Submitted on February 10, 2014. See 40 CFR 52.220(c)(442)(i)(E)(3).
3.22 | Stationary Internal Combustion Engines | October 6, 2014 | April 23, 2015, 80 FR 22646 | Submitted on November 6, 2014. See 40 CFR 52.220(c)(457)(i)(A)(2).
3.23 | Natural Gas-Fired Water Heaters, Small Boilers, and Process Heaters | October 3, 2016 | December 26, 2018, 83 FR 66136 | Submitted on May 8, 2017. See 40 CFR 52.220(c)(509)(i)(B)(1).
Regulation IV—Stationary Emission Sources Permit System and Registration
4.8 | Further Information | August 3, 2020 | July 29, 2022, 87 FR 45657 | Submitted on December 15, 2020 as an attachment to a letter dated December 14, 2020. See 40 CFR 52.220(c)(576)(i)(A)(1).
Regulation VII—Fees
7.15 | Clean Air Act Nonattainment Fees | April 4, 2022 | December 31, 2024, 89 FR 107012 | Submitted on July 5, 2022. See 40 CFR 52.220(c)(607)(i)(C)(1).
Regulation IX—Enforcement Procedures
9.6 | Equipment Breakdown | August 12, 1991 | March 19, 2025, 90 FR 12688 | Submitted electronically on May 11, 2023, as an attachment to a letter dated May 10, 2023. See 40 CFR 52.220(c)(610)(i)(E)(11).
Regulation X—New Source Review
10.1 | New Source Review | October 6, 2014 | October 5, 2015, 80 FR 60047 | Submitted on November 6, 2014. See 40 CFR 52.220(c)(457)(i)(A)(4).
10.4 | General Conformity | November 7, 1994 | April 23, 1999, 64 FR 19916 | Submitted on December 22, 1994. See 40 CFR 52.220(c)(210)(i)(F)(1).
10.9 | Rice Straw Emission Reduction Credits and Banking | October 6, 2014 | April 23, 2015, 80 FR 22646 | Submitted on November 6, 2014. See 40 CFR 52.220(c)(457)(i)(A)(1).
10.10, except for the incorporation by reference of 40 CFR 52.21(b)(49)(v) into sections B and F.1 | Prevention of Significant Deterioration | August 1, 2011 | November 12, 2015, 80 FR 69880 | Submitted on April 22, 2013. See 40 CFR 52.220(c)(429)(i)(D)(1). EPA also approved as part of the SIP a letter dated December 18, 2014 from Christopher D. Brown, Feather River Air Quality Management District, to Gerardo Rios, EPA Region IX clarifying District Rule 10.11 and 40 CFR 51.166. See 40 CFR 52.220(c)(429)(ii)(A)(1).
RULES AND REGULATIONS (SUTTER COUNTY PORTION OF DISTRICT)
Regulation I—General Provisions
1.0 | Title | December 16, 1980 | April 12, 1982, 47 FR 15585 | Submitted on January 28, 1981. See 40 CFR 52.220(c)(98)(i)(B).
1.1 | Definitions | December 16, 1980 | April 12, 1982, 47 FR 15585 | Submitted on January 28, 1981. See 40 CFR 52.220(c)(98)(i)(B).
1.2 | Validity | December 16, 1980 | April 12, 1982, 47 FR 15585 | Submitted on January 28, 1981. See 40 CFR 52.220(c)(98)(i)(B).
1.3 | Effective Date | December 16, 1980 | April 12, 1982, 47 FR 15585 | Submitted on January 28, 1981. See 40 CFR 52.220(c)(98)(i)(B).
1.3 | Public Records | February 19, 1974 | February 10, 1977, 42 FR 8376 | Submitted on July 19, 1974. See 40 CFR 52.220(c)(24)(i)(A).
Regulation III—Prohibitions—Stationary Emission Sources
3.9 | Incinerator Burning | December 16, 1980 | April 12, 1982, 47 FR 15585 | Submitted on January 28, 1981. See 40 CFR 52.220(c)(98)(i)(B).
3.12 | Organic Solvents | December 16, 1980 | April 12, 1982, 47 FR 15585 | Submitted on January 28, 1981. See 40 CFR 52.220(c)(98)(i)(B).
Regulation IV—Stationary Emission Sources Permit Systems and Registration
4.0 | General Requirements | December 16, 1980 | April 12, 1982, 47 FR 15585 | Submitted on January 28, 1981. See 40 CFR 52.220(c)(98)(i)(B).
4.1 | Permits Required | December 16, 1980 | April 12, 1982, 47 FR 15585 | Submitted on January 28, 1981. See 40 CFR 52.220(c)(98)(i)(B).
4.1 | Prohibitions Under State Law | May 4, 1970 | May 31, 1972, 37 FR 10842 | Submitted on February 21, 1972. See 40 CFR 52.220(b).
4.2 | Existing Emission Sources | December 16, 1980 | April 12, 1982, 47 FR 15585 | Submitted on January 28, 1981. See 40 CFR 52.220(c)(98)(i)(B).
4.3 | Exemptions from Permit | December 16, 1980 | April 12, 1982, 47 FR 15585 | Submitted on January 28, 1981. See 40 CFR 52.220(c)(98)(i)(B).
4.4 | Standards for Granting Applications | December 16, 1980 | April 12, 1982, 47 FR 15585 | Submitted on January 28, 1981. See 40 CFR 52.220(c)(98)(i)(B).
4.5 | Conditional Approval | December 16, 1980 | April 12, 1982, 47 FR 15585 | Submitted on January 28, 1981. See 40 CFR 52.220(c)(98)(i)(B).
4.12 | Implementation Plans | December 16, 1980 | April 12, 1982, 47 FR 15585 | Submitted on January 28, 1981. See 40 CFR 52.220(c)(98)(i)(B).
4.13 | Alteration of Permit | December 16, 1980 | April 12, 1982, 47 FR 15585 | Submitted on January 28, 1981. See 40 CFR 52.220(c)(98)(i)(B).
4.14 | Posting of Permit | December 16, 1980 | April 12, 1982, 47 FR 15585 | Submitted on January 28, 1981. See 40 CFR 52.220(c)(98)(i)(B).
4.15 | Transfer of Permit | December 16, 1980 | April 12, 1982, 47 FR 15585 | Submitted on January 28, 1981. See 40 CFR 52.220(c)(98)(i)(B).
Regulation IX—Enforcement Procedures
9.5 | Air Pollution Equipment—Scheduled Maintenance | December 16, 1980 | April 12, 1982, 47 FR 15585 | Submitted on January 28, 1981. See 40 CFR 52.220(c)(98)(i)(B).
RULES AND REGULATIONS (YUBA COUNTY PORTION OF DISTRICT)
Regulation I—General Provisions
1 | Title | January 30, 1979 | January 26, 1982, 47 FR 3550 | Submitted on October 15, 1979. See 40 CFR 52.220(c)(52)(xvi)(A).
1.1 | Definitions | March 5, 1985 | April 17, 1987, 52 FR 12522 | Submitted on October 16, 1985. See 40 CFR 52.220(c)(164)(i)(D)(1).
1.2 | Validity | October 13, 1971 | September 22, 1972, 37 FR 19812 | Submitted on June 30, 1972. See 40 CFR 52.220(c)(6).
1.3 | Effective Date | July 24, 1980 | April 12, 1982, 47 FR 15585 | Submitted on March 30, 1981. See 40 CFR 52.220(c)(89)(iii)(B).
Regulation II—Prohibitions
2.2 | Emission Control for Used Motor Vehicles | May 2, 1972 | May 11, 1977, 42 FR 23803; corrected on August 22, 1977, 42 FR 42219 | Submitted on July 25, 1973. See 40 CFR 52.220(c)(21)(viii)(A).
Regulation III—Prohibition—Stationary Emission Sources
3.9 | Storage of Petroleum Products | June 14, 1983 | October 3, 1984, 49 FR 39057 | Submitted on August 2, 1983. See 40 CFR 52.220(c)(150)(ii)(A).
3.12 | Organic Solvents | July 24, 1980 | May 3, 1982, 47 FR 18852 | Submitted on March 30, 1981. See 40 CFR 52.220(c)(89)(iii)(A).
Regulation IV—Stationary Emission Sources Permit System and Registration
4.0 | General Requirements | July 24, 1980 | April 12, 1982, 47 FR 15585 | Submitted on March 30, 1981. See 40 CFR 52.220(c)(89)(iii)(B).
4.1 | Permits Required | July 24, 1980 | April 12, 1982, 47 FR 15585 | Submitted on March 30, 1981. See 40 CFR 52.220(c)(89)(iii)(B).
4.2 | Existing Emission Sources | July 24, 1980 | April 12, 1982, 47 FR 15585 | Submitted on March 30, 1981. See 40 CFR 52.220(c)(89)(iii)(B).
4.3 | Exemptions from Permit and Registration | July 24, 1980 | April 12, 1982, 47 FR 15585 | Submitted on March 30, 1981. See 40 CFR 52.220(c)(89)(iii)(B).
4.4 | Standards for Granting Applications | July 24, 1980 | April 12, 1982, 47 FR 15585 | Submitted on March 30, 1981. See 40 CFR 52.220(c)(89)(iii)(B).
4.5 | Conditional Approval | July 24, 1980 | April 12, 1982, 47 FR 15585 | Submitted on March 30, 1981. See 40 CFR 52.220(c)(89)(iii)(B).
4.12 | Implementation Plans | July 24, 1980 | April 12, 1982, 47 FR 15585 | Submitted on March 30, 1981. See 40 CFR 52.220(c)(89)(iii)(B).
Regulation IX—Enforcement Procedures
9.5 | Air Pollution Equipment—Scheduled Maintenance | July 24, 1980 | April 12, 1982, 47 FR 15585 | Submitted on March 30, 1981. See 40 CFR 52.220(c)(89)(iii)(B).

Table 13—EPA-Approved Glenn County Air Pollution Control District Regulations
District citation | Title/subject | State effective date | EPA approval date | Additional explanation
Article I—General Provisions
1 | Title | March 28, 1972 | September 22, 1972, 37 FR 19812 | Submitted on June 30, 1972. See 40 CFR 52.220(c)(6).
2 (paragraph (y) only) | Definitions | March 28, 1972 | September 22, 1972, 37 FR 19812 | All of the definitions have been superseded except for “multi chamber incinerator.” Submitted on June 30, 1972. See 40 CFR 52.220(c)(6).
2 (paragraph (hh) only) | Definitions | May 30, 1972 | September 22, 1972, 37 FR 19812 | CARB added this definition (“source operation”) to the Glenn County air pollution rulebook per Resolution 72-59. Submitted on June 30, 1972. See 40 CFR 52.220(c)(6).
2 | Definitions | August 31, 1974 | May 11, 1977, 42 FR 23803; corrected on August 22, 1977, 42 FR 42219 | Includes 43 defined terms. Submitted on January 10, 1975. See 40 CFR 52.220(c)(26)(iv)(A).
2 (paragraphs (a), (i), (v), and (aa) only) | Definitions | April 15, 1980 | January 26, 1982, 47 FR 3549 | The definitions that were approved include those for “agricultural burning,” “brush treated,” “garbage,” and “bulk storage plant.” Submitted on November 3, 1980. See 40 CFR 52.220(c)(96)(iii)(A).
4 | Validity | March 28, 1972 | September 22, 1972, 37 FR 19812 | Submitted on June 30, 1972. See 40 CFR 52.220(c)(6).
5 | Effective Date | March 28, 1972 | September 22, 1972, 37 FR 19812 | Submitted on June 30, 1972. See 40 CFR 52.220(c)(6).
Article II—Agricultural Burning
10 | Agricultural Burning Permits | August 31, 1974 | May 11, 1977, 42 FR 23803; corrected on August 22, 1977, 42 FR 42219 | Submitted on January 10, 1975. See 40 CFR 52.220(c)(26)(iv)(A).
11 | Reporting-Recording | April 15, 1980 | January 26, 1982, 47 FR 3549 | Submitted on November 3, 1980. See 40 CFR 52.220(c)(96)(iii)(A).
11.1 | Agricultural Waste Burning Restrictions | April 15, 1980 | January 26, 1982, 47 FR 3549 | Submitted on November 3, 1980. See 40 CFR 52.220(c)(96)(iii)(A).
11.2 | No title [field crop acreage harvested prior to September 10th—specific requirements] | April 15, 1980 | January 26, 1982, 47 FR 3549 | Submitted on November 3, 1980. See 40 CFR 52.220(c)(96)(iii)(A).
12 | Hours of Burning | August 31, 1974 | May 11, 1977, 42 FR 23803; corrected on August 22, 1977, 42 FR 42219 | Submitted on January 10, 1975. See 40 CFR 52.220(c)(26)(iv)(A).
13 | No-Burn Days | April 15, 1980 | January 26, 1982, 47 FR 3549 | Submitted on November 3, 1980. See 40 CFR 52.220(c)(96)(iii)(A).
13.1 | Restricted Burn and Quota Burn Day | April 15, 1980 | January 26, 1982, 47 FR 3549 | Submitted on November 3, 1980. See 40 CFR 52.220(c)(96)(iii)(A).
14 | Preparation of Material to be Burned | April 15, 1980 | January 26, 1982, 47 FR 3549 | Submitted on November 3, 1980. See 40 CFR 52.220(c)(96)(iii)(A).
14.1 | Range Improvement Burning | April 15, 1980 | January 26, 1982, 47 FR 3549 | Submitted on November 3, 1980. See 40 CFR 52.220(c)(96)(iii)(A).
14.2 | Forest Management Burning | April 15, 1980 | January 26, 1982, 47 FR 3549 | Submitted on November 3, 1980. See 40 CFR 52.220(c)(96)(iii)(A).
14.3 | Rice Straw Burning | April 15, 1980 | January 26, 1982, 47 FR 3549 | Submitted on November 3, 1980. See 40 CFR 52.220(c)(96)(iii)(A).
15 | Acreage Limitation | April 15, 1980 | January 26, 1982, 47 FR 3549 | Submitted on November 3, 1980. See 40 CFR 52.220(c)(96)(iii)(A).
16 | Exceptions | April 15, 1980 | January 26, 1982, 47 FR 3549 | Submitted on November 3, 1980. See 40 CFR 52.220(c)(96)(iii)(A).
17 | Tires | August 31, 1974 | May 11, 1977, 42 FR 23803; corrected on August 22, 1977, 42 FR 42219 | Submitted on January 10, 1975. See 40 CFR 52.220(c)(26)(iv)(A).
18 | Fire Prevention | March 28, 1972 | September 22, 1972, 37 FR 19812 | Submitted on June 30, 1972. See 40 CFR 52.220(c)(6).
19 | Burning on No-Burn Days | April 15, 1980 | January 26, 1982, 47 FR 3549 | Submitted on November 3, 1980. See 40 CFR 52.220(c)(96)(iii)(A).
20 | Orchard Heaters | March 28, 1972 | September 22, 1972, 37 FR 19812 | Submitted on June 30, 1972. See 40 CFR 52.220(c)(6).
21 | Fire Permit Districts | April 15, 1980 | January 26, 1982, 47 FR 3549 | Submitted on November 3, 1980. See 40 CFR 52.220(c)(96)(iii)(A).
21.1 | No title [no agricultural burning permit issued without District input] | April 15, 1980 | January 26, 1982, 47 FR 3549 | Submitted on November 3, 1980. See 40 CFR 52.220(c)(96)(iii)(A).
22 | Permit Form | April 15, 1980 | January 26, 1982, 47 FR 3549 | Submitted on November 3, 1980. See 40 CFR 52.220(c)(96)(iii)(A).
23 | No title [authority to cancel or alter agricultural burning permit conditions if necessary] | March 28, 1972 | September 22, 1972, 37 FR 19812 | Submitted on June 30, 1972. See 40 CFR 52.220(c)(6).
24 | No title [no post-harvest waste agricultural burning] | August 31, 1974 | May 11, 1977, 42 FR 23803; corrected on August 22, 1977, 42 FR 42219 | Submitted on January 10, 1975. See 40 CFR 52.220(c)(26)(iv)(A).
Article III—Construction Authorization and Registration
50 | Authorization to Construct | March 28, 1972 | September 22, 1972, 37 FR 19812 | Submitted on June 30, 1972. See 40 CFR 52.220(c)(6).
51 | New Source Review (NSR) | March 16, 1993 | November 4, 1996, 61 FR 56629 | Submitted on May 13, 1993. See 40 CFR 52.220(c)(193)(i)(D)(1).
51.1 | Standards for Granting Applications | February 13, 1980 | June 18, 1982, 47 FR 26379 | Adopted by CARB on February 13, 1980 through Executive Order G-103. Submitted on February 25, 1980. See 40 CFR 52.220(c)(54)(xi)(A).
51.2 | Conditional Approval | February 13, 1980 | June 18, 1982, 47 FR 26379 | Adopted by CARB on February 13, 1980 through Executive Order G-103. Submitted on February 25, 1980. See 40 CFR 52.220(c)(54)(xi)(A).
56 | Operation | March 28, 1972 | September 22, 1972, 37 FR 19812 | Submitted on June 30, 1972. See 40 CFR 52.220(c)(6).
57 | Public Information | August 31, 1974 | May 11, 1977, 42 FR 23803; corrected on August 22, 1977, 42 FR 42219 | Submitted on January 10, 1975. See 40 CFR 52.220(c)(26)(iv)(A).
58 | Exemptions | August 31, 1974 | May 11, 1977, 42 FR 23803; corrected on August 22, 1977, 42 FR 42219 | Submitted on January 10, 1975. See 40 CFR 52.220(c)(26)(iv)(A).
Article IV—Prohibitions
75 | Prohibitions under State Law | April 15, 1980 | January 26, 1982, 47 FR 3549 | Submitted on November 3, 1980. See 40 CFR 52.220(c)(96)(iii)(A).
76 | Visible Emissions | March 28, 1972 | September 22, 1972, 37 FR 19812 | Submitted on June 30, 1972. See 40 CFR 52.220(c)(6).
77 (excluding paragraph (e)) | Exceptions | March 28, 1972 | September 22, 1972, 37 FR 19812 | Submitted on June 30, 1972. See 40 CFR 52.220(c)(6). Paragraph (e) was disapproved at 43 FR 41037 (September 14, 1978
80 | Open Fires | March 28, 1972 | September 22, 1972, 37 FR 19812 | Submitted on June 30, 1972. See 40 CFR 52.220(c)(6).
81 | Exceptions | April 15, 1980 | January 26, 1982, 47 FR 3549 | Submitted on November 3, 1980. See 40 CFR 52.220(c)(96)(iii)(A).
82 | Burning of Garbage | April 30, 1977 | September 14, 1978, 43 FR 41036 | Submitted on November 4, 1977. See 40 CFR 52.220(c)(42)(viii)(A).
83 | Petroleum Storage and Dispensing | April 15, 1980 | January 26, 1982, 47 FR 3549 | Submitted on November 3, 1980. See 40 CFR 52.220(c)(96)(iii)(A).
83.1 | Service Stations and Bulk Storage Plants | April 15, 1980 | January 26, 1982, 47 FR 3549 | Submitted on November 3, 1980. See 40 CFR 52.220(c)(96)(iii)(A).
83.2 | Petroleum Solvents | April 15, 1980 | January 26, 1982, 47 FR 3549 | Submitted on November 3, 1980. See 40 CFR 52.220(c)(96)(iii)(A).
84 | Exception | March 28, 1972 | September 22, 1972, 37 FR 19812 | Submitted on June 30, 1972. See 40 CFR 52.220(c)(6).
85 | Particulate Matter Concentration | August 31, 1974 | May 11, 1977, 42 FR 23803; corrected on August 22, 1977, 42 FR 42219 | Submitted on January 10, 1975. See 40 CFR 52.220(c)(26)(iv)(A).
86 | Dust and Fumes Total Emissions | August 31, 1974 | May 11, 1977, 42 FR 23803; corrected on August 22, 1977, 42 FR 42219 | Submitted on January 10, 1975. See 40 CFR 52.220(c)(26)(iv)(A).
87 | Reduction of Animal Matter | March 28, 1972 | September 22, 1972, 37 FR 19812 | Submitted on June 30, 1972. See 40 CFR 52.220(c)(6).
88 | Exceptions | March 28, 1972 | September 22, 1972, 37 FR 19812 | Submitted on June 30, 1972. See 40 CFR 52.220(c)(6).
89 | Sulfur Oxides | March 28, 1972 | September 22, 1972, 37 FR 19812 | Submitted on June 30, 1972. See 40 CFR 52.220(c)(6).
90 | Reduced Sulfur Emissions Standards | March 28, 1972 | September 22, 1972, 37 FR 19812 | Submitted on June 30, 1972. See 40 CFR 52.220(c)(6).
91 | Incinerator Burning | March 28, 1972 | September 22, 1972, 37 FR 19812 | Submitted on June 30, 1972. See 40 CFR 52.220(c)(6).
93 | Circumvention | March 28, 1972 | September 22, 1972, 37 FR 19812 | Submitted on June 30, 1972. See 40 CFR 52.220(c)(6).
94 | Separation of Emissions | March 28, 1972 | September 22, 1972, 37 FR 19812 | Submitted on June 30, 1972. See 40 CFR 52.220(c)(6).
94.1 | Combination of Emissions | May 30, 1972 | September 22, 1972, 37 FR 19812 | CARB added this section to the Glenn County air pollution rulebook per Resolution 72-59. Submitted on June 30, 1972. See 40 CFR 52.220(c)(6).
95 | Analysis Required | March 28, 1972 | September 22, 1972, 37 FR 19812 | Submitted on June 30, 1972. See 40 CFR 52.220(c)(6).
95.1 | No title [records requirement for certain sources] | August 31, 1974 | May 11, 1977, 42 FR 23803; corrected on August 22, 1977, 42 FR 42219 | Submitted on January 10, 1975. See 40 CFR 52.220(c)(26)(iv)(A).

Table 14—EPA-Approved Great Basin Unified Air Pollution Control District Regulations
District citation | Title/subject | State effective date | EPA approval date | Additional explanation
Regulation I—General Provisions
100 | Title | March 11, 1976 | June 6, 1977, 42 FR 28883 | Submitted on April 21, 1976. See 40 CFR 52.220(c)(31)(i)(B).
101 | Definitions | September 24, 2003 | November 19, 2004, 69 FR 67645 | Submitted on November 4, 2003. See 40 CFR 52.220(c)(321)(i)(C)(1).
102 | Standard Conditions | March 11, 1976 | June 6, 1977, 42 FR 28883 | Submitted on April 21, 1976. See 40 CFR 52.220(c)(31)(i)(B).
103 | Effective Date | March 11, 1976 | June 6, 1977, 42 FR 28883 | Submitted on April 21, 1976. See 40 CFR 52.220(c)(31)(i)(B).
104 | Amendment Procedures | March 11, 1976 | June 6, 1977, 42 FR 28883 | Submitted on April 21, 1976. See 40 CFR 52.220(c)(31)(i)(B).
106 | Increments of Progress | March 11, 1976 | June 6, 1977, 42 FR 28883 | Submitted on April 21, 1976. See 40 CFR 52.220(c)(31)(i)(B).
Regulation II—Permits
200 | Permits Required | March 11, 1976 | December 8, 1976, 41 FR 53661 | Submitted on April 21, 1976. See 40 CFR 52.220(c)(31)(i)(A).
201 | Exemptions | January 23, 2006 | December 5, 2008, 73 FR 74029 | Submitted on June 16, 2006. See 40 CFR 52.220(c)(345)(i)(D)(1).
202 | Transfer | March 11, 1976 | December 8, 1976, 41 FR 53661 | Submitted on April 21, 1976. See 40 CFR 52.220(c)(31)(i)(A).
204 | Cancellation of Applications | March 11, 1976 | December 8, 1976, 41 FR 53661 | Submitted on April 21, 1976. See 40 CFR 52.220(c)(31)(i)(A).
205 | Action on Applications | August 20, 1979 | January 27, 1981, 46 FR 8471 | Submitted on December 17, 1979. See 40 CFR 52.220(c)(58)(iii)(A).
209-A | Standards for Authorities to Construct | June 25, 1979 | June 18, 1982, 47 FR 26379 | Submitted on December 17, 1979. See 40 CFR 52.220(c)(58)(iii)(B).
209-B | Standards for Permits to Operate | June 25, 1979 | June 18, 1982, 47 FR 26379 | Submitted on December 17, 1979. See 40 CFR 52.220(c)(58)(iii)(B).
210 | Conditional Approval | June 25, 1979 | January 27, 1981, 46 FR 8471 | Submitted on December 17, 1979. See 40 CFR 52.220(c)(58)(iii)(A).
213 | Implementation Plans | June 25, 1979 | June 18, 1982, 47 FR 26379 | Submitted on December 17, 1979. See 40 CFR 52.220(c)(58)(iii)(B).
213 | Applications Deemed Denied | March 11, 1976 | December 8, 1976, 41 FR 53661 | Submitted on April 21, 1976. See 40 CFR 52.220(c)(31)(i)(A).
215 | Public Availability of Emission Data | March 11, 1976 | June 6, 1977, 42 FR 28883 | Submitted on April 21, 1976. See 40 CFR 52.220(c)(31)(i)(B).
216 | New Source Review Requirements for Determining Impact on Air Quality | March 11, 1976 | December 8, 1976, 41 FR 53661 | Submitted on April 21, 1976. See 40 CFR 52.220(c)(31)(i)(A).
218 | Limiting Potential to Emit | December 4, 1995 | August 11, 2003, 68 FR 47482 | Submitted on May 10, 1996. See 40 CFR 52.220(c)(231)(i)(E)(1).
219 | Request for Synthetic Minor Status | December 4, 1995 | August 11, 2003, 68 FR 47482 | Submitted on May 10, 1996. See 40 CFR 52.220(c)(231)(i)(E)(1).
221 (except for the incorporation by reference of 40 CFR 52.21(b)(49)(v) into sections C. and D3) | Prevention of Significant Deterioration (PSD) Permit Requirements for New Major Facilities or Major Modifications in Attainment or Unclassifiable Areas | September 5, 2012 | November 12, 2015, 80 FR 69880 | Submitted on February 6, 2013. See 40 CFR 52.220(c)(428)(i)(E)(1). EPA also approved as part of the SIP letters dated November 13, 2014 from Theodore D. Schade, Great Basin Unified Air Pollution Control District, and April 15, 2015 from Phillip L. Kiddoo, Great Basin Unified Air Pollution Control District, to Gerardo Rios, EPA Region 9, regarding clarifications of District Rule 221 and 40 CFR 51.166. See 40 CFR 52.220(c)(428)(ii)(A)(1) and (2).
222 | New Source Review Requirements for New and Modified Major Sources in Nonattainment Areas | January 6, 2022 | December 21, 2023, 88 FR 88255 | Submitted on July 5, 2022. See 40 CFR 52.220(c)(607)(i)(A)(1).
Regulation IV—Prohibitions
400 | Ringlemann Chart | March 11, 1976 | June 6, 1977, 42 FR 28883 | Submitted on April 21, 1976. See 40 CFR 52.220(c)(31)(i)(B).
401 | Fugitive Dust | March 11, 1976 | June 6, 1977, 42 FR 28883 | Submitted on April 21, 1976. See 40 CFR 52.220(c)(31)(i)(B).
403 | Breakdown | June 25, 1979 | January 27, 1981, 46 FR 8471 | Submitted on December 17, 1979. See 40 CFR 52.220(c)(58)(iii)(A).
404 (excluding paragraphs (A) and (B)) | Particulate Matter | March 11, 1976 | June 6, 1977, 42 FR 28883 | Paragraphs (A) and (B) were superseded by approval of Rule 404-A. Paragraphs (C) and (D) relate to NOx concentration limits. Submitted on April 21, 1976. See 40 CFR 52.220(c)(31)(i)(B).
404-A | Particulate Matter | February 9, 1981 | April 13, 1982, 47 FR 15784 | Submitted on May 28, 1981. See 40 CFR 52.220(c)(92)(iv)(A).
405 | Exceptions | July 7, 2005 | October 31, 2007, 72 FR 61525 | Submitted on October 20, 2005. See 40 CFR 52.220(c)(342)(i)(D)(1).
406 | Open Outdoor Fires | September 24, 2003 | February 22, 2005, 70 FR 8516 | Submitted on November 4, 2003. See 40 CFR 52.220(c)(321)(i)(C)(2).
407 | Incinerator and Burn Barrel Burning | September 24, 2003 | February 22, 2005, 70 FR 8516 | Submitted on November 4, 2003. See 40 CFR 52.220(c)(321)(i)(C)(3).
408 | Burning of Agricultural Wastes | June 25, 1979 | January 27, 1981, 46 FR 8471 | Submitted on December 17, 1979. See 40 CFR 52.220(c)(58)(iii)(A).
409 | Range Improvement Burning | March 11, 1976 | June 6, 1977, 42 FR 28883 | Submitted on April 21, 1976. See 40 CFR 52.220(c)(31)(i)(B).
410 | Forest Management Burning | March 11, 1976 | June 6, 1977, 42 FR 28883 | Submitted on April 21, 1976. See 40 CFR 52.220(c)(31)(i)(B).
412 | Operation of Roofing Kettles | March 11, 1976 | June 6, 1977, 42 FR 28883 | Submitted on April 21, 1976. See 40 CFR 52.220(c)(31)(i)(B).
413 | Reduction of Animal Matter | March 11, 1976 | June 6, 1977, 42 FR 28883 | Submitted on April 21, 1976. See 40 CFR 52.220(c)(31)(i)(B).
416 | Sulfur Compounds and Nitrogen Oxides | March 11, 1976 | June 6, 1977, 42 FR 28883 | Submitted on April 21, 1976. See 40 CFR 52.220(c)(31)(i)(B).
417 | Organic Solvents | March 11, 1976 | June 6, 1977, 42 FR 28883 | Submitted on April 21, 1976. See 40 CFR 52.220(c)(31)(i)(B).
418 | Storage of Petroleum Products | March 11, 1976 | June 6, 1977, 42 FR 28883 | Submitted on April 21, 1976. See 40 CFR 52.220(c)(31)(i)(B).
419 | Gasoline Loading into Stationary Tanks | June 25, 1979 | January 27, 1981, 46 FR 8471 | Submitted on December 17, 1979. See 40 CFR 52.220(c)(58)(iii)(A).
420 | Organic Liquid Loading | March 11, 1976 | June 6, 1977, 42 FR 28883 | Submitted on April 21, 1976. See 40 CFR 52.220(c)(31)(i)(B).
421 | Intended Application of Rules and Regulations | March 11, 1976 | June 6, 1977, 42 FR 28883 | Submitted on April 21, 1976. See 40 CFR 52.220(c)(31)(i)(B).
423 | Research Operations | February 9, 1981 | April 13, 1982, 47 FR 15784 | Submitted on May 28, 1981. See 40 CFR 52.220(c)(92)(iv)(A).
424 | Geothermal Emissions Standards | February 9, 1981 | April 13, 1982, 47 FR 15784 | Submitted on May 28, 1981. See 40 CFR 52.220(c)(92)(iv)(A).
431 (excluding paragraphs (M) and (N)) | Particulate Emissions | May 5, 2014 | June 30, 2017, 82 FR 29762 | Submitted on November 6, 2014. See 40 CFR 52.220(c)(457)(i)(I)(1).
432 | Open Burn/Open Detonation Operations on Military Bases | May 8, 1996 | June 10, 2002, 67 FR 39616 | Submitted on March 10, 1998. See 40 CFR 52.220(c)(254)(i)(L)(1).
433 | Control of Particulate Emissions at Owens Lake | April 13, 2016 | December 28, 2016, 81 FR 95473 | Submitted on June 9, 2016. See 40 CFR 52.220(c)(483)(i)(A)(1).
Regulation V—Agricultural Operations
500 | Definition | March 11, 1976 | June 6, 1977, 42 FR 28883 | Submitted on April 21, 1976. See 40 CFR 52.220(c)(31)(i)(B).
501 | Orchard and Citrus Heaters | March 11, 1976 | June 6, 1977, 42 FR 28883 | Submitted on April 21, 1976. See 40 CFR 52.220(c)(31)(i)(B).
502 | Conservation Management Practices | July 7, 2005 | June 16, 2014, 79 FR 34240 | Submitted on October 20, 2005. See 40 CFR 52.220(c)(342)(i)(D)(2).
Regulation VII—Emergencies
701 | Air Pollution Episode Plan for Particulate Matter | March 3, 2014 | April 1, 2016, 81 FR 18766 | Submitted on June 2, 2014. See 40 CFR 52.220(c)(469)(i)(A)(1).
Regulation XIII—Conformity of General Federal Actions to State Implementation Plans
1301 | Purpose | October 5, 1994 | April 23, 1999, 64 FR 19916 | Submitted on November 30, 1994. See 40 CFR 52.220(c)(207)(i)(F)(1).
1302 | Definitions | October 5, 1994 | April 23, 1999, 64 FR 19916 | Submitted on November 30, 1994. See 40 CFR 52.220(c)(207)(i)(F)(1).
1303 | Applicability | October 5, 1994 | April 23, 1999, 64 FR 19916 | Submitted on November 30, 1994. See 40 CFR 52.220(c)(207)(i)(F)(1).
1304 | Conformity analysis | October 5, 1994 | April 23, 1999, 64 FR 19916 | Submitted on November 30, 1994. See 40 CFR 52.220(c)(207)(i)(F)(1).
1305 | Reporting requirements | October 5, 1994 | April 23, 1999, 64 FR 19916 | Submitted on November 30, 1994. See 40 CFR 52.220(c)(207)(i)(F)(1).
1306 | Public participation and consultation | October 5, 1994 | April 23, 1999, 64 FR 19916 | Submitted on November 30, 1994. See 40 CFR 52.220(c)(207)(i)(F)(1).
1307 | Frequency of conformity determinations | October 5, 1994 | April 23, 1999, 64 FR 19916 | Submitted on November 30, 1994. See 40 CFR 52.220(c)(207)(i)(F)(1).
1308 | Criteria for determining conformity of general Federal actions | October 5, 1994 | April 23, 1999, 64 FR 19916 | Submitted on November 30, 1994. See 40 CFR 52.220(c)(207)(i)(F)(1).
1309 | Procedures for conformity determinations of general Federal actions | October 5, 1994 | April 23, 1999, 64 FR 19916 | Submitted on November 30, 1994. See 40 CFR 52.220(c)(207)(i)(F)(1).
1310 | Mitigation of air quality impacts | October 5, 1994 | April 23, 1999, 64 FR 19916 | Submitted on November 30, 1994. See 40 CFR 52.220(c)(207)(i)(F)(1).
1311 | Savings provisions | October 5, 1994 | April 23, 1999, 64 FR 19916 | Submitted on November 30, 1994. See 40 CFR 52.220(c)(207)(i)(F)(1).
Orders Issued by the Governing Board of the Great Basin Unified Air Pollution Control District
Board Order #080128-01 | Requiring the City of Los Angeles to Undertake Measures to Control PM10 Emissions from the Dried Bed of Owens Lake | February 1, 2008 | September 3, 2010, 75 FR 54031 | Includes Attachments A-D. Included as Appendix C to the “2010 PM10 Maintenance Plan and Redesignation Request for the Coso Junction Planning Area.” Submitted on July 14, 2010. See 40 CFR 52.220(c)(380)(i)(A)(1).

Table 15—EPA-Approved Imperial County Air Pollution Control District Regulations
District citation | Title/subject | State effective date | EPA approval date | Additional explanation
Regulation I—General Provisions
100 | Rule Citation | September 14, 1999 | October 10, 2001, 66 FR 51578 | Submitted on May 26, 2000. See 40 CFR 52.220(c)(279)(i)(A)(6).
101 | Definitions | September 11, 2018 | August 29, 2019, 84 FR 45418 | Submitted on October 29, 2018. See 40 CFR 52.220(c)(523)(i)(A)(1).
102 | Public Records | November 19, 1985 | February 3, 1989, 54 FR 5448 | Submitted on June 9, 1987. See 40 CFR 52.220(c)(173)(i)(B)(1).
103 | Inspection of Public Records | June 1, 1977 | August 11, 1978, 43 FR 35694 | Submitted on November 4, 1977. See 40 CFR 52.220(c)(42)(i)(A).
107 | Conditional Approval | October 18, 1971 | May 31, 1972, 37 FR 10842 | Submitted on February 21, 1972. See 40 CFR 52.220(b).
107 | Land Use | June 1, 1977 | August 11, 1978, 43 FR 35694 | Submitted on November 4, 1977. See 40 CFR 52.220(c)(42)(i)(A).
109 | Source Sampling | September 14, 1999 | August 10, 2001, 66 FR 42126 | Submitted on May 26, 2000. See 40 CFR 52.220(c)(279)(i)(A)(4).
110 | Stack Monitoring | September 14, 1999 | August 10, 2001, 66 FR 42126 | Submitted on May 26, 2000. See 40 CFR 52.220(c)(279)(i)(A)(4).
112 | Annual Renewal | October 18, 1971 | May 31, 1972, 37 FR 10842 | Submitted on February 21, 1972. See 40 CFR 52.220(b).
113 | Circumvention | September 14, 1999 | October 10, 2001, 66 FR 51578 | Submitted on May 26, 2000. See 40 CFR 52.220(c)(279)(i)(A)(6).
114 | Severability Clause | June 1, 1977 | August 11, 1978, 43 FR 35694 | Submitted on November 4, 1977. See 40 CFR 52.220(c)(42)(i)(A).
115 | Legal Application and Incorporation of Other Regulations | September 14, 1999 | March 21, 2003, 68 FR 13843 | Submitted on May 26, 2000. See 40 CFR 52.220(c)(279)(i)(A)(10).
116 | Emissions Statement and Certification | November 3, 2020 | July 29, 2022, 87 FR 45657 | Submitted on February 19, 2021 as an attachment to a letter dated February 18, 2021. See 40 CFR 52.220(c)(562)(i)(A)(2) and 40 CFR 52.220(c)(583)(i)(A)(1).
Regulation II—Permits
201 | Permits Required | October 10, 2006 | May 9, 2011, 76 FR 26615 | Submitted on August 24, 2007. See 40 CFR 52.220(c)(351)(i)(A)(3).
202 | Exemptions | February 9, 2016 | June 8, 2017, 82 FR 26594 | Submitted on April 21, 2016. See 40 CFR 52.220(c)(485)(i)(A)(2).
203 | Transfer | September 14, 1999 | January 3, 2007, 72 FR 9 | Submitted on May 26, 2000. See 40 CFR 52.220(c)(279)(i)(A)(14).
204 | Applications | September 14, 1999 | June 14, 2017, 82 FR 27125 | Submitted on May 26, 2000. See 40 CFR 52.220(c)(279)(i)(A)(15).
204 | Enforcement Procedures | September 1, 1972 | May 11, 1977, 42 FR 23804; corrected on August 22, 1977, 42 FR 42219 | Submitted on July 25, 1973. See 40 CFR 52.220(c)(21)(xi)(A).
205 | Cancellation of Applications | September 14, 1999 | January 3, 2007, 72 FR 9 | Submitted on May 26, 2000. See 40 CFR 52.220(c)(279)(i)(A)(14).
205 | Burning Permit | September 1, 1972 | May 11, 1977, 42 FR 23804; corrected on August 22, 1977, 42 FR 42219 | Submitted on July 25, 1973. See 40 CFR 52.220(c)(21)(xi)(A).
206 | Processing of Applications | October 22, 2013 | June 14, 2017, 82 FR 27125; corrected on September 5, 2017, 82 FR 41895 | Submitted on February 10, 2014. See 40 CFR 52.220(c)(442)(i)(A)(5).
207 (except subsections C.1.c, C.2.a, C.2.b, D.1.g, and D.3.b) | New and Modified Stationary Source Review | September 11, 2018 | August 26, 2019, 84 FR 44545 | Submitted on October 5, 2018. See 40 CFR 52.220(c)(522)(i)(A)(1).
208 | Permit to Operate | September 14, 1999 | January 3, 2007, 72 FR 9 | Submitted on May 26, 2000. See 40 CFR 52.220(c)(279)(i)(A)(13).
217 | Large Confined Animal Facilities (LCAF) Permit Required | February 9, 2016 | June 8, 2017, 82 FR 26594 | Submitted on April 21, 2016. See 40 CFR 52.220(c)(485)(i)(A)(3).
Regulation IV—Prohibitions
400 | Fuel Burning Equipment—Oxides of Nitrogen | September 14, 1999 | March 24, 2003, 68 FR 14161 | Submitted on May 26, 2000. See 40 CFR 52.220(c)(279)(i)(A)(11).
400.1 | Stationary Gas Turbines—Reasonably Available Control Technology (RACT) | February 23, 2010 | January 18, 2012, 77 FR 2469 | Submitted on July 20, 2010. See 40 CFR 52.220(c)(381)(i)(A)(5).
400.2 | Boilers, Process Heaters and Steam Generators | February 23, 2010 | January 7, 2013, 78 FR 896 | Submitted on July 20, 2010. See 40 CFR 52.220(c)(381)(i)(A)(7).
400.3 | Internal Combustion Engines | October 22, 2013 | October 6, 2014, 79 FR 60070 | Submitted on February 10, 2014. See 40 CFR 52.220(c)(442)(i)(A)(2).
400.4 | Emissions of Oxides of Nitrogen from Wallboard Kilns | October 22, 2013 | October 6, 2014, 79 FR 60070 | Submitted on February 10, 2014. See 40 CFR 52.220(c)(442)(i)(A)(3).
400.6 | Natural Gas Fired Water Heaters | November 26, 2019 | May 7, 2021, 86 FR 24500 | Submitted on February 6, 2020. See 40 CFR 52.220(c)(546)(i)(B)(1).
401 | Opacity of Emissions | November 19, 1985 | February 3, 1989, 54 FR 5448 | Submitted on June 9, 1987. See 40 CFR 52.220(c)(173)(i)(B)(1).
402 | Exceptions | November 19, 1985 | February 3, 1989, 54 FR 5448 | Submitted on June 9, 1987. See 40 CFR 52.220(c)(173)(i)(B)(1).
403 | General Limitations on the Discharge of Air Contaminants | May 18, 2004 | November 16, 2004, 69 FR 67058 | Submitted on July 19, 2004. See 40 CFR 52.220(c)(332)(i)(A)(1).
405 | Sulfur Compounds Emissions Standards, Limitations and Prohibitions | May 18, 2004 | November 16, 2004, 69 FR 67058 | Submitted on July 19, 2004. See 40 CFR 52.220(c)(332)(i)(A)(1).
408 | Frost Protection | September 14, 1999 | July 11, 2001, 66 FR 36170 | Submitted on May 26, 2000. See 40 CFR 52.220(c)(279)(i)(A)(2).
409 | Incinerators | September 14, 1999 | July 11, 2001, 66 FR 36170 | Submitted on May 26, 2000. See 40 CFR 52.220(c)(279)(i)(A)(2).
410 | Scavenger Plants | February 27, 1979 | January 27, 1981, 46 FR 8471 | Submitted on October 15, 1979. See 40 CFR 52.220(c)(52)(ii)(B).
412 | Soil Decontamination Operations | January 16, 2001 | November 5, 2002, 67 FR 67313 | Submitted on October 30, 2001. See 40 CFR 52.220(c)(288)(i)(D)(1).
413 | Organic Solvent Degreasing Operations | January 16, 2001 | November 5, 2002, 67 FR 67313 | Submitted on October 30, 2001. See 40 CFR 52.220(c)(288)(i)(D)(1).
414 | Storage of Reactive Organic Compound Liquids | May 18, 2004 | November 24, 2008, 73 FR 70883 | Submitted on July 19, 2004. See 40 CFR 52.220(c)(332)(i)(A)(4).
415 | Transfer and Storage of Gasoline | November 3, 2020 | September 2, 2021, 86 FR 49248 | Submitted on February 19, 2021 by the Governor's designee as an attachment to a letter dated February 18, 2021. See 40 CFR 52.220(c)(562)(i)(A)(1).
416 | Oil-Effluent Water Separators | September 14, 1999 | July 26, 2001, 66 FR 38939 | Submitted on May 26, 2000. See 40 CFR 52.220(c)(279)(i)(A)(3).
417 | Organic Solvents | September 14, 1999 | November 5, 2002, 67 FR 67313 | Submitted on May 26, 2000. See 40 CFR 52.220(c)(279)(i)(A)(8).
418 | Disposal and Evaporation of Solvents | February 27, 1979 | January 27, 1981, 46 FR 8471 | Submitted on October 15, 1979. See 40 CFR 52.220(c)(52)(ii)(B).
419 | Reduction of Animal Matter | February 27, 1979 | January 27, 1981, 46 FR 8471 | Submitted on October 15, 1979. See 40 CFR 52.220(c)(52)(ii)(B).
420 | Beef Feedlots | October 10, 2006 | November 10, 2010, 75 FR 69002 | Submitted on August 24, 2007. See 40 CFR 52.220(c)(351)(i)(A)(2).
421 | Open Burning | September 14, 1999 | July 11, 2001, 66 FR 36170 | Submitted on May 26, 2000. See 40 CFR 52.220(c)(279)(i)(A)(2).
424 | Architectural Coatings | February 23, 2010 | July 6, 2011, 76 FR 39303 | Submitted on July 20, 2010. See 40 CFR 52.220(c)(381)(i)(A)(2).
425 | Aerospace Coating Operations | February 23, 2010 | November 1, 2011, 76 FR 67369 | Submitted on July 20, 2010. See 40 CFR 52.220(c)(381)(i)(A)(3).
426 | Cutback Asphalt and Emulsified Paving Materials | September 14, 1999 | April 19, 2001, 66 FR 20084 | Submitted on May 26, 2000. See 40 CFR 52.220(c)(279)(i)(A)(1).
427 | Automotive Refinishing Operations | February 23, 2010 | November 1, 2011, 76 FR 67369 | Submitted on July 20, 2010. See 40 CFR 52.220(c)(381)(i)(A)(4).
428 (except section E.4.2) | Wood Burning Appliances | September 11, 2018 | August 29, 2019, 84 FR 45418 | Submitted on October 29, 2018. See 40 CFR 52.220(c)(523)(i)(A)(2).
429 | Mandatory Episodic Curtailment of Wood and Other Solid Fuel Burning | September 11, 2018 | August 29, 2019, 84 FR 45418 | Submitted on October 29, 2018. See 40 CFR 52.220(c)(523)(i)(A)(3).
Regulation VI—Emergency Regulations
601 | General | June 1, 1977 | June 3, 1980, 45 FR 37428 | Submitted on November 4, 1977. See 40 CFR 52.220(c)(42)(i)(C).
602 (excluding those portions that pertain to the criteria levels for carbon monoxide and sulfur dioxide) | Episode Criteria Levels | June 1, 1977 | June 3, 1980, 45 FR 37428 | Submitted on November 4, 1977. See 40 CFR 52.220(c)(42)(i)(C). Supplemented by the provisions in 40 CFR 52.274(p).
603 | Episode Stages | June 1, 1977 | June 3, 1980, 45 FR 37428 | Submitted on November 4, 1977. See 40 CFR 52.220(c)(42)(i)(C).
604 | Division of Responsibility for Abatement Action | June 1, 1977 | June 3, 1980, 45 FR 37428 | Submitted on November 4, 1977. See 40 CFR 52.220(c)(42)(i)(C).
605 | Administration of Emergency Program | June 1, 1977 | June 3, 1980, 45 FR 37428 | Submitted on November 4, 1977. See 40 CFR 52.220(c)(42)(i)(C).
606 | Advisory of High Air Pollution Potential | June 1, 1977 | June 3, 1980, 45 FR 37428 | Submitted on November 4, 1977. See 40 CFR 52.220(c)(42)(i)(C).
607 | Declaration of Episode | June 1, 1977 | June 3, 1980, 45 FR 37428 | Submitted on November 4, 1977. See 40 CFR 52.220(c)(42)(i)(C).
608 | Episode Action Stage 1 (Health Advisory—Alert) | June 1, 1977 | June 3, 1980, 45 FR 37428 | Submitted on November 4, 1977. See 40 CFR 52.220(c)(42)(i)(C).
609 | Episode Action Stage 2 (Warning) | June 1, 1977 | June 3, 1980, 45 FR 37428 | Submitted on November 4, 1977. See 40 CFR 52.220(c)(42)(i)(C).
610 | Episode Action Stage 3 (Emergency) | June 1, 1977 | June 3, 1980, 45 FR 37428 | Submitted on November 4, 1977. See 40 CFR 52.220(c)(42)(i)(C).
611 | Episode Termination | June 1, 1977 | June 3, 1980, 45 FR 37428 | Submitted on November 4, 1977. See 40 CFR 52.220(c)(42)(i)(C).
612 | Stationary Source Curtailment | June 1, 1977 | June 3, 1980, 45 FR 37428 | Submitted on November 4, 1977. See 40 CFR 52.220(c)(42)(i)(C). Supplemented by the provisions in 40 CFR 52.274(p).
613 | Episode Abatement Plan | June 1, 1977 | June 3, 1980, 45 FR 37428 | Submitted on November 4, 1977. See 40 CFR 52.220(c)(42)(i)(C).
614 | Enforcement | June 1, 1977 | June 3, 1980, 45 FR 37428 | Submitted on November 4, 1977. See 40 CFR 52.220(c)(42)(i)(C).
Regulation VII—Agricultural Burning
701 | Agricultural Burning | August 13, 2002 | January 31, 2003, 68 FR 4929 | Submitted on October 16, 2002. See 40 CFR 52.220(c)(302)(i)(A)(1).
702 | Range Improvement Burning | September 14, 1999 | July 11, 2001, 66 FR 36170 | Submitted on May 26, 2000. See 40 CFR 52.220(c)(279)(i)(A)(2).
Regulation VIII—Fugitive Dust Rules
800 | General Requirements for Control of Fine Particulate Matter (PM-10) | October 16, 2012 | April 22, 2013, 78 FR 23677 | Submitted on November 7, 2012. See 40 CFR 52.220(c)(424)(i)(A)(1).
801 | Construction and Earthmoving Activities | November 8, 2005 | July 8, 2010, 75 FR 39366 | Submitted on June 16, 2006. See 40 CFR 52.220(c)(345)(i)(E)(2).
802 | Bulk Materials | November 8, 2005 | July 8, 2010, 75 FR 39366 | Submitted on June 16, 2006. See 40 CFR 52.220(c)(345)(i)(E)(2).
803 | Carry-Out and Track-Out | November 8, 2005 | July 8, 2010, 75 FR 39366 | Submitted on June 16, 2006. See 40 CFR 52.220(c)(345)(i)(E)(2).
804 | Open Areas | September 11, 2018 | August 29, 2019, 84 FR 45418 | Submitted on October 29, 2018. See 40 CFR 52.220(c)(523)(i)(A)(4).
805 | Paved and Unpaved Roads | October 16, 2012 | April 22, 2013, 78 FR 23677 | Submitted on November 7, 2012. See 40 CFR 52.220(c)(424)(i)(A)(3).
806 | Conservation Management Practices | October 16, 2012 | April 22, 2013, 78 FR 23677 | Submitted on November 7, 2012. See 40 CFR 52.220(c)(424)(i)(A)(4).
Regulation IX
904 | Prevention of Significant Deterioration (PSD) Permit Program | December 20, 2011 | December 10, 2012, 77 FR 73316 | Submitted on February 23, 2012. See 40 CFR 52.220(c)(411)(i)(E)(1). Final approval of this rule is based, in part, on the clarifications contained in letters dated July 10, 2012 and August 21, 2012 from Brad Poirez, Imperial County APCD, to Gerardo Rios, EPA Region 9. See 40 CFR 52.220(c)(411)(ii)(A)(1) and (2).
910 | Enhanced Monitoring | March 21, 1995 | August 28, 2014, 79 FR 51261 | Submitted on June 16, 1995. See 40 CFR 52.220(c)(222)(i)(F)(1).
925 | General Conformity | November 29, 1994 | April 23, 1999, 64 FR 19916 | Submitted on February 24, 1995. See 40 CFR 52.220(c)(215)(i)(E)(1).

Table 16—EPA-Approved Lake County Air Quality Management District Regulations
District citation | Title/subject | State effective date | EPA approval date | Additional explanation
Original Codification of District Rules and Regulations
Part II—Authorization and Disclosure
A | Authority | August 5, 1974 | August 22, 1977, 42 FR 42219 | Rescission of Part II was disapproved at 43 FR 34463 (August 4, 1978). Submitted on October 23, 1974. See 40 CFR 52.220(c)(25)(iii)(A).
B | Emissions and Monitoring Data as Public Record | August 5, 1974 | August 22, 1977, 42 FR 42219 | Rescission of Part II was disapproved at 43 FR 34463 (August 4, 1978). Submitted on October 23, 1974. See 40 CFR 52.220(c)(25)(iii)(A).
C | Disclosure Policy | August 5, 1974 | August 22, 1977, 42 FR 42219 | Rescission of Part II was disapproved at 43 FR 34463 (August 4, 1978). Submitted on October 23, 1974. See 40 CFR 52.220(c)(25)(iii)(A).
D | Disclosure Procedure | August 5, 1974 | August 22, 1977, 42 FR 42219 | Rescission of Part II was disapproved at 43 FR 34463 (August 4, 1978). Submitted on October 23, 1974. See 40 CFR 52.220(c)(25)(iii)(A).
Part III—Definitions
6 | Alteration | August 5, 1974 | August 22, 1977, 42 FR 42219 | Submitted on October 23, 1974. See 40 CFR 52.220(c)(25)(iii)(A).
24 | Equivalent Method | August 5, 1974 | August 22, 1977, 42 FR 42219 | Submitted on October 23, 1974. See 40 CFR 52.220(c)(25)(iii)(A).
49a | Public Records | August 5, 1974 | August 22, 1977, 42 FR 42219 | Rescission of section 49a was disapproved at 43 FR 34463 (August 4, 1978). Submitted on October 23, 1974. See 40 CFR 52.220(c)(25)(iii)(A).
49b | Record | August 5, 1974 | August 22, 1977, 42 FR 42219 | Rescission of section 49b was disapproved at 43 FR 34463 (August 4, 1978). Submitted on October 23, 1974. See 40 CFR 52.220(c)(25)(iii)(A).
50 | Process Weight Per Hour | August 5, 1974 | August 22, 1977, 42 FR 42219 | Rescission of section 50 was disapproved at 43 FR 34463 (August 4, 1978). Submitted on October 23, 1974. See 40 CFR 52.220(c)(25)(iii)(A).
Part V—Prohibitions and Standards
1.B | Visible Emissions | August 5, 1974 | August 22, 1977, 42 FR 42219 | Paragraph B sets a visible emissions standard for any new source. The rescission of paragraph B of section 1 of part V was disapproved at 43 FR 34463 (August 4, 1978). Submitted on October 23, 1974. See 40 CFR 52.220(c)(25)(iii)(A).
3.F | Other Emissions or Contaminants | August 5, 1974 | August 22, 1977, 42 FR 42219 | Paragraph F (Sulfur) sets a sulfur concentration standard from any single source. Paragraph F was superseded by approval of Section 412 (Sulfur Recovery Units) at 43 FR 34463 (August 4, 1978) with respect to sulfur recovery units but retained for other sulfur sources—see 40 CFR 52.231(b)(1)(i)(A). Submitted on October 23, 1974. See 40 CFR 52.220(c)(25)(iii)(A).
Part VII—Permits
1 | Registration | June 30, 1972 | September 22, 1972, 37 FR 19812 | Submitted on June 30, 1972. See 40 CFR 52.220(c)(6).
2 | Construction, Alteration, Replacement, Sale or Rental | June 30, 1972 | September 22, 1972, 37 FR 19812 | Submitted on June 30, 1972. See 40 CFR 52.220(c)(6).
3 | Notice of Completion | June 30, 1972 | September 22, 1972, 37 FR 19812 | Submitted on June 30, 1972. See 40 CFR 52.220(c)(6).
4 | Operation | June 30, 1972 | September 22, 1972, 37 FR 19812 | Submitted on June 30, 1972. See 40 CFR 52.220(c)(6).
5 | Approval | June 30, 1972 | September 22, 1972, 37 FR 19812 | Submitted on June 30, 1972. See 40 CFR 52.220(c)(6).
6 | Posting of Permits | June 30, 1972 | September 22, 1972, 37 FR 19812 | Submitted on June 30, 1972. See 40 CFR 52.220(c)(6).
8 | Conditional Permits | June 30, 1972 | September 22, 1972, 37 FR 19812 | Submitted on June 30, 1972. See 40 CFR 52.220(c)(6).
9 | Use Permits | June 30, 1972 | September 22, 1972, 37 FR 19812 | Submitted on June 30, 1972. See 40 CFR 52.220(c)(6).
10 | Action on Applications | June 30, 1972 | September 22, 1972, 37 FR 19812 | Submitted on June 30, 1972. See 40 CFR 52.220(c)(6).
12 | Fees for Permits | June 30, 1972 | September 22, 1972, 37 FR 19812 | Submitted on June 30, 1972. See 40 CFR 52.220(c)(6).
13 | Source Emission Testing | June 30, 1972 | September 22, 1972, 37 FR 19812 | Submitted on June 30, 1972. See 40 CFR 52.220(c)(6).
14 | Plans and Specifications | June 30, 1972 | September 22, 1972, 37 FR 19812 | Submitted on June 30, 1972. See 40 CFR 52.220(c)(6).
15 | Suspension of Permit | June 30, 1972 | September 22, 1972, 37 FR 19812 | Submitted on June 30, 1972. See 40 CFR 52.220(c)(6).
16 | Reinstatement of Permit | June 30, 1972 | September 22, 1972, 37 FR 19812 | Submitted on June 30, 1972. See 40 CFR 52.220(c)(6).
17 | Denial of Applications | June 30, 1972 | September 22, 1972, 37 FR 19812 | Submitted on June 30, 1972. See 40 CFR 52.220(c)(6).
18 | Schedule of Compliance | June 30, 1972 | September 22, 1972, 37 FR 19812 | Submitted on June 30, 1972. See 40 CFR 52.220(c)(6).
Part VIII—Emergency Conditions
Part VIII | Emergency Conditions | June 30, 1972 | September 22, 1972, 37 FR 19812 | Submitted on June 30, 1972. See 40 CFR 52.220(c)(6).
Appendices
Appendix A | Definitions | January 22, 1973 | August 22, 1977, 42 FR 42219 | Appendix A includes both definitions and regulations governing agricultural burning. The regulations, and some of the definitions, have been superseded. Certain defined terms, including open burning in agricultural operations in the growing of crops or raising of fowls or animals, forest management burning, brush treated, timber operations, silviculture, designated agency, and approved ignition device have not been superseded and remain in the applicable SIP. Submitted on October 23, 1974. See 40 CFR 52.220(c)(25)(iii)(A).
Appendix B, Part II | Definitions | January 22, 1973 | August 22, 1977, 42 FR 42219 | Certain defined terms, including open burning in agricultural operations, forest management burning, brush treated, timber operations, silviculture, and designated agency have not been superseded and remain in the applicable SIP. Submitted on October 23, 1974. See 40 CFR 52.220(c)(25)(iii)(A).
Appendix B, Part V (sections 1, 4, 5 and 6) | Burning Permits | January 22, 1973 | August 22, 1977, 42 FR 42219 | Submitted on October 23, 1974. See 40 CFR 52.220(c)(25)(iii)(A).
Post—November 22, 1976 Recodification of District Rules and Regulations
Chapter I—General Provisions
100 | Purpose | November 22, 1976 | August 4, 1978, 43 FR 34463 | Submitted on February 10, 1977. See 40 CFR 52.220(c)(37)(iv)(B).
101 | Validity | February 10, 1981 | April 13, 1982, 47 FR 15784 | Submitted on March 30, 1981. See 40 CFR 52.220(c)(89)(vi)(A).
200 | Incorporation of Health and Safety Code Definitions | November 22, 1976 | August 4, 1978, 43 FR 34463 | Submitted on February 10, 1977. See 40 CFR 52.220(c)(37)(iv)(B).
201 | Definitions Set Forth in Chapter I | November 22, 1976 | August 4, 1978, 43 FR 34463 | Submitted on February 10, 1977. See 40 CFR 52.220(c)(37)(iv)(B).
202 | Agricultural Operations | November 22, 1976 | August 4, 1978, 43 FR 34463 | Submitted on February 10, 1977. See 40 CFR 52.220(c)(37)(iv)(B).
203 | Agricultural Burning | June 19, 2001 | June 14, 2002, 67 FR 40867 | Submitted on October 30, 2001. See 40 CFR 52.220(c)(288)(i)(B)(1).
204 | Air Contaminant or Air Pollution | November 22, 1976 | August 4, 1978, 43 FR 34463 | Submitted on February 10, 1977. See 40 CFR 52.220(c)(37)(iv)(B).
204.5 | Air Quality | June 19, 2001 | June 14, 2002, 67 FR 40867 | Submitted on October 30, 2001. See 40 CFR 52.220(c)(288)(i)(B)(1).
205 | Air Pollution Abatement Operations | November 22, 1976 | August 4, 1978, 43 FR 34463 | Submitted on February 10, 1977. See 40 CFR 52.220(c)(37)(iv)(B).
205.1 | Air Pollution Control Director | November 22, 1976 | August 4, 1978, 43 FR 34463 | Submitted on February 10, 1977. See 40 CFR 52.220(c)(37)(iv)(B).
207 | Ambient Air Quality Standards | November 22, 1976 | August 4, 1978, 43 FR 34463 | Submitted on February 10, 1977. See 40 CFR 52.220(c)(37)(iv)(B).
208 | Atmosphere | November 22, 1976 | August 4, 1978, 43 FR 34463 | Submitted on February 10, 1977. See 40 CFR 52.220(c)(37)(iv)(B).
208.3 | Burn Plan or Smoke Management Plan | June 19, 2001 | June 14, 2002, 67 FR 40867 | Submitted on October 30, 2001. See 40 CFR 52.220(c)(288)(i)(B)(1).
208.8 | Burn Day or Permissive Burn Day | June 19, 2001 | June 14, 2002, 67 FR 40867 | Submitted on October 30, 2001. See 40 CFR 52.220(c)(288)(i)(B)(1).
209 | Carbon Monoxide | November 22, 1976 | August 4, 1978, 43 FR 34463 | Submitted on February 10, 1977. See 40 CFR 52.220(c)(37)(iv)(B).
210 | Collection Efficiency | November 22, 1976 | August 4, 1978, 43 FR 34463 | Submitted on February 10, 1977. See 40 CFR 52.220(c)(37)(iv)(B).
211 | Combustible or Flammable Solid Waste | November 22, 1976 | August 4, 1978, 43 FR 34463 | Submitted on February 10, 1977. See 40 CFR 52.220(c)(37)(iv)(B).
212 | Combustible Refuse | November 22, 1976 | August 4, 1978, 43 FR 34463 | Submitted on February 10, 1977. See 40 CFR 52.220(c)(37)(iv)(B).
213 | Combustion Contaminants | November 22, 1976 | August 4, 1978, 43 FR 34463 | Submitted on February 10, 1977. See 40 CFR 52.220(c)(37)(iv)(B).
214 | Condensed Fumes | November 22, 1976 | August 4, 1978, 43 FR 34463 | Submitted on February 10, 1977. See 40 CFR 52.220(c)(37)(iv)(B).
215 | Continuous Flow Conveying Methods | November 22, 1976 | August 4, 1978, 43 FR 34463 | Submitted on February 10, 1977. See 40 CFR 52.220(c)(37)(iv)(B).
216 | Control Strategy | November 22, 1976 | August 4, 1978, 43 FR 34463 | Submitted on February 10, 1977. See 40 CFR 52.220(c)(37)(iv)(B).
216.1 | Determination of Compliance | April 28, 1981 | April 13, 1982, 47 FR 15784 | Submitted on May 28, 1981. See 40 CFR 52.220(c)(92)(iii)(A).
217 | District | November 22, 1976 | August 4, 1978, 43 FR 34463 | Submitted on February 10, 1977. See 40 CFR 52.220(c)(37)(iv)(B).
218 | District Board | November 22, 1976 | August 4, 1978, 43 FR 34463 | Submitted on February 10, 1977. See 40 CFR 52.220(c)(37)(iv)(B).
219 | Dust | November 22, 1976 | August 4, 1978, 43 FR 34463 | Submitted on February 10, 1977. See 40 CFR 52.220(c)(37)(iv)(B).
220 | Emission | November 22, 1976 | August 4, 1978, 43 FR 34463 | Submitted on February 10, 1977. See 40 CFR 52.220(c)(37)(iv)(B).
221 | Emission Data | November 22, 1976 | August 4, 1978, 43 FR 34463 | Submitted on February 10, 1977. See 40 CFR 52.220(c)(37)(iv)(B).
222 | Emission Point | November 22, 1976 | August 4, 1978, 43 FR 34463 | Submitted on February 10, 1977. See 40 CFR 52.220(c)(37)(iv)(B).
223 | Equipment | November 22, 1976 | August 4, 1978, 43 FR 34463 | Submitted on February 10, 1977. See 40 CFR 52.220(c)(37)(iv)(B).
225 | Excess Air | November 22, 1976 | August 4, 1978, 43 FR 34463 | Submitted on February 10, 1977. See 40 CFR 52.220(c)(37)(iv)(B).
226 | Existing Source or Equipment | November 22, 1976 | August 4, 1978, 43 FR 34463 | Submitted on February 10, 1977. See 40 CFR 52.220(c)(37)(iv)(B).
226.4 | Fire Protection Agency | June 19, 2001 | June 14, 2002, 67 FR 40867 | Submitted on October 30, 2001. See 40 CFR 52.220(c)(288)(i)(B)(1).
226.5 | Fire Season Burn Ban | October 1, 2002 | April 30, 2003, 68 FR 23035 | Submitted on December 12, 2002. See 40 CFR 52.220(c)(308)(i)(B)(1).
227 | Flue | November 22, 1976 | August 4, 1978, 43 FR 34463 | Submitted on February 10, 1977. See 40 CFR 52.220(c)(37)(iv)(B).
227.1 | Gross Megawatt Hour | January 9, 1979 | January 27, 1981, 46 FR 8471 | Submitted on May 23, 1979. See 40 CFR 52.220(c)(51)(xi)(A).
227.4 | Geothermal Exploratory Well | February 10, 1981 | April 13, 1982, 47 FR 15784 | Submitted on March 30, 1981. See 40 CFR 52.220(c)(89)(vi)(A).
228 | Hearing Board | November 22, 1976 | August 4, 1978, 43 FR 34463 | Submitted on February 10, 1977. See 40 CFR 52.220(c)(37)(iv)(B).
228 | Hazardous Air Pollutants (HAP) | June 23, 1998 | October 6, 2014, 79 FR 60061 | Adopted by the district as Exhibit A to Resolution 98-195 on June 23, 1998. Submitted on December 23, 1998. See 40 CFR 52.220(c)(443)(i)(A)(1).
229 | Hot Mix Asphalt Plant | November 22, 1976 | August 4, 1978, 43 FR 34463 | Submitted on February 10, 1977. See 40 CFR 52.220(c)(37)(iv)(B).
230 | Household Rubbish | November 22, 1976 | August 4, 1978, 43 FR 34463 | Submitted on February 10, 1977. See 40 CFR 52.220(c)(37)(iv)(B).
231 | Hydrogen Sulfide | November 22, 1976 | August 4, 1978, 43 FR 34463 | Submitted on February 10, 1977. See 40 CFR 52.220(c)(37)(iv)(B).
232 | Incineration | November 22, 1976 | August 4, 1978, 43 FR 34463 | Submitted on February 10, 1977. See 40 CFR 52.220(c)(37)(iv)(B).
232.1 | Incinerator | October 1, 2002 | April 30, 2003, 68 FR 23035 | Submitted on December 12, 2002. See 40 CFR 52.220(c)(308)(i)(B)(1).
233 | Industrial Area | November 22, 1976 | August 4, 1978, 43 FR 34463 | Submitted on February 10, 1977. See 40 CFR 52.220(c)(37)(iv)(B).
234 | Installation | November 22, 1976 | August 4, 1978, 43 FR 34463 | Submitted on February 10, 1977. See 40 CFR 52.220(c)(37)(iv)(B).
236 | Micrograms per Cubic Meter (μg/m³) | November 22, 1976 | August 4, 1978, 43 FR 34463 | Submitted on February 10, 1977. See 40 CFR 52.220(c)(37)(iv)(B).
238 | Most Relevant Effects | November 22, 1976 | August 4, 1978, 43 FR 34463 | Submitted on February 10, 1977. See 40 CFR 52.220(c)(37)(iv)(B).
238.5 | Natural Vegetation | October 1, 2002 | April 30, 2003, 68 FR 23035 | Submitted on December 12, 2002. See 40 CFR 52.220(c)(308)(i)(B)(1).
239 | New Sources or Equipment | November 22, 1976 | August 4, 1978, 43 FR 34463 | Submitted on February 10, 1977. See 40 CFR 52.220(c)(37)(iv)(B).
240 | Nitrogen Dioxide | November 22, 1976 | August 4, 1978, 43 FR 34463 | Submitted on February 10, 1977. See 40 CFR 52.220(c)(37)(iv)(B).
240.8 | No Burn Day | June 19, 2001 | June 14, 2002, 67 FR 40867 | Submitted on October 30, 2001. See 40 CFR 52.220(c)(288)(i)(B)(1).
241 | Open Outdoor Fires | November 22, 1976 | August 4, 1978, 43 FR 34463 | Submitted on February 10, 1977. See 40 CFR 52.220(c)(37)(iv)(B).
242 | Operation | November 22, 1976 | August 4, 1978, 43 FR 34463 | Submitted on February 10, 1977. See 40 CFR 52.220(c)(37)(iv)(B).
243 | Operator | November 22, 1976 | August 4, 1978, 43 FR 34463 | Submitted on February 10, 1977. See 40 CFR 52.220(c)(37)(iv)(B).
244 | Owner | November 22, 1976 | August 4, 1978, 43 FR 34463 | Submitted on February 10, 1977. See 40 CFR 52.220(c)(37)(iv)(B).
245 | Oxidant | November 22, 1976 | August 4, 1978, 43 FR 34463 | Submitted on February 10, 1977. See 40 CFR 52.220(c)(37)(iv)(B).
246 | Particulate Matter | June 19, 2001 | June 14, 2002, 67 FR 40867 | Submitted on October 30, 2001. See 40 CFR 52.220(c)(288)(i)(B)(1).
247 | Parts per Million (PPM) | November 22, 1976 | August 4, 1978, 43 FR 34463 | Submitted on February 10, 1977. See 40 CFR 52.220(c)(37)(iv)(B).
247.1 | Permissive Burn Day | November 22, 1976 | August 4, 1978, 43 FR 34463 | Submitted on February 10, 1977. See 40 CFR 52.220(c)(37)(iv)(B).
248 | Person | November 22, 1976 | August 4, 1978, 43 FR 34463 | Submitted on February 10, 1977. See 40 CFR 52.220(c)(37)(iv)(B).
248.3 | Pre-Fire Fuel Treatment | June 19, 2001 | June 14, 2002, 67 FR 40867 | Submitted on October 30, 2001. See 40 CFR 52.220(c)(288)(i)(B)(1).
248.5 | Prescribed Burning | June 19, 2001 | June 14, 2002, 67 FR 40867 | Submitted on October 30, 2001. See 40 CFR 52.220(c)(288)(i)(B)(1).
249 | Prevailing Visibility | November 22, 1976 | August 4, 1978, 43 FR 34463 | Submitted on February 10, 1977. See 40 CFR 52.220(c)(37)(iv)(B).
249.3 | Processed or Treated Wood and Wood Products | October 1, 2002 | April 30, 2003, 68 FR 23035 | Submitted on December 12, 2002. See 40 CFR 52.220(c)(308)(i)(B)(1).
249.5 | Range Improvement Burning | June 19, 2001 | June 14, 2002, 67 FR 40867 | Submitted on October 30, 2001. See 40 CFR 52.220(c)(288)(i)(B)(1).
250 | Refuse | November 22, 1976 | August 4, 1978, 43 FR 34463 | Submitted on February 10, 1977. See 40 CFR 52.220(c)(37)(iv)(B).
250.5 | Residential Waste Burning | October 1, 2002 | April 30, 2003, 68 FR 23035 | Submitted on December 12, 2002. See 40 CFR 52.220(c)(308)(i)(B)(1).
251 | Residential-Commercial Area | November 22, 1976 | August 4, 1978, 43 FR 34463 | Submitted on February 10, 1977. See 40 CFR 52.220(c)(37)(iv)(B).
251.7 | Smoke Sensitive Areas | June 19, 2001 | June 14, 2002, 67 FR 40867 | Submitted on October 30, 2001. See 40 CFR 52.220(c)(288)(i)(B)(1).
252 | Standard Conditions | November 22, 1976 | August 4, 1978, 43 FR 34463 | Submitted on February 10, 1977. See 40 CFR 52.220(c)(37)(iv)(B).
253 | Standard Cubic Foot of Gas | November 22, 1976 | August 4, 1978, 43 FR 34463 | Submitted on February 10, 1977. See 40 CFR 52.220(c)(37)(iv)(B).
254 | Stationary Source | November 22, 1976 | August 4, 1978, 43 FR 34463 | Submitted on February 10, 1977. See 40 CFR 52.220(c)(37)(iv)(B).
254.1 | Steam Transmission Lines | January 9, 1979 | January 27, 1981, 46 FR 8471 | Submitted on May 23, 1979. See 40 CFR 52.220(c)(51)(xi)(A).
255 | Sulfur Dioxide | November 22, 1976 | August 4, 1978, 43 FR 34463 | Submitted on February 10, 1977. See 40 CFR 52.220(c)(37)(iv)(B).
256 | Tepee or Wigwam Burner | November 22, 1976 | August 4, 1978, 43 FR 34463 | Submitted on February 10, 1977. See 40 CFR 52.220(c)(37)(iv)(B).
257 | Total Reduced Sulfides (TRS) | November 22, 1976 | August 4, 1978, 43 FR 34463 | Submitted on February 10, 1977. See 40 CFR 52.220(c)(37)(iv)(B).
258 | Tons | November 22, 1976 | August 4, 1978, 43 FR 34463 | Submitted on February 10, 1977. See 40 CFR 52.220(c)(37)(iv)(B).
259 | Underfire Air | November 22, 1976 | August 4, 1978, 43 FR 34463 | Submitted on February 10, 1977. See 40 CFR 52.220(c)(37)(iv)(B).
260 | Visibility Reducing Particles | November 22, 1976 | August 4, 1978, 43 FR 34463 | Submitted on February 10, 1977. See 40 CFR 52.220(c)(37)(iv)(B).
270 | Wildland Vegetation Management Burning | June 19, 2001 | June 14, 2002, 67 FR 40867 | Submitted on October 30, 2001. See 40 CFR 52.220(c)(288)(i)(B)(1).
Chapter II—Prohibitions and Standards
400 | Visible Emissions | November 22, 1976 | August 4, 1978, 43 FR 34463 | Submitted on February 10, 1977. See 40 CFR 52.220(c)(37)(iv)(B).
401 | Exception for Aerial Spraying Operations | November 22, 1976 | August 4, 1978, 43 FR 34463 | Submitted on February 10, 1977. See 40 CFR 52.220(c)(37)(iv)(B).
402 (excluding paragraph F) | Exclusions | November 22, 1976 | August 4, 1978, 43 FR 34463 | Submitted on February 10, 1977. See 40 CFR 52.220(c)(37)(iv)(B).
410 | Combustion Contaminants | November 22, 1976 | August 4, 1978, 43 FR 34463 | Submitted on February 10, 1977. See 40 CFR 52.220(c)(37)(iv)(B).
411 | Other Sources | November 22, 1976 | August 4, 1978, 43 FR 34463 | Submitted on February 10, 1977. Refers to Table IV—listed separately in this table. See 40 CFR 52.220(c)(37)(iv)(B).
412 (excluding paragraph B) | Sulfur Recovery Units | November 22, 1976 | August 4, 1978, 43 FR 34463 | Submitted on February 10, 1977. See 40 CFR 52.220(c)(37)(iv)(B).
430 | General | November 22, 1976 | August 4, 1978, 43 FR 34463 | Submitted on February 10, 1977. See 40 CFR 52.220(c)(37)(iv)(B).
431 | Non-Agricultural Burning | June 19, 2001 | June 14, 2002, 67 FR 40867 | Submitted on October 30, 2001. See 40 CFR 52.220(c)(288)(i)(B)(1).
431.5 | Non-Agricultural Open Burning | October 1, 2002 | April 30, 2003, 68 FR 23035 | Submitted on December 12, 2002. See 40 CFR 52.220(c)(308)(i)(B)(1).
431.7 | Non-Agricultural Burning Hours | October 1, 2002 | April 30, 2003, 68 FR 23035 | Submitted on December 12, 2002. See 40 CFR 52.220(c)(308)(i)(B)(1).
432 | Exemption for Public Officers to Set or Permit a Fire for Certain Purposes | October 20, 1987 | October 23, 1989, 54 FR 43173; corrected on June 1, 1990, 55 FR 22334 | Submitted on March 23, 1988. See 40 CFR 52.220(c)(176)(i)(B)(1).
432.5 | Exemptions for Preparation of Food and Recreational Purposes | October 1, 2002 | April 30, 2003, 68 FR 23035 | Submitted on December 12, 2002. See 40 CFR 52.220(c)(308)(i)(B)(1).
433 | Limited Exemption for Single and Two-Family Dwelling | October 1, 2002 | April 30, 2003, 68 FR 23035 | Submitted on December 12, 2002. See 40 CFR 52.220(c)(308)(i)(B)(1).
433.5 | Exemption to Lot Size and Distance Restrictions in Section 433 | October 1, 2002 | April 30, 2003, 68 FR 23035 | Submitted on December 12, 2002. See 40 CFR 52.220(c)(308)(i)(B)(1).
434 | Exemption for Levee, Reservoir and Ditch Maintenance | June 19, 2001 | June 14, 2002, 67 FR 40867 | Submitted on October 30, 2001. See 40 CFR 52.220(c)(288)(i)(B)(1).
436 | Wood Waste Disposal by Open Burning | October 1, 2002 | April 30, 2003, 68 FR 23035 | Submitted on December 12, 2002. See 40 CFR 52.220(c)(308)(i)(B)(1).
436.5 | Wood Waste Burning | October 1, 2002 | April 30, 2003, 68 FR 23035 | Submitted on December 12, 2002. See 40 CFR 52.220(c)(308)(i)(B)(1).
437 | Animal Matter | November 22, 1976 | August 4, 1978, 43 FR 34463 | Submitted on February 10, 1977. See 40 CFR 52.220(c)(37)(iv)(B).
438 | Orchard Heaters | November 22, 1976 | August 4, 1978, 43 FR 34463 | Submitted on February 10, 1977. See 40 CFR 52.220(c)(37)(iv)(B).
439 | Gasoline Storage | November 22, 1976 | August 4, 1978, 43 FR 34463 | Submitted on February 10, 1977. See 40 CFR 52.220(c)(37)(iv)(B).
439.5 | Retail Gasoline Service Stations | July 15, 1997 | July 25, 2001, 66 FR 38561 | Submitted on May 18, 1998. See 40 CFR 52.220(c)(255)(i)(D)(2).
470 | Air Toxics Control Measure for Emissions of Toxic Particulate Matter from In-Use Agricultural Compression Ignition Engines | September 21, 2010 | October 6, 2014, 79 FR 60061 | Adopted by the district as Exhibit A to Resolution 2010-174 on September 21, 2010. Submitted on April 5, 2011. See 40 CFR 52.220(c)(388)(i)(G)(1).
Chapter III—Maintenance, Malfunction, Evasion & Inspection
520 | Evasion | November 22, 1976 | August 4, 1978, 43 FR 34463 | Submitted on February 10, 1977. See 40 CFR 52.220(c)(37)(iv)(B).
530 | Emission Data and Sampling Access | November 22, 1976 | August 4, 1978, 43 FR 34463 | Submitted on February 10, 1977. See 40 CFR 52.220(c)(37)(iv)(B).
532 | Request Procedure | November 22, 1976 | August 4, 1978, 43 FR 34463 | Submitted on February 10, 1977. See 40 CFR 52.220(c)(37)(iv)(B).
533 | Trade Secrets | November 22, 1976 | August 4, 1978, 43 FR 34463 | Submitted on February 10, 1977. See 40 CFR 52.220(c)(37)(iv)(B).
Chapter IV—Permits
602 | New Source Review | December 6, 1983 | December 5, 1984, 49 FR 47490 | Submitted on March 14, 1984. See 40 CFR 52.220(c)(153)(i)(A).
630 | Permit Transfers | April 28, 1981 | November 10, 1982, 47 FR 50864 | Submitted on August 6, 1982. See 40 CFR 52.220(c)(124)(ii)(A).
640 | Permit Exemptions | July 15, 1997 | May 18, 1999, 64 FR 26876 | Submitted on March 10, 1998. See 40 CFR 52.220(c)(254)(i)(J)(1).
650D | Source Emission Testing | December 10, 1985 | February 3, 1987, 52 FR 3226 | Submitted on February 10, 1986. See 40 CFR 52.220(c)(168)(i)(B)(1).
651 | Source Emission Testing and Monitoring | December 10, 1985 | February 3, 1987, 52 FR 3226 | Submitted on February 10, 1986. See 40 CFR 52.220(c)(168)(i)(B)(1).
655 | Performance Plan | June 16, 1981 | June 18, 1982, 47 FR 26379 | Submitted on March 1, 1982. See 40 CFR 52.220(c)(121)(iii)(A).
Chapter VIII—Agricultural Burning
1000 | Agricultural and Prescribed Burning | June 19, 2001 | June 14, 2002, 67 FR 40867 | Submitted on October 30, 2001. See 40 CFR 52.220(c)(288)(i)(B)(1).
1001 | Agricultural Burning Permit | June 19, 2001 | June 14, 2002, 67 FR 40867 | Submitted on October 30, 2001. See 40 CFR 52.220(c)(288)(i)(B)(1).
1002 | Agencies Authorized to Issue Burning Permits | August 9, 2005 | November 9, 2006, 71 FR 65740 | Submitted on March 10, 2006. Refers to Table 8—listed separately in this table. See 40 CFR 52.220(c)(344)(i)(B)(1).
1003 | Special No-Burn Day Permit | June 19, 2001 | June 14, 2002, 67 FR 40867 | Submitted on October 30, 2001. See 40 CFR 52.220(c)(288)(i)(B)(1).
1010 | No-Burn Days | June 13, 1989 | May 18, 1999, 64 FR 26876 | Submitted on March 26, 1990. See 40 CFR 52.220(c)(179)(i)(F)(1).
1105 | Burning Hours | June 19, 2001 | June 14, 2002, 67 FR 40867 | Submitted on October 30, 2001. See 40 CFR 52.220(c)(288)(i)(B)(1).
1107 | Agricultural Burning During Fire Season | June 19, 2001 | June 14, 2002, 67 FR 40867 | Submitted on October 30, 2001. See 40 CFR 52.220(c)(288)(i)(B)(1).
1130 | Open Burning in Agricultural Operations in the Growing of Crops or Raising of Animals | June 19, 2001 | June 14, 2002, 67 FR 40867 | Submitted on October 30, 2001. See 40 CFR 52.220(c)(288)(i)(B)(1).
1140 | Range Improvement Burning | June 19, 2001 | June 14, 2002, 67 FR 40867 | Submitted on October 30, 2001. Includes Table 9, which is also listed separately in this table. See 40 CFR 52.220(c)(288)(i)(B)(1).
1145 | Forest Management Burning | June 19, 2001 | June 14, 2002, 67 FR 40867 | Submitted on October 30, 2001. See 40 CFR 52.220(c)(288)(i)(B)(1).
1150 | Burning of Standing Tule | June 19, 2001 | June 14, 2002, 67 FR 40867 | Submitted on October 30, 2001. See 40 CFR 52.220(c)(288)(i)(B)(1).
1160 | Prescribed Burning, Habitat Improvement Burning, Wildland Vegetation Burning and Forest Management Burning | June 19, 2001 | June 14, 2002, 67 FR 40867 | Submitted on October 30, 2001. See 40 CFR 52.220(c)(288)(i)(B)(1).
1170 | Wood Waste Burning | June 19, 2001 | June 14, 2002, 67 FR 40867 | Submitted on October 30, 2001. Refers to Table 9—listed separately in this table. See 40 CFR 52.220(c)(288)(i)(B)(1).
Chapter XII—Issuing Permit to Title V Sources
12.200(a4), (c2), (d1), (d2), (d3), (e3), (f1), (f2), (m1), (o1), (p1), (p2) and (s3) | Definitions | October 19, 1993 | July 13, 1995, 60 FR 36065 | Approved defined terms include Air Pollution Control Officer (APCO), Clean Air Act, Designated Non-Major Stationary Source, Designated Non-Major Stationary Source Operating Permit, Direct Emissions, Emissions Unit, Federally-Enforceable Condition, Fugitive Emissions, Major Source, Operation, Permit Modification, Potential to Emit, and Stationary Source. Submitted on February 28, 1994. See 40 CFR 52.220(c)(217)(i)(B)(1).
12.800 | Designated Non-Major Stationary Source Requirements | October 19, 1993 | July 13, 1995, 60 FR 36065 | Submitted on February 28, 1994. See 40 CFR 52.220(c)(217)(i)(B)(1).
12.810 | Application for a Designated Non-Major Stationary Source Operating Permit | October 19, 1993 | July 13, 1995, 60 FR 36065 | Submitted on February 28, 1994. See 40 CFR 52.220(c)(217)(i)(B)(1).
12.820 | Timely Application for a Designated Non-Major Stationary Source Operating Permit | October 19, 1993 | July 13, 1995, 60 FR 36065 | Submitted on February 28, 1994. See 40 CFR 52.220(c)(217)(i)(B)(1).
12.830 | Procedure and Content for Issuance or Denial of a Designated Non-Major Stationary Source Operating Permit | October 19, 1993 | July 13, 1995, 60 FR 36065 | Submitted on February 28, 1994. See 40 CFR 52.220(c)(217)(i)(B)(1).
12.840 | Non-compliance, Designated Non-Major Stationary Source | October 19, 1993 | July 13, 1995, 60 FR 36065 | Submitted on February 28, 1994. See 40 CFR 52.220(c)(217)(i)(B)(1).
12.850 | Loss of Status as a Designated Non-Major Stationary Source | October 19, 1993 | July 13, 1995, 60 FR 36065 | Submitted on February 28, 1994. See 40 CFR 52.220(c)(217)(i)(B)(1).
Tables
III | Guides for Estimating Dry Weights of Several California Fuel Types | November 22, 1976 | August 4, 1978, 43 FR 34463 | Submitted on February 10, 1977. Erroneously deleted at 62 FR 34641 (June 27, 1997) but reinstated at 84 FR 45422 (August 29, 2019). Table III is currently codified in Lake County air pollution regulations as “Table 10.” Table 10 is cited in Table 9 and used in connection with Sections 1140 and 1170. See 40 CFR 52.220(c)(37)(iv)(B).
IV | Particulate Matter Emissions Standard for Process Units and Process Equipment | November 22, 1976 | August 4, 1978, 43 FR 34463 | Submitted on February 10, 1977. Erroneously deleted at 62 FR 34641 (June 27, 1997) but reinstated at 84 FR 45422 (August 29, 2019). Cited in Section 411. See 40 CFR 52.220(c)(37)(iv)(B).
8 | Agencies Designated to Issue Burning Permits | August 9, 2005 | November 9, 2006, 71 FR 65740 | Submitted on March 10, 2006. Cited in Section 1002. See 40 CFR 52.220(c)(344)(i)(B)(1).
9 | Daily Quota of Agricultural Material that May Be Burned by Watershed | June 19, 2001 | June 14, 2002, 67 FR 40867 | Submitted on October 30, 2001. Cited in Sections 1140 and 1170. Refers to Table 10—listed as Table III in this table. See 40 CFR 52.220(c)(288)(i)(B)(1).

Table 17—EPA-Approved Lassen County Air Pollution Control District Regulations
District citation | Title/subject | State effective date | EPA approval date | Additional explanation
Regulation I—General Provisions
1:1 | Title | October 1, 1971 | September 22, 1972, 37 FR 19812 | Submitted on June 30, 1972. See 40 CFR 52.220(c)(6).
1:2 | Definitions | June 30, 1972 | September 22, 1972, 37 FR 19812 | Submitted on June 30, 1972. See 40 CFR 52.220(c)(6).
1:3 | Air Pollution Data | October 1, 1971 | September 22, 1972, 37 FR 19812 | Submitted on June 30, 1972. See 40 CFR 52.220(c)(6).
1:4 | Enforcement | October 1, 1971 | September 22, 1972, 37 FR 19812 | Submitted on June 30, 1972. See 40 CFR 52.220(c)(6).
1:6 | General Provisions | October 1, 1971 | September 22, 1972, 37 FR 19812 | Submitted on June 30, 1972. See 40 CFR 52.220(c)(6).
Regulation II—Permits
2:0 | Permits Required | October 1, 1971 | September 22, 1972, 37 FR 19812 | Submitted on June 30, 1972. See 40 CFR 52.220(c)(6).
2:1 | Sources Not Requiring Permit | October 1, 1971 | September 22, 1972, 37 FR 19812 | Submitted on June 30, 1972. See 40 CFR 52.220(c)(6).
2:3 | Transfer | October 1, 1971 | September 22, 1972, 37 FR 19812 | Submitted on June 30, 1972. See 40 CFR 52.220(c)(6).
2:5 | Cancellation of Applications | October 1, 1971 | September 22, 1972, 37 FR 19812 | Submitted on June 30, 1972. See 40 CFR 52.220(c)(6).
2:7 | Provision of Sampling and Testing Facilities | October 1, 1971 | September 22, 1972, 37 FR 19812 | Submitted on June 30, 1972. See 40 CFR 52.220(c)(6).
2:8 | Standards for Granting Applications | October 1, 1971 | September 22, 1972, 37 FR 19812 | Submitted on June 30, 1972. See 40 CFR 52.220(c)(6).
2:9 | Conditional Approval | October 1, 1971 | September 22, 1972, 37 FR 19812 | Submitted on June 30, 1972. See 40 CFR 52.220(c)(6).
Regulation IV—Prohibitions
4:0 | Ringelmann Chart | October 1, 1971 | September 22, 1972, 37 FR 19812 | Submitted on June 30, 1972. See 40 CFR 52.220(c)(6).
4:1 | Wet Plumes | October 1, 1971 | September 22, 1972, 37 FR 19812 | Submitted on June 30, 1972. See 40 CFR 52.220(c)(6).
4:3 | Particulate Matter | October 1, 1971 | September 22, 1972, 37 FR 19812 | Submitted on June 30, 1972. See 40 CFR 52.220(c)(6).
4:4 | Specific Air Contaminants | June 30, 1972 | September 22, 1972, 37 FR 19812 | Submitted on June 30, 1972. See 40 CFR 52.220(c)(6).
4:4 (paragraph c) | Specific Air Contaminants | October 1, 1971 | May 31, 1972, 37 FR 10842 | Paragraphs (a) and (b) were superseded by approval of Rule 4:4 at 37 FR 19812 (September 22, 1972) but paragraph (c), which limits NOX emissions, remains in the applicable SIP. Submitted on February 21, 1972. See 40 CFR 52.220(b).
4:5 | Exceptions | October 1, 1971 | September 22, 1972, 37 FR 19812 | Submitted on June 30, 1972. See 40 CFR 52.220(c)(6).
4:6 | Additional Exception | October 1, 1971 | September 22, 1972, 37 FR 19812 | Submitted on June 30, 1972. See 40 CFR 52.220(c)(6).
4:7 | Open Burning | October 1, 1971 | September 22, 1972, 37 FR 19812 | Submitted on June 30, 1972. See 40 CFR 52.220(c)(6).
4:8 | Exceptions | October 1, 1971 | September 22, 1972, 37 FR 19812 | Submitted on June 30, 1972. See 40 CFR 52.220(c)(6).
4:9 | Not a Violation of Law | October 1, 1971 | September 22, 1972, 37 FR 19812 | Submitted on June 30, 1972. See 40 CFR 52.220(c)(6).
4:10 | Sulfur Contents of Fuels | June 30, 1972 | September 22, 1972, 37 FR 19812 | Submitted on June 30, 1972. See 40 CFR 52.220(c)(6).
4:11 | Solid Particulate Matter—Weight | June 30, 1972 | September 22, 1972, 37 FR 19812 | Submitted on June 30, 1972. See 40 CFR 52.220(c)(6).
4:11 | Exception to Rule 4:10 | October 1, 1971 | May 31, 1972, 37 FR 10842 | Submitted on February 21, 1972. See 40 CFR 52.220(b).
4:12 | Separation of Emissions | June 30, 1972 | September 22, 1972, 37 FR 19812 | Submitted on June 30, 1972. See 40 CFR 52.220(c)(6).
4:13 | Combination of Emissions | June 30, 1972 | September 22, 1972, 37 FR 19812 | Submitted on June 30, 1972. See 40 CFR 52.220(c)(6).
4:14 | Orchard and Citrus Heaters | June 30, 1972 | September 22, 1972, 37 FR 19812 | Submitted on June 30, 1972. See 40 CFR 52.220(c)(6).
4:15 | Gasoline Storage | June 30, 1972 | September 22, 1972, 37 FR 19812 | Submitted on June 30, 1972. See 40 CFR 52.220(c)(6).
4:15 | Sulfur Content of Fuels | October 1, 1971 | May 31, 1972, 37 FR 10842 | Submitted on February 21, 1972. See 40 CFR 52.220(b).
4:16 | Circumvention | June 30, 1972 | September 22, 1972, 37 FR 19812 | Submitted on June 30, 1972. See 40 CFR 52.220(c)(6).
4:17 | Reduction of Odorous Matter | June 30, 1972 | September 22, 1972, 37 FR 19812 | Submitted on June 30, 1972. See 40 CFR 52.220(c)(6).
Implementation Plan for Agricultural Burning
Article I | Definitions | August 11, 1987 | October 23, 1989, 54 FR 43173; corrected on June 1, 1990, 55 FR 22334 | Submitted on March 23, 1988. See 40 CFR 52.220(c)(176)(i)(C)(1).
Article II | Notification of Burning Conditions | August 11, 1987 | October 23, 1989, 54 FR 43173; corrected on June 1, 1990, 55 FR 22334 | Submitted on March 23, 1988. See 40 CFR 52.220(c)(176)(i)(C)(1).
Article III | Exceptions | August 11, 1987 | October 23, 1989, 54 FR 43173; corrected on June 1, 1990, 55 FR 22334 | Submitted on March 23, 1988. See 40 CFR 52.220(c)(176)(i)(C)(1).
Article IV | Enforcement | August 11, 1987 | October 23, 1989, 54 FR 43173; corrected on June 1, 1990, 55 FR 22334 | Submitted on March 23, 1988. See 40 CFR 52.220(c)(176)(i)(C)(1).
Article V | Prohibitions | August 11, 1987 | October 23, 1989, 54 FR 43173; corrected on June 1, 1990, 55 FR 22334 | Includes Section 5.1 (General) and Section 5.1 (Range Improvement Burning). Submitted on March 23, 1988. See 40 CFR 52.220(c)(176)(i)(C)(1).
Article VI | Burning Permits | August 11, 1987 | October 23, 1989, 54 FR 43173; corrected on June 1, 1990, 55 FR 22334 | Submitted on March 23, 1988. See 40 CFR 52.220(c)(176)(i)(C)(1).
Article VII | Agricultural Burning Permits | August 11, 1987 | October 23, 1989, 54 FR 43173; corrected on June 1, 1990, 55 FR 22334 | Submitted on March 23, 1988. See 40 CFR 52.220(c)(176)(i)(C)(1).

Table 18—EPA-Approved Mariposa County Air Pollution Control District Regulations
District citation | Title/subject | State effective date | EPA approval date | Additional explanation
Original Codification of Rules and Regulations
Regulation VII—Enforcement
7.1 | Order for Abatement | July 15, 1969 | May 31, 1972, 37 FR 10842 | Submitted on February 21, 1972. See 40 CFR 52.220(b).
7.2 | Draft Order | July 15, 1969 | May 31, 1972, 37 FR 10842 | Submitted on February 21, 1972. See 40 CFR 52.220(b).
7.3 | Final Order | July 15, 1969 | May 31, 1972, 37 FR 10842 | Submitted on February 21, 1972. See 40 CFR 52.220(b).
7.4 | Effective Date of Order | July 15, 1969 | May 31, 1972, 37 FR 10842 | Submitted on February 21, 1972. See 40 CFR 52.220(b).
7.5 | Judicial Review | July 15, 1969 | May 31, 1972, 37 FR 10842 | Submitted on February 21, 1972. See 40 CFR 52.220(b).
7.6 | Record Before Court | July 15, 1969 | May 31, 1972, 37 FR 10842 | Submitted on February 21, 1972. See 40 CFR 52.220(b).
7.7 | Injunctions | July 15, 1969 | May 31, 1972, 37 FR 10842 | Submitted on February 21, 1972. See 40 CFR 52.220(b).
7.8 | Procedure for Injunctions | July 15, 1969 | May 31, 1972, 37 FR 10842 | Submitted on February 21, 1972. See 40 CFR 52.220(b).
1972-1974 Codification of Rules and Regulations
Rules and Regulations—Prohibitions
6.1 | Nitrogen Oxides—Combustion Contaminants | June 30, 1972 | September 22, 1972, 37 FR 19812 | Submitted on June 30, 1972. See 40 CFR 52.220(c)(6).
6.3 | Fuel Burning Equipment—Combustion Contaminants | June 30, 1972 | September 22, 1972, 37 FR 19812 | Submitted on June 30, 1972. See 40 CFR 52.220(c)(6).
6.4 | Fuel Burning Equipment | June 30, 1972 | September 22, 1972, 37 FR 19812 | Submitted on June 30, 1972. See 40 CFR 52.220(c)(6).
7 | Organic Solvent Rule | June 30, 1972 | September 22, 1972, 37 FR 19812 | Submitted on June 30, 1972. See 40 CFR 52.220(c)(6).
12 | Permits Required | June 30, 1972 | September 22, 1972, 37 FR 19812 | Submitted on June 30, 1972. See 40 CFR 52.220(c)(6).
14 | Posting of Permit | June 30, 1972 | September 22, 1972, 37 FR 19812 | Submitted on June 30, 1972. See 40 CFR 52.220(c)(6).
15 | Altering of Permit | June 30, 1972 | September 22, 1972, 37 FR 19812 | Submitted on June 30, 1972. See 40 CFR 52.220(c)(6).
Post-1974 Recodification of Rules and Regulations
Regulation I—General Provisions
101 | Title | January 10, 1975 | August 22, 1977, 42 FR 42219 | Submitted on January 10, 1975. See 40 CFR 52.220(c)(26)(viii)(A).
102 (excluding paragraphs (B), (E), (S), (II), and (SS)) | Definitions | January 10, 1975 | August 22, 1977, 42 FR 42219 | Submitted on January 10, 1975. See 40 CFR 52.220(c)(26)(viii)(A). Certain definitions have been superseded, including Agricultural Burning, Air Contaminant or Pollutant, Emission Data, Particulate Matter, and Section.
102 (paragraph (B)) | Definitions (Agricultural Burning) | June 6, 1977 | August 16, 1978, 43 FR 36245 | Submitted on June 6, 1977. See 40 CFR 52.220(c)(39)(vii)(A).
102 (paragraph (E)) | Definitions (Air Contaminant or Pollutant) | June 6, 1977 | August 16, 1978, 43 FR 36245 | Submitted on June 6, 1977. See 40 CFR 52.220(c)(39)(vii)(A).
102 (paragraph (S) | Definitions (Emission Data) | June 6, 1977 | August 16, 1978, 43 FR 36245 | Submitted on June 6, 1977. See 40 CFR 52.220(c)(39)(vii)(A).
102 (paragraph (II) | Definitions (Particulate Matter) | June 6, 1977 | August 16, 1978, 43 FR 36245 | Submitted on June 6, 1977. See 40 CFR 52.220(c)(39)(vii)(A).
102 (paragraph (SS)) | Definitions (Section) | June 6, 1977 | August 16, 1978, 43 FR 36245 | Submitted on June 6, 1977. See 40 CFR 52.220(c)(39)(vii)(A).
Regulation II—Prohibitions
201 | District-Wide Coverage | January 10, 1975 | August 22, 1977, 42 FR 42219 | Submitted on January 10, 1975. See 40 CFR 52.220(c)(26)(viii)(A).
202 | Visible Emissions | January 10, 1975 | August 22, 1977, 42 FR 42219 | Submitted on January 10, 1975. See 40 CFR 52.220(c)(26)(viii)(A).
203 (paragraph (d)) | Exceptions | January 10, 1975 | August 22, 1977, 42 FR 42219 | Submitted on January 10, 1975. See 40 CFR 52.220(c)(26)(viii)(A). Rule 203, as approved on August 22, 1977, was superseded by approval of amended Rule 203, and by approval of the rescission of paragraph (k), at 43 FR 36245 (August 16, 1978), except for paragraph (d).
203 (excluding paragraphs (D) and (G)) | Exceptions | June 6, 1977 | August 16, 1978, 43 FR 36245 | Submitted on June 6, 1977. See 40 CFR 52.220(c)(39)(vii)(A). No action was taken on paragraph (D), and paragraph (G) was disapproved at 43 FR 36245 (August 16, 1978).
204 | Wet Plumes | January 10, 1975 | August 22, 1977, 42 FR 42219 | Submitted on January 10, 1975. See 40 CFR 52.220(c)(26)(viii)(A).
206 | Incinerator Burning | January 10, 1975 | August 22, 1977, 42 FR 42219 | Submitted on January 10, 1975. See 40 CFR 52.220(c)(26)(viii)(A).
206(B) | Pathological Incineration | June 6, 1977 | August 16, 1978, 43 FR 36245 | Submitted on June 6, 1977. See 40 CFR 52.220(c)(39)(vii)(A).
207 | Particulate Matter | June 6, 1977 | August 16, 1978, 43 FR 36245 | Submitted on June 6, 1977. See 40 CFR 52.220(c)(39)(vii)(A).
208 | Orchard or Citrus Heaters | June 6, 1977 | August 16, 1978, 43 FR 36245 | Submitted on June 6, 1977. See 40 CFR 52.220(c)(39)(vii)(A).
210 | Sulfur Emissions | January 10, 1975 | August 22, 1977, 42 FR 42219 | Submitted on January 10, 1975. See 40 CFR 52.220(c)(26)(viii)(A).
211 | Process Weight Per Hour | January 10, 1975 | August 22, 1977, 42 FR 42219 | Submitted on January 10, 1975. See 40 CFR 52.220(c)(26)(viii)(A).
212 | Process Weight Table | January 10, 1975 | August 22, 1977, 42 FR 42219 | Submitted on January 10, 1975. See 40 CFR 52.220(c)(26)(viii)(A).
213 | Storage of Petroleum Products | January 10, 1975 | August 22, 1977, 42 FR 42219 | Submitted on January 10, 1975. See 40 CFR 52.220(c)(26)(viii)(A).
214 | Reduction of Animal Matter | January 10, 1975 | August 22, 1977, 42 FR 42219 | Submitted on January 10, 1975. See 40 CFR 52.220(c)(26)(viii)(A).
215 | Enforcement | January 10, 1975 | August 22, 1977, 42 FR 42219 | Submitted on January 10, 1975. See 40 CFR 52.220(c)(26)(viii)(A).
215 | Abrasive Blasting | June 6, 1977 | August 16, 1978, 43 FR 36245 | Submitted on June 6, 1977. See 40 CFR 52.220(c)(39)(vii)(A).
216 | Existing Sources | January 10, 1975 | August 22, 1977, 42 FR 42219 | Submitted on January 10, 1975. See 40 CFR 52.220(c)(26)(viii)(A).
Regulation III—Open Burning
300 | General Definitions | July 19, 1988 | August 6, 1990, 55 FR 31833 | Submitted on February 7, 1989. See 40 CFR 52.220(c)(177)(i)(C)(1).
301 | Compliance | July 19, 1988 | August 6, 1990, 55 FR 31833 | Submitted on February 7, 1989. See 40 CFR 52.220(c)(177)(i)(C)(1).
302 | Burning Permit | July 19, 1988 | August 6, 1990, 55 FR 31833 | Submitted on February 7, 1989. See 40 CFR 52.220(c)(177)(i)(C)(1).
303 | No-Burn Day | July 19, 1988 | August 6, 1990, 55 FR 31833 | Submitted on February 7, 1989. See 40 CFR 52.220(c)(177)(i)(C)(1).
304 | Burning Management | July 19, 1988 | August 6, 1990, 55 FR 31833 | Submitted on February 7, 1989. See 40 CFR 52.220(c)(177)(i)(C)(1).
305 | Minimum Drying Times | July 19, 1988 | August 6, 1990, 55 FR 31833 | Submitted on February 7, 1989. See 40 CFR 52.220(c)(177)(i)(C)(1).
305 | Permit Validity | January 10, 1975 | August 22, 1977, 42 FR 42219 | Submitted on January 10, 1975. See 40 CFR 52.220(c)(26)(viii)(A).
306 | Agricultural Burning | July 19, 1988 | August 6, 1990, 55 FR 31833 | Submitted on February 7, 1989. See 40 CFR 52.220(c)(177)(i)(C)(1).
307 | Wildland Vegetation Management Burning | July 19, 1988 | August 6, 1990, 55 FR 31833 | Submitted on February 7, 1989. See 40 CFR 52.220(c)(177)(i)(C)(1).
308 | Nonagricultural Burning | July 19, 1988 | August 6, 1990, 55 FR 31833 | Submitted on February 7, 1989. See 40 CFR 52.220(c)(177)(i)(C)(1).
308 | Agricultural Burning Reports | June 6, 1977 | August 16, 1978, 43 FR 36245 | Submitted on June 6, 1977. See 40 CFR 52.220(c)(39)(vii)(A).
311 | Restricted Burning Days | January 10, 1975 | August 22, 1977, 42 FR 42219 | Submitted on January 10, 1975. See 40 CFR 52.220(c)(26)(viii)(A).
Regulation IV—Permit Systems Conditions
401 | Responsibility | January 10, 1975 | August 22, 1977, 42 FR 42219 | Submitted on January 10, 1975. See 40 CFR 52.220(c)(26)(viii)(A).
403 | Responsibility of Permitee | January 10, 1975 | August 22, 1977, 42 FR 42219 | Submitted on January 10, 1975. See 40 CFR 52.220(c)(26)(viii)(A).
405 | Separation of Emissions | January 10, 1975 | August 22, 1977, 42 FR 42219 | Submitted on January 10, 1975. See 40 CFR 52.220(c)(26)(viii)(A).
406 | Combination of Emissions | January 10, 1975 | August 22, 1977, 42 FR 42219 | Submitted on January 10, 1975. See 40 CFR 52.220(c)(26)(viii)(A).
407 | Circumvention | June 6, 1977 | August 16, 1978, 43 FR 36245 | Submitted on June 6, 1977. See 40 CFR 52.220(c)(39)(vii)(A).
409 | Public Records | January 10, 1975 | August 22, 1977, 42 FR 42219 | Submitted on January 10, 1975. See 40 CFR 52.220(c)(26)(viii)(A).
Regulation V—Permit System Requirements
507 | Provision of Sampling and Testing Facilities | June 6, 1977 | August 16, 1978, 43 FR 36245 | Submitted on June 6, 1977. See 40 CFR 52.220(c)(39)(vii)(A).
513 | Emissions Statements | May 15, 2018 | July 13, 2020, 85 FR 41922 | Submitted on April 30, 2019. See 40 CFR 52.220(c)(534)(i)(A)(1).
Regulation XI—NSR Requirements for New and Modified Major Sources in the Mariposa County Air Pollution Control District
Regulation XI | NSR Requirements for New and Modified Major Sources in the Mariposa County Air Pollution Control District | March 12, 2019 | November 19, 2020, 85 FR 73634 | Submitted on April 5, 2019. See 40 CFR 52.220(c)(544)(i)(B)(1).
Emergency Episode Plans
Mariposa County Air Pollution Control District, Resolution No. 1APCD-2020-4, April 7, 2020 | Final Ozone Emergency Episode Plan, February 21, 2020 | April 7, 2020 | March 30, 2021, 86 FR 16533 | Submitted on June 25, 2020 as an attachment to a letter dated June 16, 2020. See 40 CFR 52.220(c)(552)(i)(E)(1).

Table 19—EPA-Approved Mendocino County Air Quality Management District Regulations
District citation | Title/subject | State effective date | EPA approval date | Additional explanation
Original Codification of Rules and Regulations
Part V—Prohibitions and Standards
1 | Visible Emissions | February 9, 1971 | May 31, 1972, 37 FR 10842 | Submitted on February 21, 1972. See 40 CFR 52.220(b). Most of the provisions have been superseded by approval of District Rule 410, but certain exclusions in paragraph (C) (i.e., exclusions (1), (2), (3) and (7)) have not been superseded or rescinded and thus remain in the applicable SIP.
3 | Total Reduced Sulfides | February 9, 1971 | May 31, 1972, 37 FR 10842 | Submitted on February 21, 1972. See 40 CFR 52.220(b).
Part VI—Maintenance, Malfunction, Evasion, Inspection
3 | Evasion | February 9, 1971 | May 31, 1972, 37 FR 10842 | Submitted on February 21, 1972. See 40 CFR 52.220(b).
Part VIII—Emergency Conditions
1 | Emergency Conditions | February 9, 1971 | May 31, 1972, 37 FR 10842 | Submitted on February 21, 1972. See 40 CFR 52.220(b).
1976 Recodification of Rules and Regulations
Regulation 1—Air Quality Control Rules
Chapter I—General Provisions
100 | Title | December 13, 1983 | December 5, 1984, 49 FR 47490 | Submitted on April 19, 1984. See 40 CFR 52.220(c)(154)(i)(A).
110 | Purpose | July 13, 1976 | November 7, 1978, 43 FR 51768 | Submitted on November 10, 1976. See 40 CFR 52.220(c)(35)(xv)(C).
120 | Administration | December 13, 1983 | December 5, 1984, 49 FR 47490 | Submitted on April 19, 1984. See 40 CFR 52.220(c)(154)(i)(A).
150 | Public Records | July 13, 1976 | November 7, 1978, 43 FR 51768 | Submitted on November 10, 1976. See 40 CFR 52.220(c)(35)(xv)(C).
190 | Validity | July 13, 1976 | November 7, 1978, 43 FR 51768 | Submitted on November 10, 1976. See 40 CFR 52.220(c)(35)(xv)(C).
Chapter II—Permits
210 | Environmental Assessment | August 7, 1979 | June 18, 1982, 47 FR 26379 | Submitted on April 17, 1980. See 40 CFR 52.220(c)(119)(ii)(A).
240 (excluding the introductory paragraph to paragraph (e)) | Permit to Operate | December 13, 1983 | December 5, 1984, 49 FR 47490 | Submitted on April 19, 1984. See 40 CFR 52.220(c)(154)(i)(A). The introductory paragraph to paragraph (e) was superseded by approval of a revised introductory paragraph at 50 FR 19529 (May 9, 1985).
240 (introductory paragraph to paragraph (e)) | Permit to Operate | September 18, 1984 | May 9, 1985, 50 FR 19529 | Submitted on December 3, 1984. See 40 CFR 52.220(c)(158)(i)(A).
260 | Exclusions | December 13, 1983 | July 31, 1985, 50 FR 30941 | Submitted on April 19, 1984. See 40 CFR 52.220(c)(154)(i)(B).
Chapter IV—Prohibitions
400(b) | Circumvention | April 6, 1993 | March 21, 2003, 68 FR 13843 | Submitted on November 18, 1993. See 40 CFR 52.220(c)(194)(i)(G)(2).
410 (excluding (c)(2)) | Visible Emissions | August 1, 1978 | October 31, 1980, 45 FR 72147 | Submitted on May 7, 1979. See 40 CFR 52.220(c)(50)(iii)(A).
420 | Particulate Matter | February 13, 1979 | October 31, 1980, 45 FR 72147 | Submitted on May 23, 1979. See 40 CFR 52.220(c)(51)(v)(A).
430 | Fugitive Dust | July 13, 1976 | November 7, 1978, 43 FR 51768 | Submitted on November 10, 1976. See 40 CFR 52.220(c)(35)(xv)(C).
440 | Sulfur Oxide Emissions | July 13, 1976 | November 7, 1978, 43 FR 51768 | Submitted on November 10, 1976. See 40 CFR 52.220(c)(35)(xv)(C).
455(a) and (d) | Geothermal Emission Standards | June 21, 1977 | December 21, 1978, 43 FR 59487 | Submitted on November 4, 1977. See 40 CFR 52.220(c)(42)(xix)(A).
470 | Reduction of Animal Matter | July 13, 1976 | November 7, 1978, 43 FR 51768 | Submitted on November 10, 1976. See 40 CFR 52.220(c)(35)(xv)(C).
480 | Orchard, Vineyard and Citrus Grove Heaters | July 13, 1976 | November 7, 1978, 43 FR 51768 | Submitted on November 10, 1976. See 40 CFR 52.220(c)(35)(xv)(C).
482 | Petroleum Loading and Storage | July 13, 1976 | November 7, 1978, 43 FR 51768 | Submitted on November 10, 1976. See 40 CFR 52.220(c)(35)(xv)(C).
Chapter V—Enforcement and Penalty Actions
540 | Equipment Breakdown | February 13, 1979 | October 31, 1980, 45 FR 72147 | Submitted on May 23, 1979. See 40 CFR 52.220(c)(51)(v)(A).
Appendices to Regulation 1
Appendix B (excluding paragraph (D)(1)(e)) | Continuous Monitoring | December 13, 1983 | December 5, 1984, 49 FR 47490 | Submitted on April 19, 1984. See 40 CFR 52.220(c)(154)(i)(A). No action was taken on paragraph (D)(1)(e) at 49 FR 47490 (December 5, 1984).
Regulation 2—Open Burning Procedures
Chapter I—General Provisions
120 (paragraphs (h), (k) and (n)) | Definitions | April 1, 1980 | April 13, 1982, 47 FR 15784 | Submitted on January 28, 1981. See 40 CFR 52.220(c)(98)(iii)(A). All of the definitions other than for “mechanized burner,” “open burning,” and “regulated open burning” were superseded by approval of Rule 2-200 at 49 FR 47490 (December 5, 1984).
Chapter II—Burning Approval Procedures
200 | Classification of Open Burning | April 1, 1980 | April 13, 1982, 47 FR 15784 | Submitted on January 28, 1981. See 40 CFR 52.220(c)(98)(iii)(A).
240 | Burning Permits and Reports | April 1, 1980 | April 13, 1982, 47 FR 15784 | Submitted on January 28, 1981. See 40 CFR 52.220(c)(98)(iii)(A).
Chapter III—Limitations & Enforcement
300 | Burning Preparation and Restrictions | April 1, 1980 | April 13, 1982, 47 FR 15784 | Submitted on January 28, 1981. See 40 CFR 52.220(c)(98)(iii)(A).
Appendices to Regulation 2
Appendix A | Humboldt Bay Air Basin | April 1, 1980 | April 13, 1982, 47 FR 15784 | Submitted on January 28, 1981. See 40 CFR 52.220(c)(98)(iii)(A).
Appendix B | Ukiah—Little Lake Air Basin | April 1, 1980 | April 13, 1982, 47 FR 15784 | Submitted on January 28, 1981. See 40 CFR 52.220(c)(98)(iii)(A).
Appendix C | Districts by Watershed | April 1, 1980 | April 13, 1982, 47 FR 15784 | Submitted on January 28, 1981. See 40 CFR 52.220(c)(98)(iii)(A).
More Recent Recodification of District Rules
Regulation 1—Air Pollution Control Rules
1-130 | Definitions | September 20, 2016 | July 3, 2017, 82 FR 30770 | Submitted on November 15, 2016. See 40 CFR 52.220(c)(489)(i)(A)(1).
1-200 | Permit Requirements | September 20, 2016 | July 3, 2017, 82 FR 30770 | Submitted on November 15, 2016. See 40 CFR 52.220(c)(489)(i)(A)(2).
1-220 | New Source Review Standards (Including PSD Evaluations) | April 7, 2020 | June 25, 2021, 86 FR 33539 | Submitted on August 10, 2020. See 40 CFR 52.220(c)(555)(i)(A)(1).
1-230 | Action on Applications | April 7, 2020 | June 25, 2021, 86 FR 33539 | Submitted on August 10, 2020. See 40 CFR 52.220(c)(555)(i)(A)(2).
Regulation 2—Open Burning
2-101 | Restrictions and Descriptions | December 13, 1983 | December 5, 1984, 49 FR 47490 | Submitted on April 19, 1984. See 40 CFR 52.220(c)(154)(i)(A).
2-102 | Exemptions | December 13, 1983 | December 5, 1984, 49 FR 47490 | Submitted on April 19, 1984. See 40 CFR 52.220(c)(154)(i)(A).
2-200 | Definitions | December 13, 1983 | December 5, 1984, 49 FR 47490 | Submitted on April 19, 1984. See 40 CFR 52.220(c)(154)(i)(A).
2-301 | Open Burning—Agricultural | December 13, 1983 | December 5, 1984, 49 FR 47490 | Submitted on April 19, 1984. See 40 CFR 52.220(c)(154)(i)(A).
2-302 | Open Burning—Nonagricultural | December 13, 1983 | December 5, 1984, 49 FR 47490 | Submitted on April 19, 1984. See 40 CFR 52.220(c)(154)(i)(A).
2-303 | Forecasts | December 13, 1983 | December 5, 1984, 49 FR 47490 | Submitted on April 19, 1984. See 40 CFR 52.220(c)(154)(i)(A).
2-304 | Burning Permits | December 13, 1983 | December 5, 1984, 49 FR 47490 | Submitted on April 19, 1984. See 40 CFR 52.220(c)(154)(i)(A).
2-305 | Designated Fire Agencies | December 13, 1983 | December 5, 1984, 49 FR 47490 | Submitted on April 19, 1984. See 40 CFR 52.220(c)(154)(i)(A).
2-401 | Burning Preparation and Restrictions | December 13, 1983 | December 5, 1984, 49 FR 47490 | Submitted on April 19, 1984. See 40 CFR 52.220(c)(154)(i)(A).
2-501 | Prohibitions | December 13, 1983 | December 5, 1984, 49 FR 47490 | Submitted on April 19, 1984. See 40 CFR 52.220(c)(154)(i)(A).

Table 20—EPA-Approved Modoc County Air Pollution Control District Regulations
District citation | Title/subject | State effective date | EPA approval date | Additional explanation
Original Codification of Air Pollution Rules and Regulations
Regulation I—General Provisions
1:1 | Title | April 17, 1972 | September 22, 1972, 37 FR 19812 | Submitted on June 30, 1972. See 40 CFR 52.220(c)(6).
1:3 | Air Pollution Data | April 17, 1972 | September 22, 1972, 37 FR 19812 | Submitted on June 30, 1972. See 40 CFR 52.220(c)(6).
1:6 | General Provisions | April 17, 1972 | September 22, 1972, 37 FR 19812 | Submitted on June 30, 1972. See 40 CFR 52.220(c)(6).
Regulation II—Permits
2:0 | Permits Required | April 17, 1972 | September 22, 1972, 37 FR 19812 | Submitted on June 30, 1972. See 40 CFR 52.220(c)(6).
2:1 | Sources Not Requiring Permits | April 17, 1972 | September 22, 1972, 37 FR 19812 | Submitted on June 30, 1972. See 40 CFR 52.220(c)(6).
2:8 (excluding paragraph (a.)) | Standards for Granting Applications | April 17, 1972 | September 22, 1972, 37 FR 19812 | Submitted on June 30, 1972. See 40 CFR 52.220(c)(6). Paragraph (a.) was superseded by approval of Rule 2:8-e at 47 FR 26379 (June 18, 1982).
2:8-e | Standards for Permits to Construct | June 18, 1979 | June 18, 1982, 47 FR 26379 | Submitted on December 17, 1979. See 40 CFR 52.220(c)(58)(ix)(A).
2:11 | List and Criteria | August 21, 1978 | January 27, 1981, 46 FR 8471 | Submitted on May 7, 1979. See 40 CFR 52.220(c)(50)(vii)(A).
Regulation III—Prohibitions
3:3 | Particulate Matter | August 21, 1978 | January 27, 1981, 46 FR 8471 | Submitted on May 7, 1979. See 40 CFR 52.220(c)(50)(vii)(A).
3:4 | Specific Air Contaminants | August 21, 1978 | January 27, 1981, 46 FR 8471 | Submitted on May 7, 1979. See 40 CFR 52.220(c)(50)(vii)(A).
3:4A | Reduction of Odorous Matter | April 17, 1972 | September 22, 1972, 37 FR 19812 | Submitted on June 30, 1972. See 40 CFR 52.220(c)(6).
3:7 | Open Burning | April 17, 1972 | September 22, 1972, 37 FR 19812 | Submitted on June 30, 1972. See 40 CFR 52.220(c)(6).
3:8 | Exceptions | April 17, 1972 | September 22, 1972, 37 FR 19812 | Submitted on June 30, 1972. See 40 CFR 52.220(c)(6).
3:9 | Other Violations Not Permitted | April 17, 1972 | September 22, 1972, 37 FR 19812 | Submitted on June 30, 1972. See 40 CFR 52.220(c)(6).
3:10 | Sulfur Contents of Fuels | April 17, 1972 | September 22, 1972, 37 FR 19812 | Submitted on June 30, 1972. See 40 CFR 52.220(c)(6).
3:10A | Ambient Air Quality Standards | December 18, 1972 | February 10, 1977, 42 FR 8376; corrected on August 22, 1977, 42 FR 42219 | Submitted on July 25, 1973. See 40 CFR 52.220(c)(21)(ii)(A).
3:12 | Solid Particulate Matter—Weight | August 21, 1978 | April 13, 1982, 47 FR 15784 | Submitted on October 10, 1980. See 40 CFR 52.220(c)(84)(vii)(A).
3:14 | Combination of Emissions | April 17, 1972 | September 22, 1972, 37 FR 19812 | Submitted on June 30, 1972. See 40 CFR 52.220(c)(6).
3:16 | Gasoline Storage | April 17, 1972 | September 22, 1972, 37 FR 19812 | Submitted on June 30, 1972. See 40 CFR 52.220(c)(6).
Regulation V—Agricultural Burning
5:1 | Enforcement | December 18, 1972 | February 10, 1977, 42 FR 8376; corrected on August 22, 1977, 42 FR 42219 | Submitted on July 25, 1973. See 40 CFR 52.220(c)(21)(ii)(A).
5:2 | Burning Permits | December 18, 1972 | February 10, 1977, 42 FR 8376; corrected on August 22, 1977, 42 FR 42219 | Submitted on July 25, 1973. See 40 CFR 52.220(c)(21)(ii)(A).
5:4 | Notification of Burning Conditions | December 18, 1972 | February 10, 1977, 42 FR 8376; corrected on August 22, 1977, 42 FR 42219 | Submitted on July 25, 1973. See 40 CFR 52.220(c)(21)(ii)(A).
5:5 | Exceptions | December 18, 1972 | February 10, 1977, 42 FR 8376; corrected on August 22, 1977, 42 FR 42219 | Submitted on July 25, 1973. See 40 CFR 52.220(c)(21)(ii)(A).
5:6 | Enforcement | December 18, 1972 | February 10, 1977, 42 FR 8376; corrected on August 22, 1977, 42 FR 42219 | Submitted on July 25, 1973. See 40 CFR 52.220(c)(21)(ii)(A).
5:7 | Prohibitions | December 18, 1972 | February 10, 1977, 42 FR 8376; corrected on August 22, 1977, 42 FR 42219 | Submitted on July 25, 1973. See 40 CFR 52.220(c)(21)(ii)(A). Includes general prohibitions as well as specific provisions related to range improvement burning and forest management burning.
January 1989 Recodification of Air Pollution Rules and Regulations
Regulation I—General Provisions
1.2 | Definitions | May 1, 1989 | June 30, 1999, 64 FR 35005 | Submitted on December 31, 1990. See 40 CFR 52.220(c)(182)(i)(F)(3).
Regulation II—Permit System
2.3 | Transfers | January 15, 1989 | August 1, 2016, 81 FR 50362 | Submitted on December 31, 1990. See 40 CFR 52.220(c)(182)(i)(F)(5).
2.5 | Expiration of Applications | January 15, 1989 | August 1, 2016, 81 FR 50362 | Submitted on December 31, 1990. See 40 CFR 52.220(c)(182)(i)(F)(6).
2.7 | Conditional Approval | January 15, 1989 | August 1, 2016, 81 FR 50362 | Submitted on December 31, 1990. See 40 CFR 52.220(c)(182)(i)(F)(7).
2.10 | Further Information | January 15, 1989 | August 1, 2016, 81 FR 50362 | Submitted on December 31, 1990. See 40 CFR 52.220(c)(182)(i)(F)(8).
Regulation IV—Prohibitions
4.1 | Visible Emissions | January 15, 1989 | July 17, 2001, 66 FR 37151 | Submitted on December 31, 1990. See 40 CFR 52.220(c)(182)(i)(F)(4).
4.1-2 | Uncombined Water | January 3, 1989 | June 3, 1999, 64 FR 29790 | Submitted on December 31, 1990. See 40 CFR 52.220(c)(182)(i)(F)(1).
4.6 | Circumvention | January 3, 1989 | June 3, 1999, 64 FR 29790 | Submitted on December 31, 1990. See 40 CFR 52.220(c)(182)(i)(F)(1).
4.6-1 | Exception to Circumvention | January 3, 1989 | June 3, 1999, 64 FR 29790 | Submitted on December 31, 1990. See 40 CFR 52.220(c)(182)(i)(F)(1).
4.9 | Separation of Emissions | January 3, 1989 | June 3, 1999, 64 FR 29790 | Submitted on December 31, 1990. See 40 CFR 52.220(c)(182)(i)(F)(1).
4.11 | Orchard and Citrus Heaters | January 3, 1989 | May 18, 1999, 64 FR 26876 | Submitted on December 31, 1990. See 40 CFR 52.220(c)(182)(i)(F)(2).
Regulation VII—Agricultural Burning
7.1 | Definitions | May 1, 1989 | June 30, 1999, 64 FR 35005 | Submitted on December 31, 1990. See 40 CFR 52.220(c)(182)(i)(F)(3).

Table 21—EPA-Approved Mojave Desert Air Quality Management District Regulations (District-Wide, Riverside County Portion of District, and San Bernardino County Portion of District)
District citation | Title/subject | State effective date | EPA approval date | Additional explanation
[Reserved]

Table 22—EPA-Approved Monterey Bay Air Resources District Regulations
District citation | Title/subject | State effective date | EPA approval date | Additional explanation
Air Pollution Rules and Regulations (District-Wide Applicability)
Regulation I—General Provisions
100 | Title | December 13, 1984 | July 13, 1987, 52 FR 26148 | Submitted on February 6, 1985. See 40 CFR 52.220(c)(159)(iii)(A).
101 | Definitions | February 21, 2007 | November 15, 2007, 72 FR 64156 | Submitted on August 24, 2007. See 40 CFR 52.220(c)(351)(i)(B)(1).
103 | Effective Date | December 13, 1984 | July 13, 1987, 52 FR 26148 | Submitted on February 6, 1985. See 40 CFR 52.220(c)(159)(iii)(A).
105 | Separate Zone | December 13, 1984 | July 13, 1987, 52 FR 26148 | Submitted on February 6, 1985. See 40 CFR 52.220(c)(159)(iii)(A).
106 | Increments of Progress | December 13, 1984 | July 13, 1987, 52 FR 26148 | Submitted on February 6, 1985. See 40 CFR 52.220(c)(159)(iii)(A).
Regulation II—Permits
200 | Permits Required | December 17, 1986 | July 1, 1999, 64 FR 35577 | Submitted on June 9, 1987. See 40 CFR 52.220(c)(173)(i)(C)(2).
201 (introductory paragraph through subparagraph (8.6)) | Source Not Requiring Permits | December 17, 1986 | February 3, 1989, 54 FR 5448 | Submitted on June 9, 1987. See 40 CFR 52.220(c)(173)(i)(C)(1).
201 (subparagraph (8.7 through paragraph (16)) | Source Not Requiring Permits | December 13, 1984 | July 13, 1987, 52 FR 26148 | Submitted on February 6, 1985. See 40 CFR 52.220(c)(159)(iii)(A).
202 | Transfer | December 13, 1984 | July 13, 1987, 52 FR 26148 | Submitted on February 6, 1985. See 40 CFR 52.220(c)(159)(iii)(A).
203 | Application | October 16, 2002 | March 26, 2015, 80 FR 15899 | Submitted on December 12, 2002. See 40 CFR 52.220(c)(308)(i)(E)(1).
204 | Cancellation of Applications | March 21, 2001 | March 26, 2015, 80 FR 15899 | Submitted on May 31, 2001. See 40 CFR 52.220(c)(282)(i)(C)(2).
205 | Provision of Sampling and Testing Facilities | March 21, 2001 | September 20, 2012, 77 FR 58313 | Submitted on May 31, 2001. See 40 CFR 52.220(c)(282)(i)(C)(1).
206 | Standards for Issuing Authorities to Construct and Permits to Operate | March 21, 2001 | March 26, 2015, 80 FR 15899 | Submitted on May 31, 2001. See 40 CFR 52.220(c)(282)(i)(C)(3).
207 | Review of New or Modified Sources | April 20, 2011 | March 26, 2015, 80 FR 15899 | Submitted on May 12, 2011. See 40 CFR 52.220(c)(453)(i)(A)(1).
212 | Public Availability of Emission Data | October 16, 2002 | March 26, 2015, 80 FR 15899 | Submitted on December 12, 2002. See 40 CFR 52.220(c)(308)(i)(E)(2).
213 | Continuous Emissions Monitoring | March 21, 2001 | December 9, 2002, 67 FR 72842 | Submitted on May 23, 2001. See 40 CFR 52.220(c)(281)(i)(B)(1).
214 | Breakdown Conditions | December 13, 1984 | July 13, 1987, 52 FR 26148 | Submitted on February 6, 1985. See 40 CFR 52.220(c)(159)(iii)(A).
215 | Banking of Emissions Reductions | March 26, 1997 | July 1, 1999, 64 FR 35577 | Submitted on June 3, 1997. See 40 CFR 52.220(c)(258)(i)(A)(2).
Regulation III—Fees
300 (excluding paragraph (i)(1)) | Permit Fees | June 14, 1978 | May 18, 1981, 46 FR 27116 | Submitted on December 17, 1979. See 40 CFR 52.220(c)(58)(i)(B). Paragraph (i)(1) was disapproved—see 40 CFR 52.236(g)(1)(i).
300 (part 4, paragraph 4.4 only) | Permit Fees | July 1, 1993 | January 17, 1997, 62 FR 2597 | Submitted on November 18, 1993. See 40 CFR 52.220(c)(194)(i)(F)(5). Only paragraph 4.4 (“Emissions Statement”) of part 4 was approved.
Regulation IV—Prohibitions
400 | Visible Emissions | August 15, 2012 | December 10, 2012, 77 FR 73322 | Submitted on September 20, 2012. See 40 CFR 52.220(c)(422)(i)(A)(1).
403 | Particulate Matter | February 16, 2005 | November 9, 2006, 71 FR 65740 | Submitted on July 15, 2005. See 40 CFR 52.220(c)(337)(i)(D)(1).
404 | Sulfur Compounds and Nitrogen Oxides | December 15, 2004 | October 14, 2005, 70 FR 60008 | Submitted on January 13, 2005. See 40 CFR 52.220(c)(335)(i)(A)(3).
408 | Incinerator Burning | September 15, 2004 | April 25, 2005, 70 FR 21151 | Submitted on January 13, 2005. See 40 CFR 52.220(c)(335)(i)(A)(1).
412 | Sulfur Content of Fuels | August 21, 2002 | September 30, 2003, 68 FR 56174 | Submitted on October 16, 2002. See 40 CFR 52.220(c)(302)(i)(B)(4).
413 | Removal of Sulfur Compounds | August 21, 2002 | September 30, 2003, 68 FR 56174 | Submitted on October 16, 2002. See 40 CFR 52.220(c)(302)(i)(B)(4).
414 | Reduction of Animal Matter | August 21, 2002 | September 16, 2003, 68 FR 54167 | Submitted on October 16, 2002. See 40 CFR 52.220(c)(302)(i)(B)(3).
415 | Circumvention | February 21, 2007 | January 2, 2008, 73 FR 48 | Submitted on August 24, 2007. See 40 CFR 52.220(c)(351)(i)(B)(2).
416 | Solvents | March 19, 2001 | July 17, 2002, 67 FR 46876 | Amended on January 17, 2001. Submitted on May 8, 2001. See 40 CFR 52.220(c)(284)(i)(A)(3).
417 | Storage of Organic Liquids | December 19, 2001 | February 26, 2003, 68 FR 8835 | Submitted on March 15, 2002. See 40 CFR 52.220(c)(297)(i)(D)(2).
418 | Transfer of Gasoline into Stationary Storage Containers | March 21, 2007 | January 2, 2008, 73 FR 48 | Submitted on August 24, 2007. See 40 CFR 52.220(c)(351)(i)(B)(2).
419 | Bulk Gasoline Plants and Terminals | December 13, 2000 | April 23, 2002, 67 FR 19682 | Submitted on May 8, 2001. See 40 CFR 52.220(c)(284)(i)(A)(2).
420 | Effluent Oil Water Separators | August 25, 1993 | February 9, 1996, 61 FR 4890 | Submitted on November 18, 1993. See 40 CFR 52.220(c)(194)(i)(F)(3).
421 | Violations and Determinations of Compliance | February 1, 1995 | December 9, 2002, 67 FR 72842 | Amended on December 21, 1994. Submitted on February 24, 1995. See 40 CFR 52.220(c)(215)(i)(F)(1).
425 | Use of Cutback Asphalt | March 26, 1997 | May 26, 2000, 65 FR 34101 | Submitted on June 3, 1997. See 40 CFR 52.220(c)(258)(i)(A)(3).
426 | Architectural Coatings | August 15, 2012 | January 3, 2014, 79 FR 364 | Submitted on April 22, 2013. See 40 CFR 52.220(c)(429)(i)(C)(1).
427 | Steam Drive Crude Oil Production Wells | October 17, 2007 | June 11, 2009, 74 FR 27714 | Submitted on March 7, 2008. See 40 CFR 52.220(c)(354)(i)(D)(1).
429 | Applications of Nonarchitectural Coatings | January 17, 2001 | October 3, 2001, 66 FR 50319 | Submitted on May 8, 2001. See 40 CFR 52.220(c)(284)(i)(A)(1).
431 | Emissions from Electric Power Boilers | October 17, 2001 | April 8, 2002, 67 FR 16638 | Submitted on November 7, 2001. See 40 CFR 52.220(c)(292)(i)(A)(1).
433 | Organic Solvent Cleaning | January 17, 2001 | March 7, 2003, 68 FR 10966 | Submitted on May 8, 2001. See 40 CFR 52.220(c)(284)(i)(A)(4).
434 | Coating of Metal Parts and Products | January 17, 2001 | October 3, 2001, 66 FR 50319 | Submitted on May 8, 2001. See 40 CFR 52.220(c)(284)(i)(A)(1).
436 | Title V: General Prohibitory Rule | November 6, 1996 | July 1, 1999, 64 FR 35577 | Adopted on May 17, 1995. Submitted on August 10, 1995. See 40 CFR 52.220(c)(224)(i)(D)(1).
438 | Open Outdoor Burning | September 15, 2004 | April 25, 2005, 70 FR 21151 | Submitted on January 13, 2005. See 40 CFR 52.220(c)(335)(i)(A)(2).
Regulation V—Orchard, Field Crop, or Citrus Grove Heaters
500 | Definition | December 13, 1984 | July 13, 1987, 52 FR 26148 | Submitted on February 6, 1985. See 40 CFR 52.220(c)(159)(iii)(A).
501 | Non-Complying Heaters | December 13, 1984 | July 13, 1987, 52 FR 26148 | Submitted on February 6, 1985. See 40 CFR 52.220(c)(159)(iii)(A).
502 | Approved Orchard Heaters | December 13, 1984 | July 13, 1987, 52 FR 26148 | Submitted on February 6, 1985. See 40 CFR 52.220(c)(159)(iii)(A).
503 | Condition of Heaters | December 13, 1984 | July 13, 1987, 52 FR 26148 | Submitted on February 6, 1985. See 40 CFR 52.220(c)(159)(iii)(A).
504 | Classification of Heaters | December 13, 1984 | July 13, 1987, 52 FR 26148 | Submitted on February 6, 1985. See 40 CFR 52.220(c)(159)(iii)(A).
505 | Prohibition of Sale of Heaters | December 13, 1984 | July 13, 1987, 52 FR 26148 | Submitted on February 6, 1985. See 40 CFR 52.220(c)(159)(iii)(A).
506 | Burning Rubber and Other Substances | December 13, 1984 | July 13, 1987, 52 FR 26148 | Submitted on February 6, 1985. See 40 CFR 52.220(c)(159)(iii)(A).
Regulation VII—Air Emergencies
700 | General | December 13, 1984 | July 13, 1987, 52 FR 26148 | Submitted on February 6, 1985. See 40 CFR 52.220(c)(159)(iii)(A).
701 | Sampling Stations | December 13, 1984 | July 13, 1987, 52 FR 26148 | Submitted on February 6, 1985. See 40 CFR 52.220(c)(159)(iii)(A).
702 | Air Sampling | December 13, 1984 | July 13, 1987, 52 FR 26148 | Submitted on February 6, 1985. See 40 CFR 52.220(c)(159)(iii)(A).
703 | Reports | December 13, 1984 | July 13, 1987, 52 FR 26148 | Submitted on February 6, 1985. See 40 CFR 52.220(c)(159)(iii)(A).
704 | Continuing Program of Voluntary Cooperation | December 13, 1984 | July 13, 1987, 52 FR 26148 | Submitted on February 6, 1985. See 40 CFR 52.220(c)(159)(iii)(A).
705 | Plans | December 13, 1984 | July 13, 1987, 52 FR 26148 | Submitted on February 6, 1985. See 40 CFR 52.220(c)(159)(iii)(A).
706 | Application of Rules | December 13, 1984 | July 13, 1987, 52 FR 26148 | Submitted on February 6, 1985. See 40 CFR 52.220(c)(159)(iii)(A).
707 | Episode Notification | December 13, 1984 | July 13, 1987, 52 FR 26148 | Submitted on February 6, 1985. See 40 CFR 52.220(c)(159)(iii)(A).
708 | Episode Criteria | December 13, 1984 | July 13, 1987, 52 FR 26148 | Submitted on February 6, 1985. See 40 CFR 52.220(c)(159)(iii)(A).
709 | First Stage Episode | December 13, 1984 | July 13, 1987, 52 FR 26148 | Submitted on February 6, 1985. See 40 CFR 52.220(c)(159)(iii)(A).
710 | Second Stage Episode | December 13, 1984 | July 13, 1987, 52 FR 26148 | Submitted on February 6, 1985. See 40 CFR 52.220(c)(159)(iii)(A).
711 | Third Stage Episode | December 13, 1984 | July 13, 1987, 52 FR 26148 | Submitted on February 6, 1985. See 40 CFR 52.220(c)(159)(iii)(A).
712 | Termination of Episodes | December 13, 1984 | July 13, 1987, 52 FR 26148 | Submitted on February 6, 1985. See 40 CFR 52.220(c)(159)(iii)(A).
713 | Enforcement | December 13, 1984 | July 13, 1987, 52 FR 26148 | Submitted on February 6, 1985. See 40 CFR 52.220(c)(159)(iii)(A).
Regulation X—Toxic Air Contaminants
1002 | Transfer of Gasoline into Vehicle Fuel Tanks | December 17, 2014 | September 25, 2015, 80 FR 57725 | Submitted on April 7, 2015. See 40 CFR 52.220(c)(461)(i)(A)(1).
Appendices to Rules and Regulations
Appendix G | Determining Conformity of General Federal Actions to State or Federal Implementation Plans | October 19, 1994 | April 23, 1999, 64 FR 19916 | Submitted on November 30, 1994. See 40 CFR 52.220(c)(207)(i)(E)(2).
Air Pollution Rules and Regulations (Monterey County and Santa Cruz County Portion of District)
Regulation IV—Prohibitions
404 (paragraph (c) only) | Specific Air Contaminants | July 1, 1971 | May 31, 1972, 37 FR 10842 | Adopted by the Monterey-Santa Cruz County Unified Air Pollution Control District. Submitted on February 21, 1972. See 40 CFR 52.220(b). Applies only to sources in Monterey and Santa Cruz Counties. See 42 FR 56605 (October 27, 1977) and 40 CFR 52.277(a)(1)(i)(A).
413 | Separation of Emissions | July 1, 1971 | May 31, 1972, 37 FR 10842 | Adopted by the Monterey-Santa Cruz County Unified Air Pollution Control District. Submitted on February 21, 1972. See 40 CFR 52.220(b). Applies only to sources in Monterey and Santa Cruz Counties.
414 | Combination of Emissions | July 1, 1971 | May 31, 1972, 37 FR 10842 | Adopted by the Monterey-Santa Cruz County Unified Air Pollution Control District. Submitted on February 21, 1972. See 40 CFR 52.220(b). Applies only to sources in Monterey and Santa Cruz Counties.
Air Pollution Rules and Regulations (San Benito County Portion of District)
Regulation IV—Prohibitions
406 | Separation of Emissions | August 1, 1971 | May 31, 1972, 37 FR 10842 | Adopted by the San Benito County Air Pollution Control District. Submitted on February 21, 1972. See 40 CFR 52.220(b). Applies only to sources in San Benito County.
407 | Combination of Emissions | August 1, 1971 | May 31, 1972, 37 FR 10842 | Adopted by the San Benito County Air Pollution Control District. Submitted on February 21, 1972. See 40 CFR 52.220(b). Applies only to sources in San Benito County.
408 (paragraph (b) only) | Specific Air Contaminants | August 1, 1971 | May 31, 1972, 37 FR 10842 | Adopted by the San Benito County Air Pollution Control District. Submitted on February 21, 1972. See 40 CFR 52.220(b). Applies only to sources in San Benito County. See 42 FR 56605 (October 27, 1977) and 40 CFR 52.277(a)(1)(i)(B).

Table 23—EPA-Approved North Coast Unified Air Quality Management District Regulations; Del Norte County Air Pollution Control District Regulations; Humboldt County Air Pollution Control District Regulations; Trinity County Air Pollution Control District Regulations
District citation | Title/subject | State effective date | EPA approval date | Additional explanation
Original Codification of Rules and Regulations (District-Wide Applicability)
Regulation 1 (Air Quality Control Rules), Chapter II—Permits
200(a), (b), (c)(1)-(2), and (d) | Permit Requirements | October 12, 1983 | July 31, 1985, 50 FR 30941 | Submitted on March 14, 1984. See 40 CFR 52.220(c)(153)(ii)(B).
200(c)(3)-(6) | Permit Requirements | March 14, 1984 | July 31, 1985, 50 FR 30941 | Submitted on July 10, 1984. See 40 CFR 52.220(c)(155)(v)(B).
220(a) and (b) | New Source Review Standards (Including PSD Evaluations) | March 14, 1984 | July 31, 1985, 50 FR 30941 | Paragraphs (a) and (b) are entitled “Emission Analysis,” and “New Source Review Procedure,” respectively. Submitted on July 10, 1984. See 40 CFR 52.220(c)(155)(v)(B).
220(c) | New Source Review Standards (Including PSD Evaluations) | October 12, 1983 | July 31, 1985, 50 FR 30941 | Paragraph (c) is titled “Power Plant Review Procedures.” Submitted on March 14, 1984. See 40 CFR 52.220(c)(153)(ii)(B).
240 | Permit to Operate | October 12, 1983 | December 5, 1984, 49 FR 47490 | The introductory paragraph of paragraph (e) was superseded by approval of a revised paragraph at 50 FR 19529 (May 9, 1985). Submitted on March 14, 1984. See 40 CFR 52.220(c)(153)(ii)(A).
240(e) | Permit to Operate | August 10, 1984 | May 9, 1985, 50 FR 19529 | Only the introductory paragraph of paragraph (e) was submitted and approved. Submitted on October 19, 1984. See 40 CFR 52.220(c)(156)(iii)(B).
260 | Exclusions | October 12, 1983 | July 31, 1985, 50 FR 30941 | Submitted on March 14, 1984. See 40 CFR 52.220(c)(153)(ii)(B).
Recodification of Rules and Regulations (District-Wide Applicability)
Regulation I—General Provisions, Permits and Prohibitions
100 | General Provisions | May 19, 2005 | May 6, 2009, 74 FR 20874 | Submitted on July 18, 2008. See 40 CFR 52.220(c)(359)(i)(A)(3).
101 | Definitions | May 15, 2008 | May 6, 2009, 74 FR 20874 | Submitted on July 18, 2008. See 40 CFR 52.220(c)(359)(i)(A)(4).
104.2 | Visible Emissions | May 19, 2005 | May 6, 2009, 74 FR 20877 | Submitted on July 18, 2008. See 40 CFR 52.220(c)(359)(i)(A)(1).
104.3 | Particulate Matter | May 19, 2005 | May 6, 2009, 74 FR 20877 | Submitted on July 18, 2008. See 40 CFR 52.220(c)(359)(i)(A)(1).
104.4 | Fugitive Dust Emissions | May 19, 2005 | May 6, 2009, 74 FR 20877 | Submitted on July 18, 2008. See 40 CFR 52.220(c)(359)(i)(A)(1).
104.10 | Petroleum Loading and Storage | May 19, 2005 | May 6, 2009, 74 FR 20877 | Submitted on July 18, 2008. See 40 CFR 52.220(c)(359)(i)(A)(1).
108 | Severability of Rules and Regulations | May 19, 2005 | May 6, 2009, 74 FR 20874 | Submitted on July 18, 2008. See 40 CFR 52.220(c)(359)(i)(A)(5).
Regulation II—Open Burning
200 | Effective Date and Definitions | May 15, 2008 | May 6, 2009, 74 FR 20877 | Submitted on July 18, 2008. See 40 CFR 52.220(c)(359)(i)(A)(2).
201 | General Prohibitions and Exemptions for Selected Open Burning | May 17, 2007 | May 6, 2009, 74 FR 20877 | Submitted on July 18, 2008. See 40 CFR 52.220(c)(359)(i)(A)(2).
202 | Burn Hours and Notice of Ignition | May 15, 2008 | May 6, 2009, 74 FR 20877 | Submitted on July 18, 2008. See 40 CFR 52.220(c)(359)(i)(A)(2).
203 | General Burn Practices, Requirements, and Conditions | May 15, 2008 | May 6, 2009, 74 FR 20877 | Submitted on July 18, 2008. See 40 CFR 52.220(c)(359)(i)(A)(2).
204 | Ignition Devices and Methods | May 15, 2008 | May 6, 2009, 74 FR 20877 | Submitted on July 18, 2008. See 40 CFR 52.220(c)(359)(i)(A)(2).
205 | Certificates from Department of Fish and Game | July 18, 2003 | May 6, 2009, 74 FR 20877 | Submitted on July 18, 2008. See 40 CFR 52.220(c)(359)(i)(A)(2).
206 | Burning at Disposal Sites | December 16, 2004 | May 6, 2009, 74 FR 20877 | Submitted on July 18, 2008. See 40 CFR 52.220(c)(359)(i)(A)(2).
207 | Wildland Vegetation Management Burning | May 15, 2008 | May 6, 2009, 74 FR 20877 | Submitted on July 18, 2008. See 40 CFR 52.220(c)(359)(i)(A)(2).
208 | Burn Registration Program | December 16, 2004 | May 6, 2009, 74 FR 20877 | Submitted on July 18, 2008. See 40 CFR 52.220(c)(359)(i)(A)(2).
Appendices to North Coast Unified AQMD Rules and Regulations
A | Humboldt Bay Air Basin | March 14, 1984 | January 29, 1985, 50 FR 3906 | Submitted on July 10, 1984. See 40 CFR 52.220(c)(155)(v)(A).
B (excluding paragraph (D)(1)(e)) | Continuous Monitoring | October 12, 1983 | December 5, 1984, 49 FR 47490 | Paragraph (d)(1)(e) refers to monitoring systems for kraft pulp mills. Submitted on March 14, 1984. See 40 CFR 52.220(c)(153)(ii)(A).
Original Codification of Rules and Regulations (Del Norte County portion of the District)
22(a) | Action on Applications | September 27, 1971 | May 31, 1972, 37 FR 10842 | Paragraph (a) is titled “Approval.” The rest of Rule 22 has been superseded. Submitted on February 21, 1972. See 40 CFR 52.220(b).
23 | Appeals | September 27, 1971 | May 31, 1972, 37 FR 10842 | Submitted on February 21, 1972. See 40 CFR 52.220(b).
Re-codification of Rules and Regulations (Del Norte County portion of the District)
Chapter II—Permits
230 | Action on Applications | December 14, 1981 | July 31, 1985, 50 FR 30941 | Submitted on August 6, 1982. See 40 CFR 52.220(c)(124)(vi)(B).
Chapter IV—Prohibitions
400(b) | General Limitations | August 9, 1976 | June 14, 1978, 43 FR 25677 | Paragraph (b) is titled “Circumvention.” Submitted on November 10, 1976. See 40 CFR 52.220(c)(35)(ix)(C).
440 | Sulfur Oxide Emissions | August 9, 1976 | June 14, 1978, 43 FR 25677 | Submitted on November 10, 1976. See 40 CFR 52.220(c)(35)(ix)(C).
455(a) and (d) | Geothermal Emission Standards | July 25, 1977 | November 7, 1978, 43 FR 51767 | Paragraph (a) establishes an SO2 concentration limit, and paragraph (d) is titled “Compliance Verification.” Submitted on November 4, 1977. See 40 CFR 52.220(c)(42)(xv)(A).
470 | Reduction of Animal Matter | August 9, 1976 | June 14, 1978, 43 FR 25677 | Submitted on November 10, 1976. See 40 CFR 52.220(c)(35)(ix)(C).
480 | Orchard, Vineyard, and Citrus Grove Heaters | August 9, 1976 | June 14, 1978, 43 FR 25677 | Submitted on November 10, 1976. See 40 CFR 52.220(c)(35)(ix)(C).
Chapter V—Enforcement and Penalty Actions
510 | Orders for Abatement | August 9, 1976 | June 14, 1978, 43 FR 25677 | Submitted on November 10, 1976. See 40 CFR 52.220(c)(35)(ix)(C).
540 | Equipment Breakdown | February 26, 1979 | October 31, 1980, 45 FR 72147 | Submitted on May 23, 1979. See 40 CFR 52.220(c)(51)(iii)(A).
Original Codification of Rules and Regulations (Humboldt County portion of the District)
2 | Definitions | September 22, 1970 | May 31, 1972, 37 FR 10842 | All the definitions have been superseded or otherwise are no longer relied upon except for “non-condensibles,” which is relied upon by SIP Rule 57 (Sulfide Emission Standard). Submitted on February 21, 1972. See 40 CFR 52.220(b).
10(e) | Permits Required | September 22, 1970 | May 31, 1972, 37 FR 10842 | Paragraph (e) is titled “Alteration of Permit.” The rest of Rule 10 has been superseded. Submitted on February 21, 1972. See 40 CFR 52.220(b).
54 | Incinerator Burning | September 22, 1970 | May 31, 1972, 37 FR 10842 | Submitted on February 21, 1972. See 40 CFR 52.220(b).
57 | Sulfide Emission Standard | May 2, 1972 | September 22, 1972, 37 FR 19812 | Submitted on June 30, 1972. See 40 CFR 52.220(c)(6).
Re-codification of Rules and Regulations (Humboldt County portion of the District)
Chapter II—Permits
210 | Environmental Assessment | September 30, 1980 | June 18, 1982, 47 FR 26379 | Submitted on March 23, 1981. See 40 CFR 52.220(c)(95)(vi)(A).
230 | Action on Applications | December 8, 1981 | July 31, 1985, 50 FR 30941 | Submitted on August 6, 1982. See 40 CFR 52.220(c)(124)(vii)(B).
Chapter IV—Prohibitions
400(b) | General Limitations | July 13, 1976 | August 2, 1978, 43 FR 33912 | Paragraph (b) is titled “Circumvention.” Submitted on November 10, 1976. See 40 CFR 52.220(c)(35)(xiv)(C).
440 | Sulfur Oxide Emissions | July 13, 1976 | August 2, 1978, 43 FR 33912 | Submitted on November 10, 1976. See 40 CFR 52.220(c)(35)(xiv)(C).
455(a) and (d) | Geothermal Emission Standards | June 28, 1977 | December 19, 1978, 43 FR 59063 | Paragraph (a) establishes an SO2 concentration limit, and paragraph (d) is titled “Compliance Verification.” Submitted on November 4, 1977. See 40 CFR 52.220(c)(42)(xvii)(A).
470 | Reduction of Animal Matter | July 13, 1976 | August 2, 1978, 43 FR 33912 | Submitted on November 10, 1976. See 40 CFR 52.220(c)(35)(xiv)(C).
480 | Orchard, Vineyard, and Citrus Grove Heaters | July 13, 1976 | August 2, 1978, 43 FR 33912 | Submitted on November 10, 1976. See 40 CFR 52.220(c)(35)(xiv)(C).
Chapter V—Enforcement and Penalty Actions
540 | Equipment Breakdown | December 19, 1978 | October 31, 1980, 45 FR 72147 | Submitted on May 23, 1979. See 40 CFR 52.220(c)(51)(iv)(A).
Original Codification of Rules and Regulations (Trinity County portion of the District)
14 | Alteration of Permit | May 5, 1972 | September 22, 1972, 37 FR 19812 | Submitted on June 30, 1972. See 40 CFR 52.220(c)(6).
20 | Approval | May 5, 1972 | September 22, 1972, 37 FR 19812 | Submitted on June 30, 1972. See 40 CFR 52.220(c)(6).
25 | Appeals | May 5, 1972 | September 22, 1972, 37 FR 19812 | Submitted on June 30, 1972. See 40 CFR 52.220(c)(6).
Re-codification of Rules and Regulations (Trinity County portion of the District
Chapter II—Permits
230 | Action on Applications | December 7, 1981 | July 31, 1985, 50 FR 30941 | Submitted on August 6, 1982. See 40 CFR 52.220(c)(124)(x)(B).
Chapter IV—Prohibitions
400(b) | General Limitations | July 12, 1976 | August 18, 1978, 43 FR 36625 | Paragraph (b) is titled “Circumvention.” Submitted on November 10, 1976. See 40 CFR 52.220(c)(35)(xvii)(C).
440 | Sulfur Oxide Emissions | July 12, 1976 | August 18, 1978, 43 FR 36625 | Submitted on November 10, 1976. See 40 CFR 52.220(c)(35)(xvii)(C).
455(a) and (d) | Geothermal Emission Standards | June 27, 1977 | December 21, 1978, 43 FR 59491 | Paragraph (a) establishes an SO2 concentration limit, and paragraph (d) is titled “Compliance Verification.” Submitted on November 4, 1977. See 40 CFR 52.220(c)(42)(xx)(A).
470 | Reduction of Animal Matter | July 12, 1976 | August 18, 1978, 43 FR 36625 | Submitted on November 10, 1976. See 40 CFR 52.220(c)(35)(xvii)(C).
480 | Orchard, Vineyard, and Citrus Grove Heaters | July 12, 1976 | August 18, 1978, 43 FR 36625 | Submitted on November 10, 1976. See 40 CFR 52.220(c)(35)(xvii)(C).
Chapter V—Enforcement and Penalty Actions
540 | Equipment Breakdown | January 15, 1979 | October 31, 1980, 45 FR 72147 | Submitted on May 23, 1979. See 40 CFR 52.220(c)(51)(vi)(A).

Table 24—EPA-Approved Northern Sierra Air Quality Management District Regulations; Nevada County Air Pollution Control District Regulations; Plumas County Air Pollution Control District Regulations; Sierra County Air Pollution Control District Regulations
District citation | Title/subject | State effective date | EPA approval date | Additional explanation
Rules and Regulations (District-Wide Applicability)
Regulation I—General Provisions, Permits and Prohibitions
101 | Title | September 11, 1991 | September 16, 1997, 62 FR 48480 | Submitted on October 28, 1996. See 40 CFR 52.220(c)(246)(i)(A)(1).
102 | Definitions | May 11, 1994 | September 16, 1997, 62 FR 48480 | Submitted on October 28, 1996. See 40 CFR 52.220(c)(246)(i)(A)(1).
Regulation II—Prohibitions
202 | Visible Emissions | September 11, 1991 | September 16, 1997, 62 FR 48480 | Submitted on October 28, 1996. See 40 CFR 52.220(c)(246)(i)(A)(1).
203 | Exceptions | September 11, 1991 | September 16, 1997, 62 FR 48480 | Submitted on October 28, 1996. See 40 CFR 52.220(c)(246)(i)(A)(1).
204 | Wet Plumes | September 11, 1991 | September 16, 1997, 62 FR 48480 | Submitted on October 28, 1996. See 40 CFR 52.220(c)(246)(i)(A)(1).
206 | Incinerator Burning | September 11, 1991 | September 16, 1997, 62 FR 48480 | Submitted on October 28, 1996. See 40 CFR 52.220(c)(246)(i)(A)(1).
207 | Particulate Matter | September 11, 1991 | September 16, 1997, 62 FR 48480 | Submitted on October 28, 1996. See 40 CFR 52.220(c)(246)(i)(A)(1).
208 | Orchard or Citrus Heaters | September 11, 1991 | September 16, 1997, 62 FR 48480 | Submitted on October 28, 1996. See 40 CFR 52.220(c)(246)(i)(A)(1).
209 | Fossil Fuel-Steam Generator Facility | September 11, 1991 | September 16, 1997, 62 FR 48480 | Submitted on October 28, 1996. See 40 CFR 52.220(c)(246)(i)(A)(1).
210 | Specific Contaminants | September 11, 1991 | September 16, 1997, 62 FR 48480 | Submitted on October 28, 1996. See 40 CFR 52.220(c)(246)(i)(A)(1).
211 | Process Weight Per Hour | September 11, 1991 | May 18, 1999, 64 FR 26876 | Submitted on October 28, 1996. See 40 CFR 52.220(c)(246)(i)(A)(2).
212 | Process Weight Table | September 11, 1991 | September 16, 1997, 62 FR 48480 | Submitted on October 28, 1996. The regulatory text for approval of Rule 212 was added at 84 FR 45422 (August 29, 2019). See 40 CFR 52.220(c)(246)(i)(A)(1) and (6).
214 | Phase I Vapor Recovery Requirements | April 25, 2011 | January 7, 2013, 78 FR 897 | Submitted on September 27, 2011. See 40 CFR 52.220(c)(404)(i)(B)(2).
215 | Phase II Vapor Recovery System Requirements | February 22, 2010 | July 26, 2011, 76 FR 44493 | Submitted on July 20, 2010. See 40 CFR 52.220(c)(381)(i)(D)(1).
221 | Reduction of Animal Matter | September 11, 1991 | September 16, 1997, 62 FR 48480 | Submitted on October 28, 1996. See 40 CFR 52.220(c)(246)(i)(A)(1).
222 | Abrasive Blasting | September 11, 1991 | September 16, 1997, 62 FR 48480 | Submitted on October 28, 1996. See 40 CFR 52.220(c)(246)(i)(A)(1).
225 | Compliance Tests | September 11, 1991 | September 16, 1997, 62 FR 48480 | Submitted on October 28, 1996. See 40 CFR 52.220(c)(246)(i)(A)(1).
227 | Cutback and Emulsified Asphalt | November 27, 2006 | October 30, 2009, 74 FR 56120 | Submitted on March 7, 2008. See 40 CFR 52.220(c)(354)(i)(G)(1).
228 | Surface Coating of Metal Parts and Products | April 25, 2011 | August 9, 2012, 77 FR 47536 | Submitted on September 27, 2011. See 40 CFR 52.220(c)(404)(i)(B)(1).
Regulation III—Open Burning
300 | General Definitions | September 11, 1991 | September 16, 1997, 62 FR 48480 | Submitted on October 28, 1996. See 40 CFR 52.220(c)(246)(i)(A)(1).
301 | Compliance | September 11, 1991 | September 16, 1997, 62 FR 48480 | Submitted on October 28, 1996. See 40 CFR 52.220(c)(246)(i)(A)(1).
302 | Prohibited Open Burning | November 10, 1988 | August 19, 1999, 64 FR 45170 | Submitted on October 25, 1991. See 40 CFR 52.220(c)(186)(i)(F)(1).
303 | Allowed Open Burning | November 10, 1988 | August 19, 1999, 64 FR 45170 | Submitted on October 25, 1991. See 40 CFR 52.220(c)(186)(i)(F)(1).
304 | Agricultural Burning | November 10, 1988 | August 19, 1999, 64 FR 45170 | Submitted on October 25, 1991. See 40 CFR 52.220(c)(186)(i)(F)(1).
305 | Range Improvement Burning | November 10, 1988 | August 19, 1999, 64 FR 45170 | Submitted on October 25, 1991. See 40 CFR 52.220(c)(186)(i)(F)(1).
306 | Forest Management Burning | November 10, 1988 | August 19, 1999, 64 FR 45170 | Submitted on October 25, 1991. See 40 CFR 52.220(c)(186)(i)(F)(1).
307 | Wildlands Vegetation Management Burning | November 10, 1988 | August 19, 1999, 64 FR 45170 | Submitted on October 25, 1991. See 40 CFR 52.220(c)(186)(i)(F)(1).
308 | Land Development Clearing | November 10, 1988 | August 19, 1999, 64 FR 45170 | Submitted on October 25, 1991. See 40 CFR 52.220(c)(186)(i)(F)(1).
309 | Ditch, Road and Right-of-Way Maintenance | November 10, 1988 | August 19, 1999, 64 FR 45170 | Submitted on October 25, 1991. See 40 CFR 52.220(c)(186)(i)(F)(1).
310 | Hazard Reduction | November 10, 1988 | August 19, 1999, 64 FR 45170 | Submitted on October 25, 1991. See 40 CFR 52.220(c)(186)(i)(F)(1).
311 | Residential Maintenance | November 10, 1988 | August 19, 1999, 64 FR 45170 | Submitted on October 25, 1991. See 40 CFR 52.220(c)(186)(i)(F)(1).
312 | Burning Permits | November 10, 1988 | August 19, 1999, 64 FR 45170 | Submitted on October 25, 1991. See 40 CFR 52.220(c)(186)(i)(F)(1).
313 | Burn Day | June 10, 1992 | September 16, 1997, 62 FR 48480 | Submitted on October 28, 1996. See 40 CFR 52.220(c)(246)(i)(A)(1).
314 | Minimum Drying Times | September 11, 1991 | September 16, 1997, 62 FR 48480 | Submitted on October 28, 1996. See 40 CFR 52.220(c)(246)(i)(A)(1).
315 | Burning Management Requirements | September 11, 1991 | September 16, 1997, 62 FR 48480 | Submitted on October 28, 1996. See 40 CFR 52.220(c)(246)(i)(A)(1).
316 | Burn Plan Preparation | August 14, 1996 | September 16, 1997, 62 FR 48480 | Submitted on October 28, 1996. See 40 CFR 52.220(c)(246)(i)(A)(1).
317 | Mechanized Burners Requirements | September 11, 1991 | September 16, 1997, 62 FR 48480 | Submitted on October 28, 1996. See 40 CFR 52.220(c)(246)(i)(A)(1).
Regulation IV—Authority to Construct
428 | NSR Requirements for New and Modified Major Sources in Nonattainment Areas | November 25, 2019 | November 20, 2020, 85 FR 74263 | Submitted on February 19, 2020. See 40 CFR 52.220(c)(546)(i)(A)(1).
Regulation V—Permit to Operate Regulations
501 | Permit Required | May 11, 1994 | July 9, 2008, 73 FR 39237 | Submitted on October 28, 1996. See 40 CFR 52.220(c)(246)(i)(A)(5).
505 | Conditional Approval | September 11, 1991 | July 9, 2008, 73 FR 39237 | Submitted on October 28, 1996. See 40 CFR 52.220(c)(246)(i)(A)(4).
510 | Separation of Emissions | September 11, 1991 | July 9, 2008, 73 FR 39237 | Submitted on October 28, 1996. See 40 CFR 52.220(c)(246)(i)(A)(4).
511 | Combination of Emissions | September 11, 1991 | July 9, 2008, 73 FR 39237 | Submitted on October 28, 1996. See 40 CFR 52.220(c)(246)(i)(A)(4).
512 | Circumvention | September 11, 1991 | July 9, 2008, 73 FR 39237 | Submitted on October 28, 1996. See 40 CFR 52.220(c)(246)(i)(A)(4).
513 | Emissions Statements and Recordkeeping | June 27, 2016 | June 21, 2017, 82 FR 28240 | Submitted on September 6, 2016. See 40 CFR 52.220(c)(487)(i)(A)(1).
515 | Provision of Sampling and Testing Facilities | September 11, 1991 | July 9, 2008, 73 FR 39237 | Submitted on October 28, 1996. See 40 CFR 52.220(c)(246)(i)(A)(4).
517 | Transfer | September 11, 1991 | July 9, 2008, 73 FR 39237 | Submitted on October 28, 1996. See 40 CFR 52.220(c)(246)(i)(A)(4).
Northern Sierra Air District Resolutions
Resolution #2017-01 | In the Matter of: Adopting the Portola Fine Particulate Matter (PM2.5) Attainment Plan (Portola Plan) as required by the Federal Clean Air Act | January 23, 2017 | April 2, 2018, 83 FR 13871 | Submitted on February 28, 2017. See 40 CFR 52.220(c)(500)(i)(A)(1).
Resolution #2020-01 | Ozone Emergency Episode Plan | February 24, 2020 | March 30, 2021, 86 FR 16533 | Submitted on June 25, 2020 as an attachment to a letter dated June 16, 2020. See 40 CFR 52.220(c)(552)(i)(C)(1).
Original Codification of Rules and Regulations (Nevada County portion of the District)
10 | Construction Permit Required | June 30, 1971 | May 31, 1972, 37 FR 10842 | Submitted on February 21, 1972. See 40 CFR 52.220(b).
12 | Exemptions from Permit and Registration | June 30, 1971 | May 31, 1972, 37 FR 10842 | Submitted on February 21, 1972. See 40 CFR 52.220(b).
15 | Standards for Granting Applications and Building Permits | June 30, 1971 | May 31, 1972, 37 FR 10842 | Submitted on February 21, 1972. See 40 CFR 52.220(b).
Re-codification of Rules and Regulations (Nevada County portion of the District)
404 (excluding paragraph (D)) | Upset Conditions, Breakdown or Scheduled Maintenance | May 7, 1979 | May 18, 1981, 46 FR 27115 | Submitted on October 15, 1979. See 40 CFR 52.220(c)(52)(xii)(A) and (B). Paragraph (D) (“Emergency Variance Procedures”) was deleted without replacement at 62 FR 34641 (June 27, 1997). Rule 404 (excluding paragraph (D)) was reinstated at 84 FR 45422 (August 29, 2019).
409 | Public Records | January 4, 1977 | September 14, 1978, 43 FR 41039 | Submitted on June 6, 1977. See 40 CFR 52.220(c)(39)(x)(A).
Original Codification of Rules and Regulations (Plumas County portion of the District)
Regulation II—Permits
10 | Permits Required | April 18, 1972 | September 22, 1972, 37 FR 19812 | Submitted on June 30, 1972. See 40 CFR 52.220(c)(6).
11 | Exemptions | April 18, 1972 | September 22, 1972, 37 FR 19812 | Submitted on June 30, 1972. See 40 CFR 52.220(c)(6).
12 | Transfer | April 18, 1972 | September 22, 1972, 37 FR 19812 | Submitted on June 30, 1972. See 40 CFR 52.220(c)(6).
14 | Applications | April 18, 1972 | September 22, 1972, 37 FR 19812 | Submitted on June 30, 1972. See 40 CFR 52.220(c)(6).
17 | Cancellation of Applications | April 18, 1972 | September 22, 1972, 37 FR 19812 | Submitted on June 30, 1972. See 40 CFR 52.220(c)(6).
18 | Action on Applications | April 18, 1972 | September 22, 1972, 37 FR 19812 | Submitted on June 30, 1972. See 40 CFR 52.220(c)(6).
20 | Standards for Granting Applications | April 18, 1972 | September 22, 1972, 37 FR 19812 | Submitted on June 30, 1972. See 40 CFR 52.220(c)(6).
21 | Conditional Approval | April 18, 1972 | September 22, 1972, 37 FR 19812 | Submitted on June 30, 1972. See 40 CFR 52.220(c)(6).
22 | Denial of Applications | April 18, 1972 | September 22, 1972, 37 FR 19812 | Submitted on June 30, 1972. See 40 CFR 52.220(c)(6).
23 | Further Information | April 18, 1972 | September 22, 1972, 37 FR 19812 | Submitted on June 30, 1972. See 40 CFR 52.220(c)(6).
24 | Applications Deemed Denied | April 18, 1972 | September 22, 1972, 37 FR 19812 | Submitted on June 30, 1972. See 40 CFR 52.220(c)(6).
Regulation IV—Prohibitions
56 (excluding paragraph (a)) | Sulfur Oxide Emissions | April 18, 1972 | September 22, 1972, 37 FR 19812 | Submitted on June 30, 1972. See 40 CFR 52.220(c)(6). Paragraph (a) was superseded by approval of NSAQMD Rule 210 (Specific Contaminants) (paragraph (A)) at 62 FR 48480 (September 16, 1997).
57 | Sulfide Emission Standard | April 18, 1972 | September 22, 1972, 37 FR 19812 | Submitted on June 30, 1972. See 40 CFR 52.220(c)(6).
Re-codification of Rules and Regulations (Plumas County portion of the District)
Regulation IV—Permit Systems Conditions
401 | Responsibility | January 10, 1975 | June 14, 1978, 43 FR 25680 | Submitted on January 10, 1975. See 40 CFR 52.220(c)(26)(xvi)(B).
402 | Authority to Inspect | December 12, 1976 | September 14, 1978, 43 FR 41037 | Submitted on June 6, 1977. See 40 CFR 52.220(c)(39)(ix)(A).
403 | Responsibility of Permittee | January 10, 1975 | June 14, 1978, 43 FR 25680 | Submitted on January 10, 1975. See 40 CFR 52.220(c)(26)(xvi)(B).
Regulation V—Permit to Operate Regulations
502 | Exemptions from Rule 501 | March 1, 1981 | June 18, 1982, 47 FR 26379 | Submitted on June 22, 1981. See 40 CFR 52.220(c)(93)(iii)(B).
514 | Public Records and Trade Secrets | March 1, 1981 | April 23, 1982, 47 FR 17486 | Submitted on June 22, 1981. See 40 CFR 52.220(c)(93)(iii)(A).
516 (excluding paragraph (C)) | Upset and Breakdown Conditions | March 1, 1981 | April 23, 1982, 47 FR 17486 | Submitted on June 22, 1981. See 40 CFR 52.220(c)(93)(iii)(A) and (F). Paragraph (C) (“Emergency Variance Procedures”) was deleted without replacement at 84 FR 45422 (August 29, 2019).
Original Codification of Rules and Regulations (Sierra County portion of the District)
Part I—General Provisions
5 | Validity | October 19, 1971 | September 22, 1972, 37 FR 19812 | Submitted on June 30, 1972. See 40 CFR 52.220(c)(6).
Part III—Applications, Permits and Registration
17 | Construction Permit Required | October 19, 1971 | September 22, 1972, 37 FR 19812 | Submitted on June 30, 1972. See 40 CFR 52.220(c)(6).
20 | Exemptions from Permit and Registration | October 19, 1971 | September 22, 1972, 37 FR 19812 | Submitted on June 30, 1972. See 40 CFR 52.220(c)(6).
21 | Standards for Granting Applications and Permits | October 19, 1971 | September 22, 1972, 37 FR 19812 | Submitted on June 30, 1972. See 40 CFR 52.220(c)(6).
22 | Conditional Approval | October 19, 1971 | September 22, 1972, 37 FR 19812 | Submitted on June 30, 1972. See 40 CFR 52.220(c)(6).
23 | Denial of Applications | October 19, 1971 | September 22, 1972, 37 FR 19812 | Submitted on June 30, 1972. See 40 CFR 52.220(c)(6).
24 | Further Information | October 19, 1971 | September 22, 1972, 37 FR 19812 | Submitted on June 30, 1972. See 40 CFR 52.220(c)(6).
25 | Applications Deemed Denied | October 19, 1971 | September 22, 1972, 37 FR 19812 | Submitted on June 30, 1972. See 40 CFR 52.220(c)(6).
Re-codification of Rules and Regulations (Sierra County portion of the District)
Regulation IV—Permit Systems Conditions
402 | Authority to Inspect | June 6, 1977 | September 14, 1978, 43 FR 41034 | Submitted on June 6, 1977. See 40 CFR 52.220(c)(39)(viii)(A).
Regulation V—Permit to Operate Regulations
502 | Exemptions from Rule 501 | March 1, 1981 | June 18, 1982, 47 FR 26379 | Submitted on June 22, 1981. See 40 CFR 52.220(c)(93)(iv)(B).
514 | Public Records and Trade Secrets | March 1, 1981 | April 23, 1982, 47 FR 17486 | Submitted on June 22, 1981. See 40 CFR 52.220(c)(93)(iv)(A).
516 (excluding paragraph (C)) | Upset and Breakdown Conditions | March 1, 1981 | April 23, 1982, 47 FR 17486 | Submitted on June 22, 1981. See 40 CFR 52.220(c)(93)(iv)(A) and (G). Paragraph (C) (“Emergency Variance Procedures”) was deleted without replacement at 84 FR 45422 (August 29, 2019).
523 | Permit Fees | March 1, 1981 | April 23, 1982, 47 FR 17486 | Submitted on June 22, 1981. See 40 CFR 52.220(c)(93)(iv)(A).

Table 25—EPA-Approved Northern Sonoma County Air Pollution Control District Regulations
District citation | Title/subject | State effective date | EPA approval date | Additional explanation
Original Codification of the Rules and Regulations
1 | Definitions | May 26, 1972 | September 22, 1972, 37 FR 19812 | Submitted on June 30, 1972. See 40 CFR 52.220(c)(6).
55.1 | Sulfur Recovery Units | May 26, 1972 | September 22, 1972, 37 FR 19812 | Submitted on June 30, 1972. See 40 CFR 52.220(c)(6).
55.2 | Sulfuric Acid Units | May 26, 1972 | September 22, 1972, 37 FR 19812 | Submitted on June 30, 1972. See 40 CFR 52.220(c)(6).
58 | Disposal of Solid and Liquid Wastes | May 26, 1972 | September 22, 1972, 37 FR 19812 | Submitted on June 30, 1972. See 40 CFR 52.220(c)(6).
61 | Organic Liquid Loading | May 26, 1972 | September 22, 1972, 37 FR 19812 | Submitted on June 30, 1972. See 40 CFR 52.220(c)(6).
65 | Fuel Burning Equipment | May 26, 1972 | September 22, 1972, 37 FR 19812 | Submitted on June 30, 1972. See 40 CFR 52.220(c)(6).
66 | Fuel Burning Equipment—Combustion Contaminants | May 26, 1972 | September 22, 1972, 37 FR 19812 | Submitted on June 30, 1972. See 40 CFR 52.220(c)(6).
68 | Emission Control for Used Motor Vehicles | May 26, 1972 | September 22, 1972, 37 FR 19812 | Submitted on June 30, 1972. See 40 CFR 52.220(c)(6).
102 | Episode Procedures | May 26, 1972 | September 22, 1972, 37 FR 19812 | Submitted on June 30, 1972. See 40 CFR 52.220(c)(6).
Re-Codification of the Rules and Regulations
Regulation 1—Air Quality Control Rules
Chapter I—General Provisions
100 | Title | June 6, 1976 | August 16, 1978, 43 FR 36247 | Submitted on November 10, 1976. See 40 CFR 52.220(c)(35)(xvi)(B).
100 | Title | February 22, 1984 | April 17, 1987, 52 FR 12522 | Amended the second paragraph and added a fourth paragraph to Rule 100. Submitted on October 16, 1985. See 40 CFR 52.220(c)(164)(i)(B)(1).
110 | Purpose | June 6, 1976 | August 16, 1978, 43 FR 36247 | Submitted on November 10, 1976. See 40 CFR 52.220(c)(35)(xvi)(B).
120 | Administration | February 22, 1984 | April 17, 1987, 52 FR 12522 | Submitted on October 16, 1985. See 40 CFR 52.220(c)(164)(i)(B)(1).
130 | Definitions | May 3, 2017 | July 24, 2018, 83 FR 34949 | Submitted on June 12, 2017. See 40 CFR 52.220(c)(504)(i)(B)(1).
150 | Public Records | June 6, 1976 | August 16, 1978, 43 FR 36247 | Submitted on November 10, 1976. See 40 CFR 52.220(c)(35)(xvi)(B).
160 (excluding paragraph (a) and non-criteria pollutants) | Ambient Air Quality Standards | June 6, 1976 | August 16, 1978, 43 FR 36247 | Submitted on November 10, 1976. See 40 CFR 52.220(c)(35)(xvi)(B).
190 | Validity | June 6, 1976 | August 16, 1978, 43 FR 36247 | Submitted on November 10, 1976. See 40 CFR 52.220(c)(35)(xvi)(B).
Chapter II—Permits
200 | Permits Required | November 14, 2014 | October 6, 2016, 81 FR 69390 | Submitted on December 11, 2014. See 40 CFR 52.220(c)(480)(i)(A)(2).
220 | New Source Review Standards (Including PSD Evaluations) | May 3, 2017 | July 24, 2018, 83 FR 34949 | Submitted on June 12, 2017. See 40 CFR 52.220(c)(504)(i)(B)(2).
230 | Action on Applications | May 3, 2017 | July 24, 2018, 83 FR 34949 | Submitted on June 12, 2017. See 40 CFR 52.220(c)(504)(i)(B)(3).
240 (paragraphs (a), (b), and (c)) | Permit to Operate | November 19, 1983 | October 6, 2016, 81 FR 69390 | Paragraph (a), (b), and (c) are titled “Permit to Operate Required,” “Temporary Permit to Operate,” and Permit to Operate,” respectively. Submitted on October 16, 1985. See 40 CFR 52.220(c)(164)(i)(B)(4).
240 (paragraph (e)) | Permit to Operate | February 22, 1984 | October 6, 2016, 81 FR 69390 | Paragraph (e) is titled “Compliance Verification.” Submitted on October 16, 1985. See 40 CFR 52.220(c)(164)(i)(B)(4).
240 (paragraph (f)) | Permit to Operate | February 22, 1984 | October 6, 2016, 81 FR 69390 | Paragraph (f) is titled “Mandatory Monitoring Requirements.” Originally submitted on November 4, 1977 as paragraph (e) and approved at 43 FR 59488 (December 21, 1978). Redesignated as paragraph (f) but otherwise unchanged in the submittal dated October 16, 1985. See 40 CFR 52.220(c)(164)(i)(B)(4).
260 | Exclusions | February 23, 1982 | July 31, 1985, 50 FR 30941 | Submitted on August 6, 1982. See 40 CFR 52.220(c)(124)(ix)(B).
Chapter 4—Prohibitions
400 (paragraph (b)) | General Limitations | June 6, 1976 | August 16, 1978, 43 FR 36247 | Paragraph (b) is titled “Circumvention.” Submitted on November 10, 1976. See 40 CFR 52.220(c)(35)(xvi)(B).
410 (paragraphs (a) and (c) but excluding (c)(2)) | Visible Emissions | June 27, 1978 | October 31, 1980, 45 FR 72147 | Submitted on May 7, 1979. See 40 CFR 52.220(c)(50)(v)(A).
420 | Particulate Matter | June 27, 1978 | October 31, 1980, 45 FR 72147 | Submitted on May 7, 1979. See 40 CFR 52.220(c)(50)(v)(A).
430 | Fugitive Dust Emissions | June 6, 1976 | August 16, 1978, 43 FR 36247 | Submitted on November 10, 1976. See 40 CFR 52.220(c)(35)(xvi)(B).
440 | Sulfur Oxide Emissions | June 6, 1976 | August 16, 1978, 43 FR 36247 | Submitted on November 10, 1976. See 40 CFR 52.220(c)(35)(xvi)(B).
455 (paragraphs (a) and (d)) | Geothermal Emission Standards | March 7, 1977 | December 21, 1978, 43 FR 59488 | Submitted on October 13, 1977. See 40 CFR 52.220(c)(41)(xv)(A).
470 | Reduction of Animal Matter | June 6, 1976 | August 16, 1978, 43 FR 36247 | Submitted on November 10, 1976. See 40 CFR 52.220(c)(35)(xvi)(B).
480 | Orchard, Vineyard, and Citrus Grove Heaters | June 6, 1976 | August 16, 1978, 43 FR 36247 | Submitted on November 10, 1976. See 40 CFR 52.220(c)(35)(xvi)(B).
482 | Petroleum Loading and Storage | June 6, 1976 | August 16, 1978, 43 FR 36247 | Submitted on November 10, 1976. See 40 CFR 52.220(c)(35)(xvi)(B).
Chapter 5—Enforcement and Penalty Actions
540 | Equipment Breakdown | June 27, 1978 | October 31, 1980, 45 FR 72147 | Submitted on May 7, 1979. See 40 CFR 52.220(c)(50)(v)(A).
Appendices to Regulation I (Air Quality Control Rules)
Appendix D | Continuous Monitoring | May 31, 1977 | December 21, 1978, 43 FR 59488 | Submitted on November 4, 1977. See 40 CFR 52.220(c)(42)(xxi)(A).
Regulation 2—Open Burning Procedures
100 | Scope and Policy | January 20, 1981 | April 13, 1982, 47 FR 15784 | Submitted on March 23, 1981. See 40 CFR 52.220(c)(95)(iii)(A).
120 | Definitions | January 20, 1981 | April 13, 1982, 47 FR 15784 | Submitted on March 23, 1981. See 40 CFR 52.220(c)(95)(iii)(A).
140 | Allowable Open Burning | January 20, 1981 | April 13, 1982, 47 FR 15784 | Submitted on March 23, 1981. See 40 CFR 52.220(c)(95)(iii)(A).
200 | Classifications of Open Burning | January 20, 1981 | April 13, 1982, 47 FR 15784 | Submitted on March 23, 1981. See 40 CFR 52.220(c)(95)(iii)(A).
220 | Notification of Burning Conditions and Forecasts | January 20, 1981 | April 13, 1982, 47 FR 15784 | Submitted on March 23, 1981. See 40 CFR 52.220(c)(95)(iii)(A).
240 | Burning Permits and Reports | January 20, 1981 | April 13, 1982, 47 FR 15784 | Submitted on March 23, 1981. See 40 CFR 52.220(c)(95)(iii)(A).
300 | Burning Preparation and Restrictions | January 20, 1981 | April 13, 1982, 47 FR 15784 | Submitted on March 23, 1981. See 40 CFR 52.220(c)(95)(iii)(A).
320 | Enforcement | January 20, 1981 | April 13, 1982, 47 FR 15784 | Submitted on March 23, 1981. See 40 CFR 52.220(c)(95)(iii)(A).

Table 26—EPA-Approved Placer County Air Pollution Control District Regulations
District citation | Title/subject | State effective date | EPA approval date | Additional explanation
[Reserved]

Table 27—EPA-Approved Sacramento Metropolitan Air Quality Management District Regulations
District citation | Title/subject | State effective date | EPA approval date | Additional explanation
[Reserved]

Table 28—EPA-Approved San Diego County Air Pollution Control District Regulations
District citation | Title/subject | State effective date | EPA approval date | Additional explanation
Regulation I—General Provisions
1 | Title | January 1, 1969 | September 28, 1981, 46 FR 47451 | Submitted on June 2, 1980. See 40 CFR 52.220(c)(79)(v)(A).
2 | Definitions | July 11, 2017 | November 12, 2020, 85 FR 71846 | Submitted on November 13, 2017. See 40 CFR 52.220(c)(516)(i)(B)(1).
4 | Review of Rules | September 22, 1969 | September 22, 1972, 37 FR 19812 | Submitted on June 30, 1972. See 40 CFR 52.220(c)(6).
Regulation II—Permits
10 | Permits Required | July 25, 1995 | March 11, 1998, 63 FR 11831 | Submitted on March 3, 1997. See 40 CFR 52.220(c)(244)(i)(B)(1).
11 | Exemptions from Rule 10 Permit Requirements | October 13, 2022 | October 21, 2024, 89 FR 84085 | Submitted on May 11, 2023 as an attachment to a letter dated May 10, 2023. See 40 CFR 52.220(c)(610)(i)(C)(1).
17 (paragraph (a)) | Cancellation of Applications | November 25, 1981 | March 11, 1998, 63 FR 11831 | Submitted on March 1, 1982. See 40 CFR 52.220(c)(121)(ii)(C).
17 (paragraphs (b), (c), and (d)) | Cancellation of Applications | March 30, 1977 | September 28, 1981, 46 FR 47451 | Paragraph (a) was superseded by approval of Rule 17(a) at 63 FR 11831 (March 11, 1998). Submitted on June 2, 1980. See 40 CFR 52.220(c)(79)(v)(A).
19 | Provision of Sampling and Testing Facilities | April 6, 1993 | March 11, 1998, 63 FR 11831 | Submitted on November 18, 1993. See 40 CFR 52.220(c)(194)(i)(E)(2).
19.2 | Continuous Emission Monitoring Requirements | April 20, 1977 | August 31, 1978, 43 FR 38825 | Submitted on October 13, 1977. See 40 CFR 52.220(c)(41)(ii)(A).
19.2 (paragraph (d)(4)) | Continuous Emission Monitoring Requirements | December 13, 1978 | September 28, 1981, 46 FR 47451 | Submitted on May 23, 1979. See 40 CFR 52.220(c)(51)(vii)(B).
19.3 | Emission Information | December 9, 2021 | March 18, 2025, 90 FR 12459 | Submitted on March 9, 2022, as an attachment to a letter dated March 9, 2022. See 40 CFR 52.220(c)(604)(i)(A)(2).
20 | Standards for Granting Permits | April 25, 1989 | October 4, 2018, 83 FR 50007 | Submitted on November 21, 1986. See 40 CFR 52.220(c)(171)(i)(E)(1).
20.1 | New Source Review—General Provisions | October 28, 2022 | September 28, 2022, 87 FR 58729 | Adopted on October 14, 2021, effective upon EPA approval. Submitted on February 2, 2022 as an attachment to a letter dated January 31, 2022. See 40 CFR 52.220(c)(588)(i)(A)(1).
20.2 (except paragraphs (d)(2)(i)(B), (d)(2)(v), (d)(2)(vi)(B) and (d)(3)) | New Source Review—Non-Major Stationary Sources | October 16, 2020 | September 16, 2020, 85 FR 57727 | Adopted on June 26, 2019, effective upon EPA approval. Submitted on July 19, 2019. See 40 CFR 52.220(c)(539)(i)(A)(2).
20.3 (except subsections (d)(1)(vi), (d)(2)(i)(B), (d)(2)(v), (d)(2)(vi)(B) and (d)(3)) | New Source Review—Major Stationary Sources and PSD Stationary Sources | October 28, 2022 | September 28, 2022, 87 FR 58729 | Adopted on October 14, 2021, effective upon EPA approval. Submitted on February 2, 2022 as an attachment to a letter dated January 31, 2022. See 40 CFR 52.220(c)(588)(i)(A)(2).
20.4 (except subsections (b)(2), (b)(3), (d)(1)(iii), (d)(2)(i)(B), (d)(2)(iv), (d)(2)(v)(B), (d)(3) and (d)(5)) | New Source Review—Portable Emission Units | October 28, 2022 | September 28, 2022, 87 FR 58729 | Adopted on October 14, 2021, effective upon EPA approval. Submitted on February 2, 2022 as an attachment to a letter dated January 31, 2022. See 40 CFR 52.220(c)(588)(i)(A)(3).
20.5 | Power Plants | July 5, 1979 | April 14, 1981, 46 FR 21749 | Submitted on February 13, 1980. See 40 CFR 52.220(c)(64)(i)(A).
20.6 | Standards for Permit to Operate Air Quality Analysis | April 27, 2016 | October 4, 2018, 83 FR 50007 | Submitted on June 17, 2016. See 40 CFR 52.220(c)(508)(i)(A)(5).
21 | Permit Conditions | November 29, 1994 | March 11, 1998, 63 FR 11831 | Submitted on March 26, 1997. See 40 CFR 52.220(c)(245)(i)(B)(1).
24 | Temporary Permit to Operate | June 29, 2016 | October 4, 2018, 83 FR 50007 | Submitted on August 22, 2016. See 40 CFR 52.220(c)(488)(i)(A)(4).
25 | Appeals | January 1, 1969 | September 22, 1972, 37 FR 19812 | Submitted on June 30, 1972. See 40 CFR 52.220(c)(6).
27.1 | Federal Requirements for the San Diego County Air Pollution Control District's Alternative Mobile Source Emission Reduction Program Approved On September 8, 2000 | August 8, 2008 | June 3, 2009, 74 FR 26525 | Submitted on April 29, 2009. See 40 CFR 52.220(c)(362)(i)(A)(1).
Regulation III—Fees
45 | Federally Mandated Ozone Nonattainment Fees | June 9, 2022 | September 20, 2024, 89 FR 77023 | Submitted on July 20, 2022. See 40 CFR 52.220(c)(615)(i)(A)(1).
Regulation IV—Prohibitions
50 | Visible Emissions | August 13, 1997 | December 7, 1998, 63 FR 67419 | Submitted on June 23, 1998. See 40 CFR 52.220(c)(256)(i)(B)(1).
52 | Particulate Matter | January 22, 1997 | December 9, 1998, 63 FR 67784 | Submitted on August 1, 1997. See 40 CFR 52.220(c)(248)(i)(A)(3).
53 | Specific Air Contaminants | January 22, 1997 | December 9, 1998, 63 FR 67784 | Submitted on August 1, 1997. See 40 CFR 52.220(c)(248)(i)(A)(3).
53.1 | Scavenger Plants | January 1, 1969 | September 22, 1972, 37 FR 19812 | Submitted on June 30, 1972. See 40 CFR 52.220(c)(6).
54 | Dust and Fumes | January 22, 1997 | December 9, 1998, 63 FR 67784 | Submitted on August 1, 1997. See 40 CFR 52.220(c)(248)(i)(A)(3).
58 | Incinerator Burning | January 17, 1973 | May 11, 1977, 42 FR 23805 | Submitted on July 25, 1973. See 40 CFR 52.220(c)(21)(vi)(A).
60 | Circumvention | May 17, 1994 | March 9, 2000, 65 FR 12472 | Submitted on July 13, 1994. See 40 CFR 52.220(c)(198)(i)(I)(2).
61.0 | Definitions Pertaining to the Storage and Handling of Organic Compounds | October 16, 1990 | September 13, 1993, 58 FR 47831 | Submitted on April 5, 1991. See 40 CFR 52.220(c)(183)(i)(A)(6).
61.1 | Receiving and Storing Volatile Organic Compounds at Bulk Plants and Bulk Terminals | January 10, 1995 | August 8, 1995, 60 FR 40285 | Submitted on January 24, 1995. See 40 CFR 52.220(c)(214)(i)(B)(1).
61.2 | Transport of Organic Compounds into Mobile Transport Tanks | February 10, 2021 | January 17, 2023, 88 FR 2538 | Submitted on April 20, 2021 as an attachment to a letter dated April 16, 2021. See 40 CFR 52.220(c)(565)(i)(A)(4).
61.3 | Transfer of Volatile Organic Compounds into Stationary Storage Tanks | October 16, 1990 | June 30, 1993, 58 FR 34906 | Submitted on April 5, 1991. See 40 CFR 52.220(c)(183)(i)(A)(10).
61.3.1 | Transfer of Gasoline into Stationary Underground Storage Tanks | March 1, 2006 | September 3, 2021, 86 FR 49480 | Submitted on August 9, 2017. See 40 CFR 52.220(c)(503)(i)(B)(2).
61.4 | Transfer of Volatile Organic Compounds into Vehicle Fuel Tanks | March 26, 2008 | January 7, 2013, 78 FR 897 | Submitted on July 18, 2008. See 40 CFR 52.220(c)(359)(i)(F)(1).
61.5 | Visible Emission Standards for Vapor Control Systems | September 20, 1978 | April 14, 1981, 46 FR 21749 | Submitted on May 23, 1979. See 40 CFR 52.220(c)(51)(vii)(A).
61.7 | Spillage and Leakage of Volatile Organic Compounds | January 13, 1987 | March 11, 1998, 63 FR 11831 | Submitted on June 9, 1987. See 40 CFR 52.220(c)(173)(i)(E)(1).
61.8 | Certification Requirements for Vapor Control Equipment | January 13, 1987 | March 11, 1998, 63 FR 11831 | Submitted on June 9, 1987. See 40 CFR 52.220(c)(173)(i)(E)(1).
62 | Sulfur Content of Fuels | October 21, 1981 | July 6, 1982, 47 FR 29231 | Submitted on March 1, 1982. See 40 CFR 52.220(c)(121)(ii)(A).
64 | Reduction of Animal Matter | August 21, 1981 | July 6, 1982, 47 FR 29231 | Submitted on October 23, 1981. See 40 CFR 52.220(c)(103)(ii)(B).
66.1 | Miscellaneous Surface Coating Operations and Other Processes Emitting Volatile Organic Compounds | February 24, 2010 | August 9, 2012, 77 FR 47536 | Submitted on July 20, 2010. See 40 CFR 52.220(c)(381)(i)(J)(1).
67.0.1 | Architectural Coatings | January 1, 2022 | December 22, 2022, 87 FR 78544 | Submitted on April 20, 2021 as an attachment to a letter dated April 16, 2021. See 40 CFR 52.220(c)(565)(i)(A)(3).
67.1 | Alternative Emission Control Plans | May 15, 1996 | March 27, 1997, 62 FR 14639 | Submitted on October 18, 1996. See 40 CFR 52.220(c)(241)(i)(A)(1).
67.2 | Dry Cleaning Equipment Using Petroleum-Based Solvent | May 15, 1996 | March 27, 1997, 62 FR 14639 | Submitted on October 18, 1996. See 40 CFR 52.220(c)(241)(i)(A)(1).
67.3 | Metal Parts and Products Coating Operations | April 9, 2003 | November 14, 2003, 68 FR 64537 | Submitted on June 5, 2003. See 40 CFR 52.220(c)(316)(i)(C)(1).
67.4 | Metal Container, Metal Closure and Metal Coil Coating Operations | November 9, 2011 | September 20, 2012, 77 FR 58313 | Submitted on February 23, 2012. See 40 CFR 52.220(c)(411)(i)(C)(1).
67.5 | Paper, Film and Fabric Coating Operations | May 15, 1996 | March 27, 1997, 62 FR 14639 | Submitted on October 18, 1996. See 40 CFR 52.220(c)(241)(i)(A)(1).
67.6.1 | Cold Solvent Cleaning and Stripping Operations | February 10, 2021 | October 22, 2021, 86 FR 58593 | Submitted on April 20, 2021 as an attachment to a letter dated April 16, 2021. See 40 CFR 52.220(c)(565)(i)(A)(1).
67.6.2 | Vapor Degreasing Operations | February 10, 2021 | October 22, 2021, 86 FR 58593 | Submitted on April 20, 2021 as an attachment to a letter dated April 16, 2021. See 40 CFR 52.220(c)(565)(i)(A)(2).
67.7 | Cutback and Emulsified Asphalts | May 15, 1996 | March 27, 1997, 62 FR 14639 | Submitted on October 18, 1996. See 40 CFR 52.220(c)(241)(i)(A)(1).
67.9 | Aerospace Coating Operations | April 30, 1997 | August 17, 1998, 63 FR 43884 | Submitted on August 1, 1997. See 40 CFR 52.220(c)(248)(i)(A)(2).
67.10 | Kelp Processing and Bio-Polymer Manufacturing Operations | June 25, 1997 | June 22, 1998, 63 FR 33854 | Submitted on August 1, 1997. See 40 CFR 52.220(c)(248)(i)(A)(1).
67.11 | Wood Products Coating Operations | June 27, 2013 | April 11, 2013, 78 FR 21537 | Submitted on September 21, 2012. See 40 CFR 52.220(c)(423)(i)(H)(1). Also see 85 FR 42728 (July 15, 2020).
67.12.1 | Polyester Resin Operations | May 11, 2016 | April 2, 2018, 83 FR 13869 | Submitted on August 22, 2016. See 40 CFR 52.220(c)(488)(i)(A)(2).
67.15 | Pharmaceutical and Cosmetic Manufacturing | May 15, 1996 | March 27, 1997, 62 FR 14639 | Submitted on October 18, 1996. See 40 CFR 52.220(c)(241)(i)(A)(1).
67.16 | Graphic Arts Operations | May 9, 2012 | September 20, 2012, 77 FR 58313 | Submitted on February 23, 2012. See 40 CFR 52.220(c)(411)(i)(C)(2).
67.17 | Storage of Materials Containing Volatile Organic Compounds | May 15, 1996 | March 27, 1997, 62 FR 14639 | Submitted on October 18, 1996. See 40 CFR 52.220(c)(241)(i)(A)(1).
67.18 | Marine Coating Operations | May 15, 1996 | March 27, 1997, 62 FR 14639 | Submitted on October 18, 1996. See 40 CFR 52.220(c)(241)(i)(A)(1).
67.19 | Coatings and Printing Inks Manufacturing Operations | May 15, 1996 | May 26, 2000, 65 FR 34101 | Submitted on October 18, 1996. See 40 CFR 52.220(c)(241)(i)(A)(5).
67.21 | Adhesive Material Application Operations | November 14, 2008 | February 25, 2020, 85 FR 10611 | Submitted on August 9, 2017. See 40 CFR 52.220(c)(503)(i)(B)(1).
67.24 | Bakery Ovens | May 15, 1996 | March 27, 1997, 62 FR 14639 | Submitted on October 18, 1996. See 40 CFR 52.220(c)(241)(i)(A)(1).
68 | Fuel-Burning Equipment—Oxides of Nitrogen | September 20, 1994 | April 9, 1996, 61 FR 15719 | Submitted on October 19, 1994. See 40 CFR 52.220(c)(202)(i)(C)(4).
69.2 | Industrial and Commercial Boilers, Process Heaters and Steam Generators | September 27, 1994 | February 9, 1996, 61 FR 4887 | Submitted on October 19, 1994. See 40 CFR 52.220(c)(202)(i)(C)(3).
69.2.1 | Small Boilers, Process Heaters, Steam Generators, and Large Water Heaters | July 1, 2021 | December 21, 2023, 88 FR 88254 | Adopted by San Diego County APCD on July 8, 2020, effective July 1, 2021. Submitted on September 21, 2020, as an attachment to a letter dated September 18, 2020. See 40 CFR 52.220(c)(557)(i)(B)(2).
69.2.2 | Medium Boilers, Process Heaters, and Steam Generators | September 9, 2021 | August 23, 2023, 88 FR 57361 | Submitted on March 9, 2022. See 40 CFR 52.220(c)(604)(i)(A)(1).
69.3 | Stationary Gas Turbine Engines | September 27, 1994 | June 17, 1997, 62 FR 32691 | Submitted on October 19, 1994. See 40 CFR 52.220(c)(202)(i)(C)(6).
69.4 | Stationary Reciprocating Internal Combustion Engines—Reasonably Available Control Technology | July 30, 2003 | January 4, 2006, 71 FR 244 | Submitted on November 4, 2003. See 40 CFR 52.220(c)(321)(i)(D)(1).
70 | Orchard Heaters | January 17, 1972 | September 22, 1972, 37 FR 19812 | Submitted on June 30, 1972. See 40 CFR 52.220(c)(6).
71 | Abrasive Blasting | March 30, 1977 | August 31, 1978, 43 FR 38825 | Submitted on October 13, 1977. See 40 CFR 52.220(c)(41)(ii)(A).
Regulation VI—Burning Controls
101 | Burning Control | September 25, 2002 | April 30, 2003, 68 FR 23035 | Submitted on November 19, 2002. See 40 CFR 52.220(c)(307)(i)(C)(1).
Regulation VII—Validity and Effective Date
140 | Validity | January 1, 1969 | September 22, 1972, 37 FR 19812 | Submitted on June 30, 1972. See 40 CFR 52.220(c)(6).
141 | Effective Date | January 1, 1969 | September 22, 1972, 37 FR 19812 | Submitted on June 30, 1972. See 40 CFR 52.220(c)(6).
Regulation VIII—San Diego Air Pollution Emergency Plan
126 | Applicability | May 25, 1977 | May 28, 1980, 45 FR 35805 | Submitted on October 13, 1977. See 40 CFR 52.220(c)(41)(ii)(C).
127 | Episode Criteria Levels | September 17, 1991 | March 18, 1999, 64 FR 13351 | Submitted on January 28, 1992. See 40 CFR 52.220(c)(187)(i)(D)(1).
128 | Episode Declaration | September 17, 1991 | March 18, 1999, 64 FR 13351 | Submitted on January 28, 1992. See 40 CFR 52.220(c)(187)(i)(D)(1).
129 | Episode Termination | May 25, 1977 | May 28, 1980, 45 FR 35805 | Submitted on October 13, 1977. See 40 CFR 52.220(c)(41)(ii)(C).
130 | Episode Actions | September 17, 1991 | March 18, 1999, 64 FR 13351 | Refers to Appendix A. Submitted on January 28, 1992. See 40 CFR 52.220(c)(187)(i)(D)(1).
131 | Stationary Source Curtailment Plan | May 25, 1977 | May 28, 1980, 45 FR 35805 | Submitted on October 13, 1977. See 40 CFR 52.220(c)(41)(ii)(C).
131 (paragraph (f)) | Stationary Source Curtailment Plan | May 1, 1981 | June 21, 1982, 47 FR 26618 | Submitted on May 28, 1981. See 40 CFR 52.220(c)(92)(v)(A).
132 | Traffic Abatement Plan | May 25, 1977 | May 28, 1980, 45 FR 35805 | Submitted on October 13, 1977. See 40 CFR 52.220(c)(41)(ii)(C).
132 (paragraph (d)) | Traffic Abatement Plan | May 1, 1981 | June 21, 1982, 47 FR 26618 | Submitted on May 28, 1981. See 40 CFR 52.220(c)(92)(v)(A).
133 | Schools | May 25, 1977 | May 28, 1980, 45 FR 35805 | Submitted on October 13, 1977. See 40 CFR 52.220(c)(41)(ii)(C).
134 | Source Inspection | May 1, 1981 | June 21, 1982, 47 FR 26618 | Submitted on May 28, 1981. See 40 CFR 52.220(c)(92)(v)(A).
135 | Air Monitoring Stations | May 25, 1977 | May 28, 1980, 45 FR 35805 | Submitted on October 13, 1977. See 40 CFR 52.220(c)(41)(ii)(C).
136 | Interdistrict and Interbasin Coordination | May 25, 1977 | May 28, 1980, 45 FR 35805 | Submitted on October 13, 1977. See 40 CFR 52.220(c)(41)(ii)(C).
137 | Emergency Action Committee | May 25, 1977 | May 28, 1980, 45 FR 35805 | Submitted on October 13, 1977. See 40 CFR 52.220(c)(41)(ii)(C).
138 | Procedures and Plans | May 25, 1977 | May 28, 1980, 45 FR 35805 | Submitted on October 13, 1977. See 40 CFR 52.220(c)(41)(ii)(C).
Appendix to Regulation VIII
Appendix A | Persons to be Notified on Episode Declaration | May 25, 1977 | May 28, 1980, 45 FR 35805 | Cited in Rule 130. Submitted on October 13, 1977. See 40 CFR 52.220(c)(41)(ii)(C).
Regulation IX—Public Records
175 | General | May 22, 1974 | May 11, 1977, 42 FR 23805 | Submitted on July 19, 1974. See 40 CFR 52.220(c)(24)(iii)(A).
176 | Information Supplied to District | May 22, 1974 | May 11, 1977, 42 FR 23805 | Submitted on July 19, 1974. See 40 CFR 52.220(c)(24)(iii)(A).
177 | Inspection of Public Records | May 22, 1974 | May 11, 1977, 42 FR 23805 | Submitted on July 19, 1974. See 40 CFR 52.220(c)(24)(iii)(A).
177 (paragraph (c)) | Inspection of Public Records | March 30, 1977 | August 31, 1978, 43 FR 38825 | The revision to paragraph (c) relates to a change in address. Submitted on October 13, 1977. See 40 CFR 52.220(c)(41)(ii)(A).
Regulation XV—Federal Conformity
1501 | Conformity of General Federal Actions | June 22, 1999 | April 23, 1999, 64 FR 19916 | Submitted on May 24, 1995. See 40 CFR 52.220(c)(220)(i)(D)(1).

Table 29—EPA-Approved San Joaquin Valley Unified Air Pollution Control District Regulations; Fresno County Air Pollution Control District Regulations; Kern County Air Pollution Control District Regulations; Kings County Air Pollution Control District Regulations; Madera County Air Pollution Control District Regulations; Merced County Air Pollution Control District Regulations; San Joaquin County Air Pollution Control District Regulations; Stanislaus County Air Pollution Control District Regulations; Tulare County Air Pollution Control District Regulations
District citation | Title/subject | State effective date | EPA approval date | Additional explanation
[Reserved]

Table 30—EPA-Approved San Luis Obispo County Air Pollution Control District Regulations
District citation | Title/subject | State effective date | EPA approval date | Additional explanation
Original Codification of Rules and Regulations
101 | Effective Date | May 26, 1971 | May 31, 1972, 37 FR 10842 | Submitted on February 21, 1972. See 40 CFR 52.220(b).
113 | Particulate Matter | May 26, 1971 | May 31, 1972, 37 FR 10842 | Submitted on February 21, 1972. See 40 CFR 52.220(b).
114 (paragraphs (1) and 3)) | Gaseous Contaminants | May 26, 1971 | May 31, 1972, 37 FR 10842 | Submitted on February 21, 1972. See 40 CFR 52.220(b). Paragraph (1) is titled “Sulfur Dioxide,” and paragraph (3) is titled “Reduced Sulfur Compounds.” Paragraphs (2) (“Sulfur Content of Fuels”) and (4) (“Oxides of Nitrogen”) have been superseded by approval of Rules 404(E) and 405(A), respectively.
115 (Paragraph (2)) | Combustion Operations | May 26, 1971 | May 31, 1972, 37 FR 10842 | Submitted on February 21, 1972. See 40 CFR 52.220(b). Paragraph (2) is titled “Incinerator Burning.” Paragraph (1) (“Open Burning”) was superseded by approval of Rule 501.
116 (Paragraph (5)) | Additional Prohibitions | May 26, 1971 | May 31, 1972, 37 FR 10842 | Submitted on February 21, 1972. See 40 CFR 52.220(b). Paragraph (5) is titled “Circumvention.” Paragraphs (1) and (3) have been rescinded, and Paragraphs (2) and (4) have been superseded by approval of Rule 410 and 407, respectively.
117 (paragraphs (4)(a), (4)(h) and (6)(b)) | Agricultural Burning | June 30, 1972 | September 22, 1972, 37 FR 19812 | Submitted on June 30, 1972. See 40 CFR 52.220(c)(6). All the other paragraphs of Rule 117 were superseded by approval of Rule 502 at 43 FR 51776 (November 7, 1978).
190 (paragraphs (a) through (e), (h) and (i) of subsection (1), and subsections (2), (3)(b), (4) and (7)) | Permits | May 26, 1971 | May 31, 1972, 37 FR 10842 | Submitted on February 21, 1972. See 40 CFR 52.220(b). The provisions that have not been superseded by approval of Rules 201, 202, 205, 206, 207, 208, 209, 210, 211, 301 or 302 include exceptions to the requirement to obtain an authority to construct or permit to operate, requirements related to obtaining permits to operate, certain authorities granted to the Control Officer, certain requirements for applicants, and certain other limitations on issuance of permits.
190 (paragraphs (f) and (g) of subsection (1), and the second, third and fourth paragraphs of subsection (2)) | Permits | June 30, 1972 | September 22, 1972, 37 FR 19812 | Submitted on June 30, 1972. See 40 CFR 52.220(c)(6). Provisions include certain amended exceptions to the requirement to obtain an authority to construct or permit to operate and certain requirements related to obtaining permits to operate.
191 | Action in Areas of High Concentrations | May 26, 1971 | May 31, 1972, 37 FR 10842 | Submitted on February 21, 1972. See 40 CFR 52.220(b).
199 (paragraphs (1) and (4)) | General Provisions | May 26, 1971 | May 31, 1972, 37 FR 10842 | Submitted on February 21, 1972. See 40 CFR 52.220(b). Paragraph (1) is titled “Liability of District and District Officers,” and paragraph (4) is titled “Abatement.” Paragraphs (2) (“Severability”) and (3) (“Enforcement”) have been superseded by approval of Rules 108 and 110, respectively. (Rule 110 (Enforcement) was later deleted without replacement.)
Recodification of Rules and Regulations
Regulation I—General Provisions
101 | Title | August 2, 1976 | August 4, 1978, 43 FR 34465 | Submitted on November 10, 1976. See 40 CFR 52.220(c)(35)(xii)(A).
103 | Conflicts Between District, State and Federal Rules | August 2, 1976 | August 4, 1978, 43 FR 34465 | Submitted on November 10, 1976. See 40 CFR 52.220(c)(35)(xii)(A).
105 | Definitions | November 21, 1983 | December 5, 1984, 49 FR 47490 | Submitted on April 19, 1984. See 40 CFR 52.220(c)(154)(iv)(A).
106 | Standard Conditions | August 2, 1976 | August 4, 1978, 43 FR 34465 | Submitted on November 10, 1976. See 40 CFR 52.220(c)(35)(xii)(A).
108 | Severability | August 2, 1976 | August 4, 1978, 43 FR 34465 | Submitted on November 10, 1976. See 40 CFR 52.220(c)(35)(xii)(A).
109 | Particular Controls Not Required | August 2, 1976 | August 4, 1978, 43 FR 34465 | Submitted on November 10, 1976. See 40 CFR 52.220(c)(35)(xii)(A).
112 | Public Availability of Information | December 6, 1976 | August 4, 1978, 43 FR 34465 | Submitted on February 10, 1977. See 40 CFR 52.220(c)(37)(iii)(A).
113 | San Luis Obispo County Air Pollution Control District, Continuous Emissions Monitoring | June 22, 1977 | November 7, 1978, 43 FR 51776 | Adopted by CARB on June 22, 1977 for the San Luis Obispo County APCD. Submitted on October 13, 1977. See 40 CFR 52.220(c)(41)(vi)(A).
Regulation II—Permits
201 | Permits | November 13, 1984 | July 13, 1987, 52 FR 26148 | Submitted on April 12, 1985. See 40 CFR 52.220(c)(160)(i)(B)(1).
205 | Conditional Approval | November 13, 1984 | July 13, 1987, 52 FR 26148 | Submitted on April 12, 1985. See 40 CFR 52.220(c)(160)(i)(B)(1).
209 | Transfer | August 2, 1976 | February 1, 1984, 49 FR 3987 | Submitted on November 10, 1976. See 40 CFR 52.220(c)(35)(xii)(E).
210 | Cancellation of Applications | August 2, 1976 | February 1, 1984, 49 FR 3987 | Submitted on November 10, 1976. See 40 CFR 52.220(c)(35)(xii)(E).
211 | Provision of Sampling and Testing Facilities | August 2, 1976 | February 1, 1984, 49 FR 3987 | Submitted on November 10, 1976. See 40 CFR 52.220(c)(35)(xii)(E).
212 | Periodic Inspection and Recertification of Equipment | September 24, 1979 | February 1, 1984, 49 FR 3987 | Submitted on July 19, 1983. See 40 CFR 52.220(c)(137)(v)(A).
220 (except for the incorporation by reference of 40 CFR 52.21(b)(49)(v) into sections B and D.3.) | Federal Prevention of Significant Deterioration | January 22, 2014 | November 12, 2015, 80 FR 69880 | Submitted on May 13, 2014. See 40 CFR 52.220(c)(441)(i)(F)(1). The approval of Rule 220 was supported by a letter dated December 16, 2014 from Larry R. Allen, San Luis Obispo County Air Pollution Control District, to Gerardo Rios, United States Environmental Protection Agency Region 9, regarding clarifications of District Rule 220 and 40 CFR 51.166. The letter is included in the table listing non-regulatory materials approved as part of the California SIP.
222 | Federal Emission Statement | June 24, 2020 | July 29, 2022, 87 FR 45657 | Submitted on July 27, 2020 as an attachment to a letter dated July 23, 2020. See 40 CFR 52.220(c)(573)(i)(B)(1).
224 | Federal Requirements for New and Modified Major Sources in Non-Attainment Areas | January 26, 2022 | May 16, 2024, 89 FR 42808 | Submitted on July 5, 2022, by the Governor's designee. See 40 CFR 52.220(c)(607)(i)(B)(1).
Regulation IV—Source Emission Standards, Limitations and Prohibitions
401 (excluding paragraphs (B)(4) and (B)(6)) | Visible Emissions | August 2, 1976 | August 4, 1978, 43 FR 34465 | Submitted on November 10, 1976. See 40 CFR 52.220(c)(35)(xii)(A).
404 (paragraph (E)) | Sulfur Compounds Emission Standards, Limitations and Prohibitions | December 6, 1976 | August 4, 1978, 43 FR 34465 | Paragraph (E) is titled “Sulfur Content of Fuels.” Submitted on February 10, 1977. See 40 CFR 52.220(c)(37)(iii)(A).
405 | Nitrogen Oxides Emission Standards, Limitations and Prohibitions | November 13, 1984 | July 13, 1987, 52 FR 26148 | Submitted on April 12, 1985. See 40 CFR 52.220(c)(160)(i)(B)(1).
406 | Carbon Monoxide Emission Standards and Limitations | November 13, 1984 | July 13, 1987, 52 FR 26148 | Submitted on April 12, 1985. See 40 CFR 52.220(c)(160)(i)(B)(1).
407 | Organic Material Emission Standards, Limitations and Prohibitions | June 18, 1979 | June 18, 1982, 47 FR 26388 | Submitted on December 17, 1979. See 40 CFR 52.220(c)(58)(viii)(A).
409 | Orchard or Citrus Grove Heaters | August 2, 1976 | August 4, 1978, 43 FR 34465 | Submitted on November 10, 1976. See 40 CFR 52.220(c)(35)(xii)(A).
410 | Reduction of Animal Matter | August 2, 1976 | August 4, 1978, 43 FR 34465 | Submitted on November 10, 1976. See 40 CFR 52.220(c)(35)(xii)(A).
411 | Surface Coating of Manufactured Metal Parts | June 8, 1981 | June 18, 1982, 47 FR 26388 | Submitted on October 23, 1981. See 40 CFR 52.220(c)(103)(xii)(A).
415 | Dry Cleaning Solvents | June 18, 1979 | May 18, 1981, 46 FR 27116 | Submitted on October 18, 1979. See 40 CFR 52.220(c)(77)(i)(A).
416 | Degreasing Operations | June 18, 1979 | May 18, 1981, 46 FR 27116 | Submitted on October 18, 1979. See 40 CFR 52.220(c)(77)(i)(A).
417 | Control of Fugitive Emissions of Volatile Organic Compounds | February 9, 1993 | September 27, 1995, 60 FR 49772 | Submitted on May 13, 1993. See 40 CFR 52.220(c)(193)(i)(B)(1).
419 | Petroleum Pits, Ponds, Sumps, Well Cellars, and Wastewater Separators | July 12, 1994 | September 27, 1995, 60 FR 49772 | Submitted on September 28, 1994. See 40 CFR 52.220(c)(199)(i)(B)(1).
420 | Cutback Asphalt Paving Materials | June 18, 1979 | May 18, 1981, 46 FR 27116 | Submitted on October 18, 1979. See 40 CFR 52.220(c)(77)(i)(A).
422 | Refinery Process Turnarounds | June 18, 1979 | May 18, 1981, 46 FR 27116 | Submitted on October 18, 1979. See 40 CFR 52.220(c)(77)(i)(A).
424 | Gasoline Dispensing Facilities | July 18, 1989 | August 30, 1993, 58 FR 45442 | Submitted on December 31, 1990. See 40 CFR 52.220(c)(182)(i)(C)(1).
Regulation V—Burning Provisions, Limitations and Prohibitions
501 (excluding paragraphs (A)(7) and (B)) | General Burning Provisions | August 2, 1976 | November 7, 1978, 43 FR 51776 | Submitted on November 10, 1976. See 40 CFR 52.220(c)(35)(xii)(D). Paragraph (A)(7) was superseded by the submittal, and subsequent disapproval, of the same paragraph on November 4, 1977 at 43 FR 51776 (November 7, 1978).
502 (paragraphs A-F, H-I, K-N, O(1), P-Q) | Agricultural Burning | August 2, 1976 | November 7, 1978, 43 FR 51776 | Submitted on November 10, 1976. See 40 CFR 52.220(c)(35)(xii)(D).
502 (paragraph (A)(3)) | Agricultural Burning | July 5, 1977 | November 7, 1978, 43 FR 51776 | Submitted on November 4, 1977. See 40 CFR 52.220(c)(42)(vii)(A).
Emergency Episode Plans
San Luis Obispo County Air Pollution Control District, Resolution No. 2020-1, January 22, 2020 | San Luis Obispo County Ozone Emergency Episode Plan | January 22, 2020 | March 30, 2021, 86 FR 16533 | Submitted on June 25, 2020 as an attachment to a letter dated June 16, 2020. See 40 CFR 52.220(c)(552)(i)(B)(1).

Table 31—EPA-Approved Santa Barbara County Air Pollution Control District Regulations
District citation | Title/subject | State effective date | EPA approval date | Additional explanation
Original Codification of Rules and Regulations
20 | Scavenger Plants | October 18, 1971 | May 31, 1972, 37 FR 10842 | Submitted on February 21, 1972. See 40 CFR 52.220(b).
36.1 | Vacuum Producing Devices or Systems—South Coast Air Basin | June 1, 1972 | September 22, 1972, 37 FR 19812 | Adopted for Santa Barbara County by CARB through Resolution 72-68. Submitted on June 30, 1972. See 40 CFR 52.220(c)(6).
64 | Continuing Program of Voluntary Cooperation | October 18, 1971 | May 31, 1972, 37 FR 10842 | Submitted on February 21, 1972. See 40 CFR 52.220(b).
74 | Violations | October 18, 1971 | May 31, 1972, 37 FR 10842 | Submitted on February 21, 1972. See 40 CFR 52.220(b).
75 | Enforcement | October 18, 1971 | May 31, 1972, 37 FR 10842 | Submitted on February 21, 1972. See 40 CFR 52.220(b).
1979 Re-Codification of Rules and Regulations
Regulation I—General Provisions
101 | Title: Compliance by Existing Installations: Conflicts | October 23, 1978 | May 18, 1981, 46 FR 27116 | Submitted on May 23, 1979. See 40 CFR 52.220(c)(51)(xiii)(A).
102 | Definitions | August 25, 2016 | March 24, 2020, 85 FR 16555 | Submitted on October 18, 2016. See 40 CFR 52.220(c)(533)(i)(A)(1).
103 | Severability | October 23, 1978 | May 18, 1981, 46 FR 27116 | Submitted on May 23, 1979. See 40 CFR 52.220(c)(51)(xiii)(A).
104 | Agricultural Burning | October 23, 1978 | May 18, 1981, 46 FR 27116 | Submitted on May 23, 1979. See 40 CFR 52.220(c)(51)(xiii)(A).
105 | Applicability | August 25, 2016 | March 24, 2020, 85 FR 16555 | Submitted on October 18, 2016. See 40 CFR 52.220(c)(533)(i)(A)(2).
Regulation II—Permits
201 | Permits Required | June 19, 2008 | February 9, 2016, 81 FR 6758 | Submitted on October 20, 2008. See 40 CFR 52.220(c)(361)(i)(A)(4).
202 | Exemptions to Rule 201 | August 25, 2016 | March 24, 2020, 85 FR 16555 | Submitted on October 18, 2016. See 40 CFR 52.220(c)(533)(i)(A)(3).
203 | Transfer | April 17, 1997 | February 9, 2016, 81 FR 6758 | Submitted on March 10, 1998. See 40 CFR 52.220(c)(254)(i)(C)(6).
204 | Applications | August 25, 2016 | March 24, 2020, 85 FR 16555 | Submitted on October 18, 2016. See 40 CFR 52.220(c)(533)(i)(A)(4).
205 | Standards for Granting Applications | April 17, 1997 | March 24, 2020, 85 FR 16555 | Submitted on March 10, 1998. See 40 CFR 52.220(c)(254)(i)(C)(8).
205 (paragraph (C) (except subparagraph 5.b.8.)) | Standards for Granting Applications | June 11, 1979 | May 5, 1982, 47 FR 19330 | Paragraph C is titled “New Source Review.” Submitted on October 18, 1979. See 40 CFR 52.220(c)(77)(ii)(A).
206 | Conditional Approval of Authority to Construct or Permit to Operate | October 15, 1991 | February 9, 2016, 81 FR 6758 | Submitted on January 28, 1992. See 40 CFR 52.220(c)(187)(i)(E)(1).
212 | Emission Statements | October 20, 1992 | May 26, 2004, 69 FR 29880 | Submitted on November 12, 1992. See 40 CFR 52.220(c)(190)(i)(G)(1).
Regulation III—Prohibitions
301 | Circumvention | October 23, 1978 | May 18, 1981, 46 FR 27116 | Submitted on May 23, 1979. See 40 CFR 52.220(c)(51)(xiii)(A).
302 | Visible Emissions | October 23, 1978 | May 18, 1981, 46 FR 27116 | Submitted on May 23, 1979. See 40 CFR 52.220(c)(51)(xiii)(A).
304 | Particulate Matter—Northern Zone | October 23, 1978 | May 18, 1981, 46 FR 27116 | Submitted on May 23, 1979. See 40 CFR 52.220(c)(51)(xiii)(A).
305 | Particulate Matter Concentration—Southern Zone | October 23, 1978 | May 18, 1981, 46 FR 27116 | Submitted on May 23, 1979. See 40 CFR 52.220(c)(51)(xiii)(A).
306 | Dust and Fumes—Northern Zone | October 23, 1978 | May 18, 1981, 46 FR 27116 | Submitted on May 23, 1979. See 40 CFR 52.220(c)(51)(xiii)(A).
307 | Particulate Matter Emission Weight Rate—Southern Zone | October 23, 1978 | May 18, 1981, 46 FR 27116 | Submitted on May 23, 1979. See 40 CFR 52.220(c)(51)(xiii)(A).
308 | Incinerator Burning | October 23, 1978 | May 18, 1981, 46 FR 27116 | Submitted on May 23, 1979. See 40 CFR 52.220(c)(51)(xiii)(A).
309 | Specific Contaminants | October 23, 1978 | May 18, 1981, 46 FR 27116 | Submitted on May 23, 1979. See 40 CFR 52.220(c)(51)(xiii)(A).
311 | Sulfur Content of Fuels | October 23, 1978 | May 18, 1981, 46 FR 27116 | Submitted on May 23, 1979. See 40 CFR 52.220(c)(51)(xiii)(A).
312 (excluding paragraphs (B) and (C)) | Open Fires | October 23, 1978 | May 18, 1981, 46 FR 27116 | Submitted on May 23, 1979. See 40 CFR 52.220(c)(51)(xiii)(A). Paragraphs (B) and (C) were disapproved at 46 FR 27116 (May 18, 1981).
313 | Fires Set Under Public Authority | October 23, 1978 | May 18, 1981, 46 FR 27116 | Submitted on May 23, 1979. See 40 CFR 52.220(c)(51)(xiii)(A).
314 | Reduction of Animal Matter | October 23, 1978 | May 18, 1981, 46 FR 27116 | Submitted on May 23, 1979. See 40 CFR 52.220(c)(51)(xiii)(A).
315 | Gasoline Specifications | October 23, 1978 | May 18, 1981, 46 FR 27116 | Submitted on May 23, 1979. See 40 CFR 52.220(c)(51)(xiii)(A).
316 | Storage and Transfer of Gasoline | January 15, 2009 | January 31, 2011, 76 FR 5277 | Submitted on March 17, 2009. See 40 CFR 52.220(c)(363)(i)(B)(2).
317 | Organic Solvents | October 23, 1978 | May 18, 1981, 46 FR 27116 | Submitted on May 23, 1979. See 40 CFR 52.220(c)(51)(xiii)(A).
319 | Asphalt Air Blowing—Southern Zone | October 23, 1978 | May 18, 1981, 46 FR 27116 | Submitted on May 23, 1979. See 40 CFR 52.220(c)(51)(xiii)(A).
320 | Petroleum Solvent Dry Cleaners | June 11, 1979 | May 5, 1982, 47 FR 19330 | Submitted on October 18, 1979. See 40 CFR 52.220(c)(77)(ii)(A).
321 | Solvent Cleaning Machines and Solvent Cleaning | June 21, 2012 | January 30, 2014, 79 FR 4821 | Submitted on September 21, 2012. See 40 CFR 52.220(c)(423)(i)(E)(3).
322 | Metal Surface Coating Thinner and Reducer | October 23, 1978 | May 18, 1981, 46 FR 27116 | Submitted on May 23, 1979. See 40 CFR 52.220(c)(51)(xiii)(A).
323 | Architectural Coatings | November 15, 2001 | January 2, 2004, 69 FR 34 | Submitted on March 15, 2002. See 40 CFR 52.220(c)(297)(i)(F)(1).
323.1 | Architectural Coatings | January 1, 2015 | December 8, 2015, 80 FR 76222 | Submitted on November 6, 2014. See 40 CFR 52.220(c)(457)(i)(G)(1).
324 | Disposal and Evaporation of Solvents | October 23, 1978 | May 18, 1981, 46 FR 27116 | Submitted on May 23, 1979. See 40 CFR 52.220(c)(51)(xiii)(A).
325 | Crude Oil Production and Separation | July 19, 2001 | July 8, 2002, 67 FR 45066 | Submitted on November 7, 2001. See 40 CFR 52.220(c)(292)(i)(B)(1).
326 | Storage of Reactive Organic Compound Liquids | January 18, 2001 | July 8, 2002, 67 FR 45066 | Submitted on May 8, 2001. See 40 CFR 52.220(c)(284)(i)(C)(1).
327 | Organic Liquid Cargo Vessel Loading | June 11, 1979 | May 5, 1982, 47 FR 19330 | Submitted on October 18, 1979. See 40 CFR 52.220(c)(77)(ii)(A).
328 | Continuous Emission Monitoring | October 23, 1978 | May 18, 1981, 46 FR 27116 | Submitted on May 23, 1979. See 40 CFR 52.220(c)(51)(xiii)(A).
329 | Cutback and Emulsified Asphalt Paving Materials | February 25, 1992 | February 5, 1996, 61 FR 4215 | Submitted on June 19, 1992. See 40 CFR 52.220(c)(188)(i)(A)(4).
330 | Surface Coating of Metal Parts and Products | June 21, 2012 | January 30, 2014, 79 FR 4821 | Submitted on September 21, 2012. See 40 CFR 52.220(c)(423)(i)(E)(4).
331 | Fugitive Emissions Inspection and Maintenance | December 10, 1991 | September 20, 1994, 59 FR 48174 | Submitted on June 19, 1992. See 40 CFR 52.220(c)(188)(i)(A)(2).
332 | Petroleum Refinery Vacuum Producing Systems, Wastewater Separators and Process Turnarounds | June 11, 1979 | May 5, 1982, 47 FR 19330 | Submitted on October 18, 1979. See 40 CFR 52.220(c)(77)(ii)(A).
333 | Control of Emissions from Reciprocating Internal Combustion Engines | June 19, 2008 | May 31, 2011, 76 FR 31242 | Submitted on October 20, 2008. See 40 CFR 52.220(c)(361)(i)(A)(2).
337 | Surface Coating of Aerospace Vehicles and Components | June 21, 2012 | April 11, 2013, 78 FR 21537 | Submitted on September 21, 2012. See 40 CFR 52.220(c)(423)(i)(E)(7). Also see 85 FR 42728 (July 15, 2020).
339 | Motor Vehicle and Mobile Equipment Coating Operations | January 1, 2009 | September 24, 2013, 78 FR 58459 | Submitted on October 20, 2008. See 40 CFR 52.220(c)(361)(i)(A)(3).
342 | Control of Oxides of Nitrogen (NOX) from Boilers, Steam Generators and Process Heaters | April 17, 1997 | September 24, 1999, 64 FR 51688 | Submitted on March 10, 1998. See 40 CFR 52.220(c)(254)(i)(C)(4).
343 | Petroleum Storage Tanks Degassing | December 14, 1993 | October 7, 1996, 61 FR 52297 | Submitted on March 29, 1994. See 40 CFR 52.220(c)(196)(i)(C)(3).
344 | Petroleum Sumps, Pits, and Well Cellars | November 10, 1994 | February 13, 1996, 61 FR 5515 | Submitted on January 24, 1995. See 40 CFR 52.220(c)(214)(i)(C)(2).
346 | Loading of Organic Liquid Cargo Vessels | January 18, 2001 | October 29, 2002, 67 FR 65873 | Submitted on May 8, 2001. See 40 CFR 52.220(c)(284)(i)(C)(2).
349 | Polyester Resin Operations | June 21, 2012 | January 30, 2014, 79 FR 4821 | Submitted on September 21, 2012. See 40 CFR 52.220(c)(423)(i)(E)(5).
351 | Surface Coating of Wood Products | August 20, 1998 | March 22, 2000, 65 FR 15240 | Submitted on May 13, 1999. See 40 CFR 52.220(c)(263)(i)(B)(2).
352 | Natural Gas-Fired Fan-Type Central Furnaces and Small Water Heaters | October 20, 2011 | April 11, 2013, 78 FR 21542 | Submitted on February 23, 2012. See 40 CFR 52.220(c)(411)(i)(G)(1).
353 | Adhesives and Sealants | June 21, 2012 | August 30, 2013, 78 FR 53680 | Submitted on September 21, 2012. See 40 CFR 52.220(c)(423)(i)(E)(2).
354 | Graphic Arts | June 28, 1994 | July 11, 1997, 62 FR 37136 | Submitted on July 13, 1994. See 40 CFR 52.220(c)(198)(i)(K)(1).
359 | Flares and Thermal Oxidizers | June 28, 1994 | May 7, 1996, 61 FR 20453 | Submitted on July 13, 1994. See 40 CFR 52.220(c)(198)(i)(K)(2).
360 | Emissions of Oxides of Nitrogen from Large Water Heaters and Small Boilers | October 17, 2002 | October 14, 2003, 68 FR 59121 | Submitted on January 21, 2003. See 40 CFR 52.220(c)(312)(i)(B)(1).
361 | Small Boilers, Steam Generators and Process Heaters | January 17, 2008 | May 31, 2011, 76 FR 31242 | Submitted on July 18, 2008. See 40 CFR 52.220(c)(359)(i)(E)(1).
370 | Potential to Emit—Limitations for Part 70 Sources | June 15, 1995 | October 15, 1997, 62 FR 53542 | Submitted on August 10, 1995. See 40 CFR 52.220(c)(224)(i)(E)(1).
Regulation IV—Agricultural Burning
401 | Agricultural and Prescribed Burning | May 16, 2002 | January 23, 2003, 68 FR 3190 | Submitted on August 6, 2002. See 40 CFR 52.220(c)(303)(i)(A)(1).
403 | Burning Permit for Non-Burning Days: Report Requirements | October 23, 1978 | May 18, 1981, 46 FR 27116 | Submitted on May 23, 1979. See 40 CFR 52.220(c)(51)(xiii)(A).
Regulation V—Hearing Board
505 | Breakdown Conditions | October 23, 1978 | May 18, 1981, 46 FR 27116 | Submitted on May 23, 1979. See 40 CFR 52.220(c)(51)(xiii)(A).
505-A | Breakdown Reporting Information Form | October 23, 1978 | May 18, 1981, 46 FR 27116 | Submitted on May 23, 1979. See 40 CFR 52.220(c)(51)(xiii)(A).
Regulation VI—Emergencies
601 | General | June 15, 1981 | June 21, 1982, 47 FR 26618 | Submitted on October 23, 1981. See 40 CFR 52.220(c)(103)(iii)(B).
602 | Episodes/Disasters | June 15, 1981 | June 21, 1982, 47 FR 26618 | Submitted on October 23, 1981. See 40 CFR 52.220(c)(103)(iii)(B).
603 | Emergency Episode Plans | June 15, 1981 | June 21, 1982, 47 FR 26618 | Submitted on October 23, 1981. See 40 CFR 52.220(c)(103)(iii)(B).
604 | Source Inspection | June 15, 1981 | June 21, 1982, 47 FR 26618 | Submitted on October 23, 1981. See 40 CFR 52.220(c)(103)(iii)(B).
605 | Enforcement | June 15, 1981 | June 21, 1982, 47 FR 26618 | Submitted on October 23, 1981. See 40 CFR 52.220(c)(103)(iii)(B).
606 | Communication Network | June 15, 1981 | June 21, 1982, 47 FR 26618 | Submitted on October 23, 1981. See 40 CFR 52.220(c)(103)(iii)(B).
607 | Air Monitoring Stations | June 15, 1981 | June 21, 1982, 47 FR 26618 | Submitted on October 23, 1981. See 40 CFR 52.220(c)(103)(iii)(B).
608 | Air Monitoring Summaries | June 15, 1981 | June 21, 1982, 47 FR 26618 | Submitted on October 23, 1981. See 40 CFR 52.220(c)(103)(iii)(B).
609 | Interdistrict Cooperation | June 15, 1981 | June 21, 1982, 47 FR 26618 | Submitted on October 23, 1981. See 40 CFR 52.220(c)(103)(iii)(B).
Regulation VII—Conformity
702 | General Conformity | October 20, 1994 | April 23, 1999, 64 FR 19916 | Submitted on November 30, 1994. See 40 CFR 52.220(c)(207)(i)(H)(1).
Regulation VIII—New Source Review
809 | Federal Minor Source New Source Review | August 25, 2016 | March 24, 2020, 85 FR 16555 | Submitted on October 18, 2016. See 40 CFR 52.220(c)(533)(i)(A)(5).
810, except for the incorporation by reference of 40 CFR 52.21(b)(49)(v) into sections B and D.3. | Federal Prevention of Significant Deterioration (PSD) | June 20, 2013 | November 12, 2015, 80 FR 69880 | Submitted on February 10, 2014. See 40 CFR 52.220(c)(442)(i)(H)(1). Approval relies on a letter dated November 25, 2014 from David Van Mullem, Santa Barbara County Air Pollution Control District, to Gerardo Rios, EPA, regarding clarifications of District Rule 810 and 40 CFR 51.166, which is included in tables listing the nonregulatory materials approved as part of the applicable SIP.
Regulation XIII—Part 70 Operating Permit Program
1301 | Part 70 Operating Permits—General Information | September 18, 1997 | November 26, 1997, 62 FR 62949 | Submitted on October 31, 1997. See 40 CFR 52.220(c)(250)(i)(A)(1).

Table 32—EPA-Approved Shasta County Air Quality Management District Regulations
District citation | Title/subject | State effective date | EPA approval date | Additional explanation
Rule I—Title and Definitions
1:1 | Title | July 22, 1986 | April 12, 1989, 54 FR 14648 | Submitted on November 21, 1986. See 40 CFR 52.220(c)(171)(i)(D)(1).
1:2 | Definitions | February 28, 1977 | November 14, 1978, 43 FR 52702 | In the November 14, 1978 action, EPA approved all the definitions, except for “person,” for which EPA took no action, and “modification,” which EPA disapproved. Several of the approved definitions have been superseded. Submitted on October 13, 1977. See 40 CFR 52.220(c)(41)(xii)(A).
1:2 | Definitions | April 8, 1971 | August 22, 1977, 42 FR 42219 | All the definitions originally approved on August 22, 1977 have been superseded except for the definition for “person.” Submitted on July 19, 1974. See 40 CFR 52.220(c)(24)(vi)(A).
1:2 | Definitions | November 27, 1978 | January 26, 1982, 47 FR 3550 | Adds a definition for “facility.” Submitted on October 15, 1979. See 40 CFR 52.220(c)(52)(xviii)(A).
1:2 | Definitions | September 4, 1979 | January 26, 1982, 47 FR 3550 | Adds definitions for “asphalt,” “cutback asphalt,” “dust palliative,” “emulsified asphalt,” “penetrating prime coat,” “road oils,” “and “tack coat”. Submitted on December 17, 1979. See 40 CFR 52.220(c)(58)(vi)(A).
1:2 | Definitions | January 3, 1984 | December 5, 1984, 49 FR 47490 | Repeals the definition for “agricultural producer” and amends the definitions of “agricultural operation” and “open burning in agricultural operations in the growing and harvesting of crops or raising of fowls or animals.” Also, this action amends the definition of “particulate matter,” but that definition has been superseded. Submitted on April 19, 1984. See 40 CFR 52.220(c)(154)(v)(A).
1:2 | Definitions | May 8, 1984 | May 9, 1985, 50 FR 19529 | Amends the definition for “Dusts.” Submitted on July 10, 1984. See 40 CFR 52.220(c)(155)(vi)(A).
1:2 | Definitions | July 22, 1986 | April 12, 1989, 54 FR 14648 | No action was taken on the definition for “fugitive emissions.” Amends the definitions for “Board,” “Control Officer,” “District,” “Hearing Board,” “Indirect Sources,” “Miscellaneous Sources,” “Non-Traditional Sources,” “Regulation,” “Residential Rubbish,” “Rule” and “Standard Conditions.” Also, this action amends “Particulate Matter” but that definition was superseded by approval of an amended version at 54 FR 15180 (April 17, 1989). Submitted on November 21, 1986. See 40 CFR 52.220(c)(171)(i)(D)(1).
1:2 | Definitions | July 28, 1987 | April 17, 1989, 54 FR 15180 | Adds definitions for “PM10,” “Populated Areas,” “Prescribed Burning,” “Sensitive Area,” and “Wildland Vegetation Management Burning,” and amends definitions for “Agricultural Burning” and “Particulate Matter.” Submitted on November 25, 1987. See 40 CFR 52.220(c)(175)(i)(A)(1).
Rule II—Permits
2:1A | Permits Required | February 13, 1980 | June 18, 1982, 47 FR 26379 | Adopted by CARB for Shasta County APCD through Executive Order G-105. Submitted on February 25, 1980. See 40 CFR 52.220(c)(54)(xii)(A).
2:1, part 500, section 514 | New Source Review | May 29, 1984 | July 13, 1987, 52 FR 26148 | Part 500 is titled “Administrative Requirements,” and section 514 is titled “Issuance, Permit to Operate.” Submitted on April 12, 1985. See 40 CFR 52.220(c)(160)(i)(C)(1).
2:4 | Permit to Sell or Rent | October 12, 1971 | September 22, 1972, 37 FR 19812 | Submitted on June 30, 1972. See 40 CFR 52.220(c)(6).
2:5 | Exemptions | November 27, 1978 | May 27, 1982, 47 FR 23159 | Submitted on October 15, 1979. See 40 CFR 52.220(c)(52)(xviii)(B).
2:6 | Open Burning: General Provisions | March 18, 1980 | November 10, 1982, 47 FR 50864 | Paragraphs a.1, a.2, a.4(c), a.7 and b have been superseded by approvals of amendments to Rule 2:6. Submitted on May 20, 1982. See 40 CFR 52.220(c)(125)(iv)(A).
2:6 | Open Burning: General Provisions | January 3, 1984 | December 5, 1984, 49 FR 47490 | Amends paragraphs a.1 and a.2. Submitted on April 19, 1984. See 40 CFR 52.220(c)(154)(v)(A).
2:6 | Open Burning: General Provisions | July 28, 1987 | April 17, 1989, 54 FR 15180 | Amends paragraphs a.4(c) and b. Submitted on November 25, 1987. See 40 CFR 52.220(c)(175)(i)(A)(1).
2:6 | Open Burning: General Provisions | March 24, 1981 | November 10, 1982, 47 FR 50864 | Amends paragraph a.7. Submitted on May 20, 1982. See 40 CFR 52.220(c)(125)(iv)(A).
2:6 | Agricultural Burning | February 28, 1977 | November 14, 1978, 43 FR 52702 | All the provisions of this rule have been superseded by subsequent approvals of Rules 2:7 and 2:8 except for section (1)(General Provisions), paragraphs (d) (“Burning Report”) and (e) (“Penalty and Enforcement Provisions”). Submitted on October 13, 1977. See 40 CFR 52.220(c)(41)(xii)(A).
2:7 | Conditions for Open Burning | March 18, 1980 | November 10, 1982, 47 FR 50864 | Paragraphs a and c have been superseded by approvals of amendments to Rule 2:7. Submitted on May 20, 1982. See 40 CFR 52.220(c)(125)(iv)(A).
2:7 | Conditions for Open Burning | July 28, 1987 | April 17, 1989, 54 FR 15180 | Amends paragraphs a and c. Submitted on November 25, 1987. See 40 CFR 52.220(c)(175)(i)(A)(1).
2:7 | Prohibited Materials | February 28, 1977 | November 14, 1978, 43 FR 52702 | Submitted on October 13, 1977. See 40 CFR 52.220(c)(41)(xii)(A).
2:8 | Agricultural Burning | March 18, 1980 | November 10, 1982, 47 FR 50864 | Paragraphs b.3, b.4, c.2.(a) and c.3.(a) have been superseded by approvals of amendments to Rule 2:8. Submitted on May 20, 1982. See 40 CFR 52.220(c)(125)(iv)(A).
2:8 | Agricultural Burning | March 24, 1981 | November 10, 1982, 47 FR 50864 | Amends paragraphs b.3 and b.4. Submitted on May 20, 1982. See 40 CFR 52.220(c)(125)(iv)(A).
2:8 | Agricultural Burning | July 28, 1987 | April 17, 1989, 54 FR 15180 | Amends paragraphs c.2.(a) and c.3.(a) and adds paragraph c.4. Submitted on November 25, 1987. See 40 CFR 52.220(c)(175)(i)(A)(1).
2:10 | Action on Applications Interim Variance | October 12, 1971 | September 22, 1972, 37 FR 19812 | Submitted on June 30, 1972. See 40 CFR 52.220(c)(6).
2:12 | Standards for Granting Applications | October 12, 1971 | September 22, 1972, 37 FR 19812 | Submitted on June 30, 1972. See 40 CFR 52.220(c)(6).
2:12 | Expiration of Applications | November 27, 1978 | January 26, 1982, 47 FR 3550 | Submitted on October 15, 1979. See 40 CFR 52.220(c)(52)(xviii)(A).
2:14 | Denial of Applications | October 12, 1971 | September 22, 1972, 37 FR 19812 | Submitted on June 30, 1972. See 40 CFR 52.220(c)(6).
2:14 | Testing Facilities | December 4, 1972 | August 22, 1977, 42 FR 42219 | Submitted on July 19, 1974. See 40 CFR 52.220(c)(24)(vi)(A).
2:18 | Transfer | October 12, 1971 | September 22, 1972, 37 FR 19812 | Submitted on June 30, 1972. See 40 CFR 52.220(c)(6).
2:21 | Defacing Permit | October 12, 1971 | September 22, 1972, 37 FR 19812 | Submitted on June 30, 1972. See 40 CFR 52.220(c)(6).
2:23 | Posting of Permit to Operate | July 22, 1986 | April 12, 1989, 54 FR 14648 | Submitted on November 21, 1986. See 40 CFR 52.220(c)(171)(i)(D)(1).
2:25 | Public Records—Trade Secrets | October 1, 1973 | August 22, 1977, 42 FR 42219 | Submitted on July 19, 1974. See 40 CFR 52.220(c)(24)(vi)(A).
Rule III—Prohibitions and Enforcement
3:1 | Applicability of State Laws | October 15, 1974 | August 22, 1977, 42 FR 42219 | Submitted on January 10, 1975. See 40 CFR 52.220(c)(26)(x)(A).
3:2 | Specific Air Contaminants | July 22, 1986 | April 12, 1989, 54 FR 14648 | Submitted on November 21, 1986. See 40 CFR 52.220(c)(171)(i)(D)(1).
3:3 | Gasoline Loading and Transfer | July 22, 1986 | April 12, 1989, 54 FR 14648 | Only the title was amended. Submitted on November 21, 1986. See 40 CFR 52.220(c)(171)(i)(D)(1).
3:3 | Gasoline Loading and Transfer in the Sacramento Valley | July 1, 1980 | January 26, 1982, 47 FR 3550 | The rescission of paragraph b was approved at 49 FR 39057 (October 3, 1984). Submitted on August 15, 1980. See 40 CFR 52.220(c)(70)(iii)(A).
3:4 | Industrial Use of Organic Solvents | January 3, 1984 | July 13, 1987, 52 FR 26148 | Amends paragraphs a and b. Submitted on April 19, 1984. See 40 CFR 52.220(c)(154)(v)(B).
3:4 | Industrial Use of Organic Solvents | September 18, 1978 | January 26, 1982, 47 FR 3550 | Amends paragraph c, redesignates paragraph d as paragraph e and adds a new paragraph d. Submitted on May 23, 1979. See 40 CFR 52.220(c)(51)(xvii)(A).
3:4 | Industrial Use of Organic Solvents | May 17, 1983 | October 3, 1984, 49 FR 39057 | Amends paragraph d.2. Submitted on July 19, 1983. See 40 CFR 52.220(c)(137)(vi)(B).
3:4 | Industrial Use of Organic Solvents | February 28, 1977 | November 14, 1978, 43 FR 52702 | Adds paragraph d, which was redesignated as paragraph e at 47 FR 3550 (January 26, 1982). Submitted on October 13, 1977. See 40 CFR 52.220(c)(41)(xii)(A).
3:5 | Agricultural Uses | October 1, 1973 | August 22, 1977, 42 FR 42219 | Submitted on July 19, 1974. See 40 CFR 52.220(c)(24)(vi)(A).
3:6 | Circumvention | October 1, 1973 | August 22, 1977, 42 FR 42219 | Submitted on July 19, 1974. See 40 CFR 52.220(c)(24)(vi)(A).
3:8 | Enhanced Monitoring and Compliance Certification for Major Sources as Defined by Title V of the Federal Clean Air Act | February 1, 1995 | August 28, 2014, 79 FR 51261 | Submitted on February 24, 1995. See 40 CFR 52.220(c)(215)(i)(G)(1).
3:9 | Recommendation of Control Officer | October 1, 1973 | August 22, 1977, 42 FR 42219 | Submitted on July 19, 1974. See 40 CFR 52.220(c)(24)(vi)(A).
3:11 | Local Rules | October 1, 1973 | August 22, 1977, 42 FR 42219 | Submitted on July 19, 1974. See 40 CFR 52.220(c)(24)(vi)(A).
3:12 | Reduction of Matter of Animal Origin (Except the Curing of Glue) | May 8, 1973 | August 22, 1977, 42 FR 42219 | Submitted on July 19, 1974. See 40 CFR 52.220(c)(24)(vi)(A).
3:14 | Petroleum Solvent Dry Cleaners | July 31, 1979 | January 26, 1982, 47 FR 3550 | Submitted on December 17, 1979. See 40 CFR 52.220(c)(58)(vi)(A).
3:15 | Cutback Asphalt Paving Materials | September 4, 1979 | January 26, 1982, 47 FR 3550 | Paragraph (c) was superseded by approval of a revised version of that paragraph at 49 FR 39057 (October 3, 1984). Submitted on December 17, 1979. See 40 CFR 52.220(c)(58)(vi)(A).
3:15 (paragraph (c)) | Cutback Asphalt Paving Materials | May 17, 1983 | October 3, 1984, 49 FR 39057 | Submitted on July 19, 1983. See 40 CFR 52.220(c)(137)(vi)(B).
3:17 | Organic Solvent Degreasing Operations | February 19, 1980 | January 26, 1982, 47 FR 3550 | Submitted on June 2, 1980. See 40 CFR 52.220(c)(79)(vi)(A).

Table 33—EPA-Approved Siskiyou County Air Pollution Control District Regulations
District citation | Title/subject | State effective date | EPA approval date | Additional explanation
Regulation I—General Provisions
1.1 | Title | November 25, 1986 | April 12, 1989, 54 FR 14648 | Submitted on March 18, 1987. See 40 CFR 52.220(c)(172)(i)(A)(1).
1.2 (except section V1) | Definitions | January 24, 1989 | November 4, 1996, 61 FR 56629 | Approval did not include section V1, i.e., the definition for “Variance.” Submitted on March 26, 1990. See 40 CFR 52.220(c)(179)(i)(E)(1).
1.2 (section V1) | Definitions | November 25, 1986 | April 12, 1989, 54 FR 14648 | All the definitions have been superseded by approval of amended Rule 1.2 at 61 FR 56629 (November 4, 1996) except for the definition in Section V1, i.e., the definition for “Variance.” Submitted on March 18, 1987. See 40 CFR 52.220(c)(172)(i)(A)(1).
1.3 | Public Records | November 25, 1986 | April 12, 1989, 54 FR 14648 | Submitted on March 18, 1987. See 40 CFR 52.220(c)(172)(i)(A)(1).
1.5 | Orders for Abatement | October 26, 1971 | May 31, 1972, 37 FR 10842 | Submitted on February 21, 1972. See 40 CFR 52.220(b).
1.5 | Validity | November 25, 1986 | April 12, 1989, 54 FR 14648 | Submitted on March 18, 1987. See 40 CFR 52.220(c)(172)(i)(A)(1).
Regulation II—Permit System
2.1 | Permits Required | January 24, 1989 | November 4, 1996, 61 FR 56629 | Submitted on March 26, 1990. See 40 CFR 52.220(c)(179)(i)(E)(1).
2.2 | Exemptions | January 24, 1989 | November 4, 1996, 61 FR 56629 | Submitted on March 26, 1990. See 40 CFR 52.220(c)(179)(i)(E)(1).
2.3 | Transfers | November 25, 1986 | April 12, 1989, 54 FR 14648 | Submitted on March 18, 1987. See 40 CFR 52.220(c)(172)(i)(A)(1).
2.5 | Cancellation of Applications | October 26, 1971 | May 31, 1972, 37 FR 10842 | Submitted on February 21, 1972. See 40 CFR 52.220(b).
2.7 | Provision of Sampling and Testing Facilities | October 26, 1971 | May 31, 1972, 37 FR 10842 | Submitted on February 21, 1972. See 40 CFR 52.220(b).
2.7 | Conditional Approval | November 25, 1986 | April 12, 1989, 54 FR 14648 | Submitted on March 18, 1987. See 40 CFR 52.220(c)(172)(i)(A)(1).
2.8 | Standards for Granting Applications | October 26, 1971 | May 31, 1972, 37 FR 10842 | Submitted on February 21, 1972. See 40 CFR 52.220(b).
2.11 | Monitoring Requirements | November 25, 1986 | April 12, 1989, 54 FR 14648 | Submitted on March 18, 1987. See 40 CFR 52.220(c)(172)(i)(A)(1).
2.12 | Equipment Breakdown | November 25, 1986 | April 12, 1989, 54 FR 14648 | Submitted on March 18, 1987. See 40 CFR 52.220(c)(172)(i)(A)(1).
2.15 | Standards for Permits to Operate | May 23, 1979 | June 18, 1982, 47 FR 26379 | Submitted on October 15, 1979. See 40 CFR 52.220(c)(52)(xxi)(A).
2.16 | State Ambient Air Quality Standards | May 23, 1979 | June 18, 1982, 47 FR 26379 | Submitted on October 15, 1979. See 40 CFR 52.220(c)(52)(xxi)(A).
Regulation IV—Prohibitions
4.1 | Visible Emissions | January 24, 1989 | November 4, 1996, 61 FR 56629 | Submitted on March 26, 1990. See 40 CFR 52.220(c)(179)(i)(E)(1).
4.3 | Non-Agricultural Burning | January 24, 1989 | August 19, 1999, 64 FR 45170 | Submitted on March 26, 1990. See 40 CFR 52.220(c)(179)(i)(E)(3).
4.4 | Specific Air Contaminants | October 27, 1987 | October 23, 1989, 54 FR 43174 | Submitted on March 23, 1988. See 40 CFR 52.220(c)(176)(i)(A)(1).
4.5 | Particulate Matter | October 27, 1987 | October 23, 1989, 54 FR 43174 | Submitted on March 23, 1988. See 40 CFR 52.220(c)(176)(i)(A)(1).
4.6 | Circumvention | January 24, 1989 | November 4, 1996, 61 FR 56629 | Submitted on March 26, 1990. See 40 CFR 52.220(c)(179)(i)(E)(1).
4.7 | Gasoline Storage | October 27, 1987 | October 23, 1989, 54 FR 43174 | Submitted on March 23, 1988. See 40 CFR 52.220(c)(176)(i)(A)(1).
4.8 | Combination of Emissions | October 27, 1987 | October 23, 1989, 54 FR 43174 | Submitted on March 23, 1988. See 40 CFR 52.220(c)(176)(i)(A)(1).
4.9 | Separation of Emissions | October 27, 1987 | October 23, 1989, 54 FR 43174 | Submitted on March 23, 1988. See 40 CFR 52.220(c)(176)(i)(A)(1).
4.10 | Reduction of Animal Matter | January 24, 1989 | June 3, 1999, 64 FR 29790 | Submitted on March 26, 1990. See 40 CFR 52.220(c)(179)(i)(E)(2).
4.11 | Orchard and Citrus Heaters | October 27, 1987 | October 23, 1989, 54 FR 43174 | Submitted on March 23, 1988. See 40 CFR 52.220(c)(176)(i)(A)(1).
4.14 | Sulfur Contents of Fuels | July 11, 1989 | June 8, 1999, 64 FR 30396 | Submitted on December 31, 1990. See 40 CFR 52.220(c)(182)(i)(G)(1).
Regulation VI—New Source Siting
6.1 | Standards for Permits to Construct | January 24, 1989 | November 4, 1996, 61 FR 56629 | Submitted on March 26, 1990. See 40 CFR 52.220(c)(179)(i)(E)(1).
Regulation VII—Agricultural Burning
Unnumbered | General Provisions | September 24, 1980 | January 26, 1982, 47 FR 3549 | Submitted on January 28, 1981. See 40 CFR 52.220(c)(98)(ii)(A).
7.1 | Definitions | October 27, 1987 | October 23, 1989, 54 FR 43174 | Submitted on March 23, 1988. See 40 CFR 52.220(c)(176)(i)(A)(1). The definition of “Approved Ignition Device” was superseded by approval of an amended definition of that term at 64 FR 35005 (June 30, 1999).
7.1 | Definitions | July 11, 1989 | June 30, 1999, 64 FR 35005 | Amends section M., i.e., the definition of “Approved Ignition Device.” Submitted on December 31, 1990. See 40 CFR 52.220(c)(182)(i)(G)(2).
7.2 | Notification of Burning Conditions | October 27, 1987 | October 23, 1989, 54 FR 43174 | Submitted on March 23, 1988. See 40 CFR 52.220(c)(176)(i)(A)(1).
7.3 | Exceptions | October 27, 1987 | October 23, 1989, 54 FR 43174 | Submitted on March 23, 1988. See 40 CFR 52.220(c)(176)(i)(A)(1).
7.4 | Enforcement | October 27, 1987 | October 23, 1989, 54 FR 43174 | Submitted on March 23, 1988. See 40 CFR 52.220(c)(176)(i)(A)(1).
7.5-1 | Prohibitions—General | October 27, 1987 | October 23, 1989, 54 FR 43174 | Submitted on March 23, 1988. See 40 CFR 52.220(c)(176)(i)(A)(1).
7.5-2 | Prohibitions—Range Improvement Burning | October 27, 1987 | October 23, 1989, 54 FR 43174 | Submitted on March 23, 1988. See 40 CFR 52.220(c)(176)(i)(A)(1).
7.5-3 | Prohibitions—Wildland Vegetation Management Burning | October 27, 1987 | October 23, 1989, 54 FR 43174 | Submitted on March 23, 1988. See 40 CFR 52.220(c)(176)(i)(A)(1).
7.6 | Burning Permits | October 27, 1987 | October 23, 1989, 54 FR 43174 | Submitted on March 23, 1988. See 40 CFR 52.220(c)(176)(i)(A)(1).
7.7 | Agricultural Burning Reports | October 27, 1987 | October 23, 1989, 54 FR 43174 | Submitted on March 23, 1988. See 40 CFR 52.220(c)(176)(i)(A)(1).
Appendices
Appendix A | List/Criteria for Permit Applications | January 24, 1989 | November 4, 1996, 61 FR 56629 | Submitted on March 26, 1990. See 40 CFR 52.220(c)(179)(i)(E)(1).

Table 34—EPA-Approved South Coast Air Quality Management District Regulations; Los Angeles County Air Pollution Control District Regulations; Orange County Air Pollution Control District Regulations; Riverside County Air Pollution Control District Regulations; San Bernardino County Air Pollution Control District Regulations
District citation | Title/subject | State effective date | EPA approval date | Additional explanation
[Reserved]

Table 35—EPA-Approved Tehama County Air Pollution Control District Regulations
District citation | Title/subject | State effective date | EPA approval date | Additional explanation
Regulation I—General Provisions
1:1 | Title | August 10, 1971 | May 31, 1972, 37 FR 10842 | Submitted on February 21, 1972. See 40 CFR 52.220(b).
1:2 | Definitions | April 25, 1989 | June 30, 1999, 64 FR 35005 | Submitted on May 13, 1991. See 40 CFR 52.220(c)(184)(i)(F)(1).
Regulation II—Permit and Registration
2:1 | General Requirements | May 23, 1979 | April 12, 1982, 47 FR 15585 | Submitted on May 23, 1979. See 40 CFR 52.220(c)(51)(xix)(A).
2:2 | Permits Required | August 10, 1971 | May 31, 1972, 37 FR 10842 | Submitted on February 21, 1972. See 40 CFR 52.220(b).
2:3 | Registration or Permit to Operate | August 10, 1971 | May 31, 1972, 37 FR 10842 | Submitted on February 21, 1972. See 40 CFR 52.220(b).
2:3C | New and Modified Major Sources in the Tuscan Buttes Nonattainment Areas | February 28, 2023 | May 8, 2025, 90 FR 19426 | Submitted electronically on May 11, 2023, as an attachment to a letter dated May 10, 2023. See 40 CFR 52.220(c)(610)(i)(F)(1).
2:4 | Exemptions from Permit and Registration | August 10, 1971 | May 31, 1972, 37 FR 10842 | Submitted on February 21, 1972. See 40 CFR 52.220(b).
2:5 | Standards for Granting Applications for Permits | August 10, 1971 | May 31, 1972, 37 FR 10842 | Submitted on February 21, 1972. See 40 CFR 52.220(b).
2:5A | Standards for Granting Applications | February 13, 1980 | April 12, 1982, 47 FR 15585 | Adopted by CARB on February 13, 1980 through Executive Order G-107 for the Tehama County APCD. Submitted on February 25, 1980. See 40 CFR 52.220(c)(54)(ix)(A).
2:5B | Conditional Approval | February 13, 1980 | April 12, 1982, 47 FR 15585 | Adopted by CARB on February 13, 1980 through Executive Order G-107 for the Tehama County APCD. Submitted on February 25, 1980. See 40 CFR 52.220(c)(54)(ix)(A).
2:6 | Conditional Approval | August 10, 1971 | May 31, 1972, 37 FR 10842 | Submitted on February 21, 1972. See 40 CFR 52.220(b).
2:13 | Transfers | September 10, 1985 | February 3, 1987, 52 FR 3226 | Submitted on February 10, 1986. See 40 CFR 52.220(c)(168)(i)(E)(1).
2:14 | Cancellation of Permits | September 10, 1985 | February 3, 1987, 52 FR 3226 | Submitted on February 10, 1986. See 40 CFR 52.220(c)(168)(i)(E)(1).
2:15 | Posting of Permit | September 10, 1985 | February 3, 1987, 52 FR 3226 | Submitted on February 10, 1986. See 40 CFR 52.220(c)(168)(i)(E)(1).
2:16 | Defacing | September 10, 1985 | February 3, 1987, 52 FR 3226 | Submitted on February 10, 1986. See 40 CFR 52.220(c)(168)(i)(E)(1).
2:17 | Public Records—Trade Secrets | September 10, 1985 | February 3, 1987, 52 FR 3226 | Submitted on February 10, 1986. See 40 CFR 52.220(c)(168)(i)(E)(1).
2:20 | Emissions Statement | March 1, 2022 | March 18, 2025, 90 FR 12459 | Submitted on July 5, 2022. See 40 CFR 52.220(c)(607)(i)(D)(1).
Regulation III—Agricultural Burning
3:1 | Definitions | October 17, 1980 | April 12, 1982, 47 FR 15585 | Submitted on December 15, 1980. See 40 CFR 52.220(c)(85)(vi)(A).
3:1 (paragraphs (c) through (f)) | Definitions | August 4, 1987 | April 17, 1989, 54 FR 15180 | Adds definitions for “wildland vegetation management burning,” “prescribed burning,” “populated area,” and “sensitive area.” Submitted on November 25, 1987. See 40 CFR 52.220(c)(175)(i)(B)(1).
3:2 | Burning on No-Burn Days | October 17, 1980 | April 12, 1982, 47 FR 15585 | Submitted on December 15, 1980. See 40 CFR 52.220(c)(85)(vi)(A).
3:3 | Exceptions | October 17, 1980 | April 12, 1982, 47 FR 15585 | Submitted on December 15, 1980. See 40 CFR 52.220(c)(85)(vi)(A).
3:4 | Fire Prevention | October 17, 1980 | April 12, 1982, 47 FR 15585 | Submitted on December 15, 1980. See 40 CFR 52.220(c)(85)(vi)(A).
3:5 | Burning Permits | October 17, 1980 | April 12, 1982, 47 FR 15585 | Submitted on December 15, 1980. See 40 CFR 52.220(c)(85)(vi)(A).
3:6 | Preparation of Agricultural Wastes | October 17, 1980 | April 12, 1982, 47 FR 15585 | Submitted on December 15, 1980. See 40 CFR 52.220(c)(85)(vi)(A).
3:6 (paragraph (d)(1)) | Preparation of Agricultural Wastes | August 4, 1987 | April 17, 1989, 54 FR 15180 | Amends paragraph (d)(1). Submitted on November 25, 1987. See 40 CFR 52.220(c)(175)(i)(B)(1).
3:7 | Ignition Methods | October 17, 1980 | April 12, 1982, 47 FR 15585 | Submitted on December 15, 1980. See 40 CFR 52.220(c)(85)(vi)(A).
3:8 | Ignition Devices | October 17, 1980 | April 12, 1982, 47 FR 15585 | Submitted on December 15, 1980. See 40 CFR 52.220(c)(85)(vi)(A).
3:9 | Burning Hours | October 17, 1980 | April 12, 1982, 47 FR 15585 | Submitted on December 15, 1980. See 40 CFR 52.220(c)(85)(vi)(A).
3:10 | Restricted Burning Days | October 17, 1980 | April 12, 1982, 47 FR 15585 | Submitted on December 15, 1980. See 40 CFR 52.220(c)(85)(vi)(A).
3:11 | Restricted Burning | October 17, 1980 | April 12, 1982, 47 FR 15585 | Submitted on December 15, 1980. See 40 CFR 52.220(c)(85)(vi)(A).
3:11 (paragraph (a)) | Restricted Burning | August 4, 1987 | April 17, 1989, 54 FR 15180 | Amends paragraph (a). Submitted on November 25, 1987. See 40 CFR 52.220(c)(175)(i)(B)(1).
3:12 | Wildland Vegetation Management Burning | April 25, 1989 | August 19, 1999, 64 FR 45170 | Submitted on May 13, 1991. See 40 CFR 52.220(c)(184)(i)(F)(2).
3:12 | Range Improvement Burning | October 17, 1980 | April 12, 1982, 47 FR 15585 | Submitted on December 15, 1980. See 40 CFR 52.220(c)(85)(vi)(A).
3:13 (paragraph ((j) | Range Improvement Burning | August 4, 1987 | April 17, 1989, 54 FR 15180 | Adds paragraph (j). Submitted on November 25, 1987. See 40 CFR 52.220(c)(175)(i)(B)(1).
3:13 | Forest Management Burning | October 17, 1980 | April 12, 1982, 47 FR 15585 | Submitted on December 15, 1980. See 40 CFR 52.220(c)(85)(vi)(A).
3:14 (paragraph (a)(10)) | Forest Management Burning | August 4, 1987 | April 17, 1989, 54 FR 15180 | Adds paragraph (a)(10). Submitted on November 25, 1987. See 40 CFR 52.220(c)(175)(i)(B)(1).
Regulation IV—Prohibitions
4:1 | Visible Emissions | October 17, 1980 | April 12, 1982, 47 FR 15585 | Submitted on December 15, 1980. See 40 CFR 52.220(c)(85)(vi)(A).
4:2 | Orchard Heaters | October 17, 1980 | April 12, 1982, 47 FR 15585 | Submitted on December 15, 1980. See 40 CFR 52.220(c)(85)(vi)(A).
4:3 | Particulate Matter | September 10, 1985 | July 12, 1990, 55 FR 28622 | Submitted on February 10, 1986. See 40 CFR 52.220(c)(168)(i)(E)(2).
4:3 | Particulate Matter | August 4, 1987 | April 17, 1989, 54 FR 15180 | Adds an exception that establishes a higher limit for certain sources above 500 foot elevation. Submitted on November 25, 1987. See 40 CFR 52.220(c)(175)(i)(B)(1).
4:5 | Reduction of Animal Matter | August 10, 1971 | May 31, 1972, 37 FR 10842 | Submitted on February 21, 1972. See 40 CFR 52.220(b).
4:6 | Open Burning | October 17, 1980 | April 12, 1982, 47 FR 15585 | Submitted on December 15, 1980. See 40 CFR 52.220(c)(85)(vi)(A).
4:7 | Incinerator Burning | October 17, 1980 | April 12, 1982, 47 FR 15585 | Submitted on December 15, 1980. See 40 CFR 52.220(c)(85)(vi)(A).
4:8 | Dust and Condensed Fumes | September 10, 1985 | July 12, 1990, 55 FR 28622 | Submitted on February 10, 1986. See 40 CFR 52.220(c)(168)(i)(E)(2).
4:9 | Specific Contaminants | August 10, 1971 | May 31, 1972, 37 FR 10842 | Submitted on February 21, 1972. See 40 CFR 52.220(b).
4:9 | Specific Contaminants | September 10, 1985 | July 12, 1990, 55 FR 28622 | Amends sulfur compound limit in paragraph (a) to 250 ppm and combustion contaminants limit in paragraph (b) to 0.15 grains per cubic foot of gas. Submitted on February 10, 1986. See 40 CFR 52.220(c)(168)(i)(E)(2).
4:10 | Sulfur Content of Fuels | September 10, 1985 | July 12, 1990, 55 FR 28622 | Submitted on February 10, 1986. See 40 CFR 52.220(c)(168)(i)(E)(2).
4:11 | Circumvention | August 10, 1971 | May 31, 1972, 37 FR 10842 | Submitted on February 21, 1972. See 40 CFR 52.220(b).
4:12 | Storage of Petroleum Products | August 10, 1971 | May 31, 1972, 37 FR 10842 | Submitted on February 21, 1972. See 40 CFR 52.220(b).
4:14 | Fuel Burning Equipment | November 3, 1998 | September 15, 2000, 65 FR 55910 | Submitted on May 13, 1999. See 40 CFR 52.220(c)(263)(i)(D)(2).
4:15 | Separation of Emissions | August 10, 1971 | May 31, 1972, 37 FR 10842 | Submitted on February 21, 1972. See 40 CFR 52.220(b).
4:16 | Combination of Emissions | August 10, 1971 | May 31, 1972, 37 FR 10842 | Submitted on February 21, 1972. See 40 CFR 52.220(b).
4:18 | Disclosure of Data | May 28, 1974 | May 11, 1977, 42 FR 23803; corrected on August 22, 1977, 42 FR 42219 | Submitted on July 19, 1974. See 40 CFR 52.220(c)(24)(v)(A).
4:22 | Industrial Use of Organic Solvents | August 4, 1987 | October 10, 2001, 66 FR 51566 | Submitted on November 25, 1987. See 40 CFR 52.220(c)(175)(i)(B)(2).
4:24 | Fugitive, Indirect, and Non-Traditional Sources | August 4, 1987 | April 17, 1989, 54 FR 15180 | Submitted on November 25, 1987. See 40 CFR 52.220(c)(175)(i)(B)(1).
4:31 | Industrial, Institutional, and Commercial Boilers, Steam Generators, and Process Heaters | January 29, 2002 | May 14, 2002, 67 FR 34405 | Submitted on February 8, 2002. See 40 CFR 52.220(c)(295)(i)(A)(1).
4:34 | Stationary Internal Combustion Engines | June 3, 1997 | September 19, 2000, 65 FR 56486; corrected on January 16, 2004, 69 FR 2509 | Submitted on May 13, 1999. See 40 CFR 52.220(c)(263)(i)(D)(1).
4:37 | Determination of Reasonably Available Control Technology for the Control of Oxides of Nitrogen from Stationary Gas Turbines | January 29, 2002 | May 14, 2002, 67 FR 34405 | Submitted on February 8, 2002. See 40 CFR 52.220(c)(295)(i)(A)(1).

Table 36—EPA-Approved Tuolumne County Air Pollution Control District Regulations
District citation | Title/subject | State effective date | EPA approval date | Additional explanation
Original Codification of Rules and Regulations
Regulation IV—Prohibitions
56 | Sulfur Oxide Emissions | January 1, 1972 | May 31, 1972, 37 FR 10842 | Submitted on February 21, 1972. See 40 CFR 52.220(b).
57 | Sulfide Emission Standard | January 1, 1972 | May 31, 1972, 37 FR 10842 | Submitted on February 21, 1972. See 40 CFR 52.220(b).
62 | Review of Standards | January 1, 1972 | May 31, 1972, 37 FR 10842 | Submitted on February 21, 1972. See 40 CFR 52.220(b).
1972 Re-Codification of Rules and Regulations
Regulation II—Permits
201 (paragraphs (a) and (e)) | Permits Required | February 1, 1972 | September 22, 1972, 37 FR 19812 | Submitted on June 30, 1972. See 40 CFR 52.220(c)(6). Paragraphs (b) (“Permit to Operate”), (c) (“Posting of Permit to Operate”) and (d) (“Altering of Permit”) have been superseded by approval of Rules 501 (Permit Required) and 508 (Posting of Permit to Operate) at 47 FR 23159 (May 27, 1982).
202 | Exemptions | February 1, 1972 | September 22, 1972, 37 FR 19812 | Submitted on June 30, 1972. See 40 CFR 52.220(c)(6).
203 | Transfer | February 1, 1972 | September 22, 1972, 37 FR 19812 | Submitted on June 30, 1972. See 40 CFR 52.220(c)(6).
204 | Applications | February 1, 1972 | September 22, 1972, 37 FR 19812 | Submitted on June 30, 1972. See 40 CFR 52.220(c)(6).
205 | Cancellation of Construction Permit | February 1, 1972 | September 22, 1972, 37 FR 19812 | Submitted on June 30, 1972. See 40 CFR 52.220(c)(6).
206 | Action on Applications | February 1, 1972 | September 22, 1972, 37 FR 19812 | Submitted on June 30, 1972. See 40 CFR 52.220(c)(6).
208 | Standards for Granting Applications | February 1, 1972 | September 22, 1972, 37 FR 19812 | Submitted on June 30, 1972. See 40 CFR 52.220(c)(6).
209 | Conditional Approval | February 1, 1972 | September 22, 1972, 37 FR 19812 | Submitted on June 30, 1972. See 40 CFR 52.220(c)(6).
210 | Denial of Applications | February 1, 1972 | September 22, 1972, 37 FR 19812 | Submitted on June 30, 1972. See 40 CFR 52.220(c)(6).
211 | Further Information | February 1, 1972 | September 22, 1972, 37 FR 19812 | Submitted on June 30, 1972. See 40 CFR 52.220(c)(6).
212 | Applications Deemed Denied | February 1, 1972 | September 22, 1972, 37 FR 19812 | Submitted on June 30, 1972. See 40 CFR 52.220(c)(6).
Regulation IV—Prohibitions
407 (paragraph (b)) | Specific Contaminants | February 1, 1972 | September 22, 1972, 37 FR 19812 | Paragraph (b) relates to combustion contaminants. Submitted on June 30, 1972. See 40 CFR 52.220(c)(6). Paragraph (a) was superseded by approval of Rule 210 (Sulfur Emissions) (paragraph (a)) at 42 FR 42219 (August 22, 1977).
408 | Fuel Burning Equipment | February 1, 1972 | September 22, 1972, 37 FR 19812 | Submitted on June 30, 1972. See 40 CFR 52.220(c)(6).
413 | Organic Liquid Loading | February 1, 1972 | September 22, 1972, 37 FR 19812 | Submitted on June 30, 1972. See 40 CFR 52.220(c)(6).
414 | Effluent Oil Water Separators | February 1, 1972 | September 22, 1972, 37 FR 19812 | Submitted on June 30, 1972. See 40 CFR 52.220(c)(6).
422 | Architectural Coatings | June 1, 1972 | September 22, 1972, 37 FR 19812 | Adopted by CARB via Resolution 72-75 for the Tuolumne County APCD. Submitted on June 30, 1972. See 40 CFR 52.220(c)(6).
423 | Disposal and Evaporation of Solvents | June 1, 1972 | September 22, 1972, 37 FR 19812 | Adopted by CARB via Resolution 72-75 for the Tuolumne County APCD. Submitted on June 30, 1972. See 40 CFR 52.220(c)(6).
Regulation VI—Emergencies
601 | General | February 1, 1972 | September 22, 1972, 37 FR 19812 | Submitted on June 30, 1972. See 40 CFR 52.220(c)(6).
602 | Sampling Stations | February 1, 1972 | September 22, 1972, 37 FR 19812 | Submitted on June 30, 1972. See 40 CFR 52.220(c)(6).
603 | Air Sampling | February 1, 1972 | September 22, 1972, 37 FR 19812 | Submitted on June 30, 1972. See 40 CFR 52.220(c)(6).
604 | Reports | February 1, 1972 | September 22, 1972, 37 FR 19812 | Submitted on June 30, 1972. See 40 CFR 52.220(c)(6).
605 | Declaration of Alerts | February 1, 1972 | September 22, 1972, 37 FR 19812 | Submitted on June 30, 1972. See 40 CFR 52.220(c)(6).
606 | End of an Alert | February 1, 1972 | September 22, 1972, 37 FR 19812 | Submitted on June 30, 1972. See 40 CFR 52.220(c)(6).
607 | Plans | February 1, 1972 | September 22, 1972, 37 FR 19812 | Submitted on June 30, 1972. See 40 CFR 52.220(c)(6).
608 | First Alert Action | February 1, 1972 | September 22, 1972, 37 FR 19812 | Submitted on June 30, 1972. See 40 CFR 52.220(c)(6).
609 | Second Alert Action | February 1, 1972 | September 22, 1972, 37 FR 19812 | Submitted on June 30, 1972. See 40 CFR 52.220(c)(6).
610 | Third Alert Action | February 1, 1972 | September 22, 1972, 37 FR 19812 | Submitted on June 30, 1972. See 40 CFR 52.220(c)(6).
611 | Industrial and Commercial Shut-Down Plans | February 1, 1972 | September 22, 1972, 37 FR 19812 | Submitted on June 30, 1972. See 40 CFR 52.220(c)(6).
612 | Scientific Committee | February 1, 1972 | September 22, 1972, 37 FR 19812 | Submitted on June 30, 1972. See 40 CFR 52.220(c)(6).
613 | Emergency Action Committee | February 1, 1972 | September 22, 1972, 37 FR 19812 | Submitted on June 30, 1972. See 40 CFR 52.220(c)(6).
1975 Re-Codification of Rules and Regulations
Regulation I—Title and Definitions
101 | Title | November 22, 1988 | June 30, 1999, 64 FR 35005 | Submitted on March 26, 1990. See 40 CFR 52.220(c)(179)(i)(G)(1).
102 | Definitions | November 22, 1988 | June 30, 1999, 64 FR 35005 | Submitted on March 26, 1990. See 40 CFR 52.220(c)(179)(i)(G)(1).
Regulation II—Prohibitions
201 | District-Wide Coverage | May 6, 1975 | August 22, 1977, 42 FR 42219 | Submitted on July 22, 1975. See 40 CFR 52.220(c)(28)(v)(A).
202 | Visible Emissions | October 1, 1976 | December 6, 1979, 44 FR 70140 | Submitted on February 10, 1977. See 40 CFR 52.220(c)(37)(v)(B).
203 | Exceptions | September 8, 1981 | May 27, 1982, 47 FR 23159 | Submitted on October 23, 1981. See 40 CFR 52.220(c)(103)(xvii)(A).
204 | Wet Plumes | May 6, 1975 | August 22, 1977, 42 FR 42219 | Submitted on July 22, 1975. See 40 CFR 52.220(c)(28)(v)(A).
206 | Incinerator Burning and Pathological Incineration | October 1, 1976 | December 6, 1979, 44 FR 70140 | Submitted on February 10, 1977. See 40 CFR 52.220(c)(37)(v)(B).
207 | Particulate Matter | January 23, 1979 | May 18, 1981, 46 FR 27115 | Submitted on October 15, 1979. See 40 CFR 52.220(c)(52)(xiv)(A).
208 | Orchard or Citrus Heaters | October 1, 1976 | December 6, 1979, 44 FR 70140 | Submitted on February 10, 1977. See 40 CFR 52.220(c)(37)(v)(B).
210 | Sulfur Emissions | May 6, 1975 | August 22, 1977, 42 FR 42219 | Submitted on July 22, 1975. See 40 CFR 52.220(c)(28)(v)(A).
211 | Process Weight Per Hour | May 6, 1975 | August 22, 1977, 42 FR 42219 | Submitted on July 22, 1975. See 40 CFR 52.220(c)(28)(v)(A).
212 | Process Weight Table | May 6, 1975 | August 22, 1977, 42 FR 42219 | Submitted on July 22, 1975. See 40 CFR 52.220(c)(28)(v)(A).
213 | Storage of Petroleum Products | October 1, 1976 | December 6, 1979, 44 FR 70140 | Submitted on February 10, 1977. See 40 CFR 52.220(c)(37)(v)(B).
214 | Reduction of Animal Matter | May 6, 1975 | August 22, 1977, 42 FR 42219 | Submitted on July 22, 1975. See 40 CFR 52.220(c)(28)(v)(A).
215 | Abrasive Blasting | October 1, 1976 | December 6, 1979, 44 FR 70140 | Submitted on February 10, 1977. See 40 CFR 52.220(c)(37)(v)(B).
217 | Existing Sources | October 1, 1976 | December 6, 1979, 44 FR 70140 | Submitted on February 10, 1977. See 40 CFR 52.220(c)(37)(v)(B).
218 | Compliance Tests | January 23, 1979 | May 18, 1981, 46 FR 27115 | Submitted on October 15, 1979. See 40 CFR 52.220(c)(52)(xiv)(A).
Regulation III—Open Burning
300 | General Definitions | November 22, 1988 | June 30, 1999, 64 FR 35005 | Submitted on March 26, 1990. See 40 CFR 52.220(c)(179)(i)(G)(1).
302 | Burning Permits | November 22, 1988 | August 19, 1999, 64 FR 45170 | Submitted on March 26, 1990. See 40 CFR 52.220(c)(179)(i)(G)(2).
303 | Burn or No-Burn Day | November 22, 1988 | August 19, 1999, 64 FR 45170 | Submitted on March 26, 1990. See 40 CFR 52.220(c)(179)(i)(G)(2).
304 | Burning Management Requirements | November 22, 1988 | August 19, 1999, 64 FR 45170 | Submitted on March 26, 1990. See 40 CFR 52.220(c)(179)(i)(G)(2).
305 | Minimum Drying Times | November 22, 1988 | August 19, 1999, 64 FR 45170 | Submitted on March 26, 1990. See 40 CFR 52.220(c)(179)(i)(G)(2).
306 | Agricultural Burning | November 22, 1988 | August 19, 1999, 64 FR 45170 | Submitted on March 26, 1990. See 40 CFR 52.220(c)(179)(i)(G)(2).
307 | Wildland Vegetation Management Burning | November 22, 1988 | August 19, 1999, 64 FR 45170 | Submitted on March 26, 1990. See 40 CFR 52.220(c)(179)(i)(G)(2).
308 | Forest Management Burning | November 22, 1988 | August 19, 1999, 64 FR 45170 | Submitted on March 26, 1990. See 40 CFR 52.220(c)(179)(i)(G)(2).
309 | Range Improvement Burning | November 22, 1988 | August 19, 1999, 64 FR 45170 | Submitted on March 26, 1990. See 40 CFR 52.220(c)(179)(i)(G)(2).
310 | Miscellaneous Burning | November 22, 1988 | August 19, 1999, 64 FR 45170 | Submitted on March 26, 1990. See 40 CFR 52.220(c)(179)(i)(G)(2).
318 | Enforcement Responsibility | September 8, 1981 | May 27, 1982, 47 FR 23159 | Submitted on October 23, 1981. See 40 CFR 52.220(c)(103)(xvii)(A).
319 | Penalty | September 8, 1981 | May 27, 1982, 47 FR 23159 | Submitted on October 23, 1981. See 40 CFR 52.220(c)(103)(xvii)(A).
Regulation IV—Permit Systems Conditions
401 | Responsibility | May 6, 1975 | August 22, 1977, 42 FR 42219 | Submitted on July 22, 1975. See 40 CFR 52.220(c)(28)(v)(A).
403 | Responsibility of Permittee | May 6, 1975 | August 22, 1977, 42 FR 42219 | Submitted on July 22, 1975. See 40 CFR 52.220(c)(28)(v)(A).
428 | Emission Statements | July 21, 2020 | July 29, 2022, 87 FR 45657 | Submitted on August 3, 2020 as an attachment to a letter dated August 3, 2020. See 40 CFR 52.220(c)(574)(i)(A)(1).
429 | Federal New Source Review | July 6, 2021 | February 7, 2023, 88 FR 7877 | Submitted on August 3, 2021. See 40 CFR 52.220(c)(591)(i)(A)(1).
Regulation V—Permit to Operate Regulations
501 | Permit Required | September 8, 1981 | May 27, 1982, 47 FR 23159 | Submitted on October 23, 1981. See 40 CFR 52.220(c)(103)(xvii)(A).
502 | Exemptions to Rule 502 | September 8, 1981 | May 27, 1982, 47 FR 23159 | Submitted on October 23, 1981. See 40 CFR 52.220(c)(103)(xvii)(A).
505 | Conditional Approval | September 8, 1981 | May 27, 1982, 47 FR 23159 | Submitted on October 23, 1981. See 40 CFR 52.220(c)(103)(xvii)(A).
507 | Responsibility | September 8, 1981 | May 27, 1982, 47 FR 23159 | Submitted on October 23, 1981. See 40 CFR 52.220(c)(103)(xvii)(A).
508 | Posting of Permit to Operate | September 8, 1981 | May 27, 1982, 47 FR 23159 | Submitted on October 23, 1981. See 40 CFR 52.220(c)(103)(xvii)(A).
510 | Separation of Emissions | September 8, 1981 | May 27, 1982, 47 FR 23159 | Submitted on October 23, 1981. See 40 CFR 52.220(c)(103)(xvii)(A).
511 | Combination of Emissions | September 8, 1981 | May 27, 1982, 47 FR 23159 | Submitted on October 23, 1981. See 40 CFR 52.220(c)(103)(xvii)(A).
512 | Circumvention | September 8, 1981 | May 27, 1982, 47 FR 23159 | Submitted on October 23, 1981. See 40 CFR 52.220(c)(103)(xvii)(A).
513 | Source Recordkeeping | September 8, 1981 | May 27, 1982, 47 FR 23159 | Submitted on October 23, 1981. See 40 CFR 52.220(c)(103)(xvii)(A).
514 | Public Records and Trade Secrets | September 8, 1981 | May 27, 1982, 47 FR 23159 | Submitted on October 23, 1981. See 40 CFR 52.220(c)(103)(xvii)(A).
515 | Provision of Sampling and Testing Facilities | September 8, 1981 | May 27, 1982, 47 FR 23159 | Submitted on October 23, 1981. See 40 CFR 52.220(c)(103)(xvii)(A).
516 (excluding paragraph (C)) | Upset and Breakdown Conditions | September 8, 1981 | May 27, 1982, 47 FR 23159 | Paragraph (C) is titled “Emergency Variance Procedures.” Submitted on October 23, 1981. See 40 CFR 52.220(c)(103)(xvii)(A). Paragraph (C) was deleted at 62 FR 34641 (June 27, 1997). Also, see 85 FR 42728 (July 15, 2020).
517 | Transfer | September 8, 1981 | May 27, 1982, 47 FR 23159 | Submitted on October 23, 1981. See 40 CFR 52.220(c)(103)(xvii)(A).
Emergency Episode Plans
Tuolumne County Air Pollution Control District, Resolution No. 32-20, April 7, 2020 | Ozone Emergency Episode Plan | April 7, 2020 | March 30, 2021, 86 FR 16533 | Submitted on June 25, 2020 as an attachment to a letter dated June 16, 2020. See 40 CFR 52.220(c)(552)(i)(D)(1).

Table 37—EPA-Approved Ventura County Air Pollution Control District Regulations
District citation | Title/subject | State effective date | EPA approval date | Additional explanation
[Reserved]

Table 38—EPA-Approved Yolo-Solano Air Quality Management District Regulations
District citation | Title/subject | State effective date | EPA approval date | Additional explanation
Regulation I—General Provisions
1.1 | General Provisions and Definitions | July 8, 2015 | June 16, 2016, 81 FR 39211 | Submitted on November 13, 2015. See 40 CFR 52.220(c)(472)(i)(A)(1).
Regulation II—Prohibitions, Exceptions—Requirements
2.1 | Control of Emissions | October 1, 1971 | May 31, 1972, 37 FR 10842 | Submitted on February 21, 1972. See 40 CFR 52.220(b).
2.2 | Alteration of Permit | October 1, 1971 | May 31, 1972, 37 FR 10842 | Submitted on February 21, 1972. See 40 CFR 52.220(b).
2.3 | Ringelmann Chart | January 13, 2010 | April 18, 2012, 77 FR 23133 | Submitted on July 20, 2010. See 40 CFR 52.220(c)(381)(i)(I)(1).
2.8 (excluding paragraphs (b)(2), (b)(4), (c)(2), (c)(4) and (c)(5)) | Open Burning | February 5, 1973 | June 14, 1978, 43 FR 25675 | Submitted on July 25, 1973. See 40 CFR 52.220(c)(21)(xiv)(A). Paragraphs (c)(4) and (c)(5) were disapproved at 43 FR 25675 (June 14, 1978). Paragraph (b)(4) was rescinded, and paragraph (c)(2) was superseded at 44 FR 5662 (January 29, 1979). Paragraph (b)(2) was superseded at 47 FR 3550 (January 26, 1982).
2.8 (paragraph (b)(2)) | Open Burning | September 26, 1979 | January 26, 1982, 47 FR 3550 | Submitted on December 17, 1979. See 40 CFR 52.220(c)(58)(vii)(A).
2.8 (paragraph (c)(2)) | Open Burning | September 28, 1977 | January 29, 1979, 44 FR 5662 | Submitted on June 22, 1978. See 40 CFR 52.220(c)(44)(iv)(A).
2.9 | Open Burning Certain Materials | February 5, 1973 | June 14, 1978, 43 FR 25675 | Submitted on July 25, 1973. See 40 CFR 52.220(c)(21)(xiv)(A).
2.10 | Incinerator Burning | October 1, 1971 | May 31, 1972, 37 FR 10842 | Submitted on February 21, 1972. See 40 CFR 52.220(b).
2.11 | Particulate Matter Concentration | January 13, 2010 | April 18, 2012, 77 FR 23133 | Submitted on July 20, 2010. See 40 CFR 52.220(c)(381)(i)(I)(2).
2.12 | Specific Contaminants | January 13, 2010 | April 18, 2012, 77 FR 23133 | Submitted on July 20, 2010. See 40 CFR 52.220(c)(381)(i)(I)(3).
2.14 | Architectural Coatings | October 12, 2016 | July 12, 2018, 83 FR 32211 | Submitted on January 24, 2017. See 40 CFR 52.220(c)(497)(i)(D)(2).
2.16 | Fuel Burning Equipment | October 1, 1971 | May 31, 1972, 37 FR 10842 | Submitted on February 21, 1972. See 40 CFR 52.220(b).
2.17 | Circumvention | September 28, 1977 | January 29, 1979, 44 FR 5662 | Submitted on June 22, 1978. See 40 CFR 52.220(c)(44)(iv)(A).
2.19 | Particulate Matter Process Emission Rate | April 24, 1974 | June 14, 1978, 43 FR 25675 | Submitted on July 19, 1974. See 40 CFR 52.220(c)(24)(ix)(B).
2.20 | Orchard Heaters | September 28, 1977 | January 29, 1979, 44 FR 5662 | Submitted on June 22, 1978. See 40 CFR 52.220(c)(44)(iv)(A).
2.21 | Organic Liquid Storage and Transfer | September 14, 2016 | April 2, 2018, 83 FR 13867 | Submitted on January 24, 2017. See 40 CFR 52.220(c)(497)(i)(D)(1).
2.22 | Gasoline Dispensing Facilities | January 14, 2015 | February 9, 2016, 81 FR 6763 | Submitted on June 26, 2015. See 40 CFR 52.220(c)(463)(i)(B)(2).
2.23 | Fugitive Hydrocarbon Emissions | March 23, 1994 | November 26, 1999, 64 FR 66393 | Submitted on November 30, 1994. See 40 CFR 52.220(c)(207)(i)(C)(8).
2.25 | Metal Parts and Products Coating Operations | April 27, 1994 | February 12, 1996, 61 FR 5288 | Submitted on November 30, 1994. See 40 CFR 52.220(c)(207)(i)(C)(3).
2.26 | Motor Vehicle and Mobile Equipment Coating Operations | December 10, 2008 | December 8, 2015, 80 FR 76219 | Submitted on June 26, 2015. See 40 CFR 52.220(c)(463)(i)(B)(1).
2.27 | Large Boilers | May 15, 2019 | September 10, 2021, 86 FR 50645 | Submitted electronically on August 19, 2019 as an attachment to a letter dated August 16, 2021. See 40 CFR 52.220(c)(542)(i)(C)(1).
2.28 | Cutback and Emulsified Asphalts | May 25, 1994 | February 5, 1996, 61 FR 4215 | Submitted on November 30, 1994. See 40 CFR 52.220(c)(207)(i)(C)(2).
2.29 | Graphic Arts Printing Operations | July 11, 2018 | July 22, 2021, 86 FR 38562 | Submitted on August 20, 2018 as an attachment to a letter dated August 15, 2018. See 40 CFR 52.220(c)(559)(i)(A)(1).
2.30 | Polyester Resin Operations | April 14, 1999 | July 21, 1999, 64 FR 39037 | Submitted on June 3, 1999. See 40 CFR 52.220(c)(264)(i)(B)(1).
2.31 | Solvent Cleaning and Degreasing | July 14, 2021 | May 12, 2023, 88 FR 30652 | Submitted on July 18, 2022, as an attachment to a letter dated July 11, 2022. See 40 CFR 52.220(c)(596)(i)(A)(1).
2.32 | Stationary Internal Combustion Engines | October 10, 2001 | January 28, 2002, 67 FR 3816 | Submitted on November 28, 2001. See 40 CFR 52.220(c)(289)(i)(A)(1).
2.33 | Adhesive Operations | March 12, 2003 | March 22, 2004, 69 FR 13234 | Submitted on June 5, 2003. See 40 CFR 52.220(c)(316)(i)(E)(1).
2.34 | Stationary Gas Turbines | November 12, 2014 | February 9, 2016, 81 FR 6763 | Submitted on June 26, 2015. See 40 CFR 52.220(c)(463)(i)(B)(3).
2.35 | Pharmaceutical Manufacturing Operations | September 14, 1994 | February 24, 1997, 62 FR 8171 | Submitted on November 30, 1994. See 40 CFR 52.220(c)(207)(i)(C)(5).
2.37 | Natural Gas-Fired Water Heaters and Small Boilers | April 8, 2009 | May 10, 2010, 75 FR 25778 | Submitted on September 15, 2009. See 40 CFR 52.220(c)(377)(i)(B)(1).
2.41 | Expandable Polystyrene Manufacturing Operations | September 10, 2008 | September 8, 2011, 76 FR 55581 | Submitted on December 23, 2008. See 40 CFR 52.220(c)(364)(i)(C)(1).
2.42 | Nitric Acid Production | May 13, 2009 | May 10, 2010, 75 FR 25778 | Submitted on September 15, 2009. See 40 CFR 52.220(c)(377)(i)(B)(2).
2.43 | Biomass Boilers | December 13, 2023 | March 14, 2024, 89 FR 18546 | Submitted on February 14, 2024, as an attachment to a letter dated February 9, 2024. See 40 CFR 52.220(c)(612)(i)(A)(1).
Regulation III—Permit Systems
3.1 (excluding sections 403 and 406) | General Permit Requirements | February 23, 1994 | July 7, 1997, 62 FR 36214 | Submitted on October 19, 1994. See 40 CFR 52.220(c)(202)(i)(F)(1). Sections 403 (“Denial of Applications”) and 406 (“Appeals”) were deleted without replacement at 69 FR 67062 (November 16, 2004).
3.2 | Exemptions | August 25, 1993 | July 7, 1997, 62 FR 36214 | Submitted on March 29, 1994. See 40 CFR 52.220(c)(196)(i)(D)(1).
3.4 | New Source Review | December 11, 1996 | July 7, 1997, 62 FR 36214 | Submitted on March 26, 1997. See 40 CFR 52.220(c)(245)(i)(A)(1).
3.14 | Emission Reduction Credits | September 22, 1993 | July 7, 1997, 62 FR 36214 | Submitted on March 29, 1994. See 40 CFR 52.220(c)(196)(i)(D)(1).
3.15 | Priority Reserve | September 22, 1993 | July 7, 1997, 62 FR 36214 | Submitted on March 29, 1994. See 40 CFR 52.220(c)(196)(i)(D)(1).
3.18 | Emission Statements | July 28, 1993 | May 26, 2004, 69 FR 29880 | Submitted on November 18, 1993. See 40 CFR 52.220(c)(194)(i)(J)(1).
3.21 | Rice Straw Emission Reduction Credits | December 10, 2008 | June 29, 2010, 75 FR 37308 | Submitted on March 17, 2009. See 40 CFR 52.220(c)(363)(i)(C)(1).
3.24 | Prevention of Significant Deterioration | June 13, 2012 | December 10, 2012, 77 FR 73316 | Submitted on July 3, 2012. See 40 CFR 52.220(c)(420)(i)(A)(1). Final approval of Rule 3.24 is based, in part, on the clarifications contained in the letter dated August 7, 2012 from Mat Ehrhardt, YSAQMD, to Gerardo Rios, U.S. EPA Region 9, regarding clarifications of District Rule 210.4. The August 7, 2012 letter is listed in the tables of nonregulatory materials approved as part of the California SIP.
3.25 | Federal New Source Review for New and Modified Major PM2.5 Sources | May 15, 2019 | December 30, 2019, 84 FR 71824 | Submitted on June 4, 2019. See 40 CFR 52.220(c)(524)(i)(A)(1).
Regulation IV—Fees
4.4 (paragraph b) | Analysis Fees | September 28, 1977 | January 29, 1979, 44 FR 5662 | Submitted on June 22, 1978. See 40 CFR 52.220(c)(44)(iv)(A).
Regulation VI—Agricultural Burning
6.1 | Prohibitions | July 23, 1980 | January 26, 1982, 47 FR 3549 | Submitted on November 3, 1980. See 40 CFR 52.220(c)(96)(iv)(A).
6.1 (paragraphs (f)(3) and (g)(5)) | Prohibitions | June 23, 1982 | June 1, 1983, 48 FR 24362 | The amendments adopted by Yolo-Solano AQMD on June 23, 1982 added paragraphs (f)(3) and (g)(5). Submitted on November 8, 1982. See 40 CFR 52.220(c)(126)(vi)(A).
6.1 (paragraph (j)) | Prohibitions | December 4, 1972 | June 14, 1978, 43 FR 25675 | Submitted on July 25, 1973. See 40 CFR 52.220(c)(21)(xiv)(A).
6.2 | Permits to Burn | December 4, 1972 | June 14, 1978, 43 FR 25675 | Submitted on July 25, 1973. See 40 CFR 52.220(c)(21)(xiv)(A).
6.3 | Special Permits | July 23, 1980 | January 26, 1982, 47 FR 3549 | Submitted on November 3, 1980. See 40 CFR 52.220(c)(96)(iv)(A).
6.4 | Forms | December 4, 1972 | June 14, 1978, 43 FR 25675 | Submitted on July 25, 1973. See 40 CFR 52.220(c)(21)(xiv)(A).
[6.5] (codified as Rule 4.5) | Standards for Granting Applications | October 1, 1971 | May 31, 1972, 37 FR 10842 | Rule 4.5 was included in Regulation IV (Agricultural Burning) in the original Rules and Regulations adopted by the Yolo-Solano AQMD. Submitted on February 21, 1972. See 40 CFR 52.220(b).
6.5 (excluding paragraph (a)) | Standards for Granting Applications | December 4, 1972 | June 14, 1978, 43 FR 25675 | Submitted on July 25, 1973. See 40 CFR 52.220(c)(21)(xiv)(A). Paragraph (a) was disapproved at 43 FR 25675 (June 14, 1978).
6.6 | Restricted Burning Days | September 26, 1979 | January 26, 1982, 47 FR 3550 | Submitted on December 17, 1979. See 40 CFR 52.220(c)(58)(vii)(A).
6.7 (excluding paragraph (f)) | Permit Form | December 4, 1972 | June 14, 1978, 43 FR 25675 | Submitted on July 25, 1973. See 40 CFR 52.220(c)(21)(xiv)(A). Paragraph (f) was superseded by approval of Rule 6.7 (paragraph (f)) at 44 FR 5662 (January 29, 1979).
6.7 (paragraph (f)) | Permit Form | September 28, 1977 | January 29, 1979, 44 FR 5662 | Submitted on June 22, 1978. See 40 CFR 52.220(c)(44)(iv)(A).
6.8 | Fire Prevention | December 4, 1972 | June 14, 1978, 43 FR 25675 | Submitted on July 25, 1973. See 40 CFR 52.220(c)(21)(xiv)(A).
Regulation X—Mobile and Indirect Sources
10.3 | General Conformity | February 8, 1995 | April 23, 1999, 64 FR 19916 | Submitted on December 3, 1998. See 40 CFR 52.220(c)(259)(i)(A)(1).
Regulation XI—Agricultural Sources
11.2 | Confined Animal Facilities Permit Program | June 14, 2006 | March 13, 2017, 82 FR 13398 | Submitted on October 5, 2006. See 40 CFR 52.220(c)(347)(i)(E)(1).

(d) EPA-approved source-specific requirements.

Name of source | Order/permit No. | Effective date | EPA approval date | Explanation
(1) Sacramento Metropolitan Air Quality Management District
(i) Kiefer Landfill | Permit to Operate for the Kiefer Landfill (“Permit to Operate No. 17359 (Rev01)”) | November 13, 2006 | April 12, 2011, 76 FR 20242 | Submitted on July 11, 2007. See 40 CFR 52.220(c)(382)(i)(A)(1).
(ii) Kiefer Landfill | Permit to Operate No. 24360—Air Pollution Control Landfill Gas Flare No. 1, Enclosed Type, with Attachment A | April 14, 2016 | December 4, 2017, 82 FR 57130 | Submitted on January 24, 2017. See 40 CFR 52.220(c)(497)(i)(A)(1).
(iii) Kiefer Landfill | Permit to Operate No. 24361—Air Pollution Control Landfill Gas Flare No. 2, Enclosed Type, with Attachment A | April 14, 2016 | December 4, 2017, 82 FR 57130 | Submitted on January 24, 2017. See 40 CFR 52.220(c)(497)(i)(A)(2).
(iv) Mitsubishi Chemical Carbon Fiber & Composites, Inc | Permit to Operate No. 24611—Eisenmann Oxidation Oven 1, issued to Mitsubishi Chemical Carbon Fiber & Composites, Inc | February 23, 2024 | September 25, 2024, 89 FR 78255 | Submitted electronically on April 11, 2024, as an attachment to a letter dated April 10, 2024. See 40 CFR 52.220(c)(617)(i)(A)(1).
(v) Mitsubishi Chemical Carbon Fiber & Composites, Inc | Permit to Operate No. 25925—Maxon Oxidation Oven 2, issued to Mitsubishi Chemical Carbon Fiber & Composites, Inc | February 23, 2024 | September 25, 2024, 89 FR 78255 | Submitted electronically on April 11, 2024, as an attachment to a letter dated April 10, 2024. See 40 CFR 52.220(c)(617)(i)(A)(2).
(vi) Mitsubishi Chemical Carbon Fiber & Composites, Inc | Permit to Operate No. 24613—Eisenmann Oxidation Oven 3, issued to Mitsubishi Chemical Carbon Fiber & Composites, Inc | February 23, 2024 | September 25, 2024, 89 FR 78255 | Submitted electronically on April 11, 2024, as an attachment to a letter dated April 10, 2024. See 40 CFR 52.220(c)(617)(i)(A)(3).
(vii) Mitsubishi Chemical Carbon Fiber & Composites, Inc | Permit to Operate No. 24614—Eisenmann Oxidation Oven 4, issued to Mitsubishi Chemical Carbon Fiber & Composites, Inc | February 23, 2024 | September 25, 2024, 89 FR 78255 | Submitted electronically on April 11, 2024, as an attachment to a letter dated April 10, 2024. See 40 CFR 52.220(c)(617)(i)(A)(4).
(viii) Mitsubishi Chemical Carbon Fiber & Composites, Inc | Permit to Operate No. 27336—Despatch Oxidation Oven Line 31, issued to Mitsubishi Chemical Carbon Fiber and Composites Inc | February 23, 2024 | September 25, 2024, 89 FR 78255 | Submitted electronically on April 11, 2024, as an attachment to a letter dated April 10, 2024. See 40 CFR 52.220(c)(617)(i)(A)(5).
(ix) Mitsubishi Chemical Carbon Fiber & Composites, Inc | Permit to Operate No. 27337—Despatch Oxidation Oven Line 31, issued to Mitsubishi Chemical Carbon Fiber and Composites Inc | February 23, 2024 | September 25, 2024, 89 FR 78255 | Submitted electronically on April 11, 2024, as an attachment to a letter dated April 10, 2024. See 40 CFR 52.220(c)(617)(i)(A)(6).
(x) Mitsubishi Chemical Carbon Fiber & Composites, Inc | Permit to Operate No. 27338—Cleaver Brooks Boiler, issued to Mitsubishi Chemical Carbon Fiber and Composites Inc | February 23, 2024 | September 25, 2024, 89 FR 78255 | Submitted electronically on April 11, 2024, as an attachment to a letter dated April 10, 2024. See 40 CFR 52.220(c)(617)(i)(A)(7).
(xi) UCD Medical Center | Permit to Operate No. 17549—General Electric Gas Turbine, issued to UCD Medical Center | February 23, 2024 | September 25, 2024, 89 FR 78255 | Submitted electronically on April 11, 2024, as an attachment to a letter dated April 10, 2024. See 40 CFR 52.220(c)(617)(i)(A)(8).
(xii) UCD Medical Center | Permit to Operate No. 20216—Johnston Boiler Company Boiler 1, No. 20217—Johnston Boiler company Boiler 2, No. 20218—Johnston Boiler Company Boiler 3, No. 20219—Johnston Boiler Company Boiler 4, issued to UCD Medical Center | February 23, 2024 | September 25, 2024, 89 FR 78255 | Submitted electronically on April 11, 2024, as an attachment to a letter dated April 10, 2024. See 40 CFR 52.220(c)(617)(i)(A)(9).
(xiii) Sacramento Municipal Utility District Financing Authority DBA Procter and Gamble Power Plant | Permit to Operate No. 27140—Babcock & Wilcox Boiler, issued to Sacramento Municipal Utility District Financing Authority DBA Procter and Gamble Power Plant | February 23, 2024 | September 25, 2024, 89 FR 78255 | Submitted electronically on April 11, 2024, as an attachment to a letter dated April 10, 2024. See 40 CFR 52.220(c)(617)(i)(A)(10).
(xiv) Sacramento Municipal Utility District Financing Authority DBA Procter and Gamble Power Plant | Permit to Operate No. 27141—General Electric Gas Turbine 1A and No. 27132—Duct Burner 1A, issued to Sacramento Municipal Utility District Financing Authority DBA Procter and Gamble Power Plant | February 23, 2024 | September 25, 2024, 89 FR 78255 | Submitted electronically on April 11, 2024, as an attachment to a letter dated April 10, 2024. See 40 CFR 52.220(c)(617)(i)(A)(11).
(xv) Sacramento Municipal Utility District Financing Authority DBA Procter and Gamble Power Plant | Permit to Operate No. 27142—General Electric Gas Turbine 1B and No. 27133—Duct Burner 1B, issued to Sacramento Municipal Utility District Financing Authority DBA Procter and Gamble Power Plant | February 23, 2024 | September 25, 2024, 89 FR 78255 | Submitted electronically on April 11, 2024, as an attachment to a letter dated April 10, 2024. See 40 CFR 52.220(c)(617)(i)(A)(12).
(xvi) Sacramento Municipal Utility District Financing Authority DBA Procter and Gamble Power Plant | Permit to Operate No. 27143—General Electric Gas Turbine 1C, issued to Sacramento Municipal Utility District Financing Authority DBA Procter and Gamble Power Plant | February 23, 2024 | September 25, 2024, 89 FR 78255 | Submitted electronically on April 11, 2024, as an attachment to a letter dated April 10, 2024. See 40 CFR 52.220(c)(617)(i)(A)(13).
(xvii) Sacramento Municipal Utility District Financing Authority DBA Procter and Gamble Power Plant | Permit to Operate No. 27144—Cleaver Brooks Boiler 1B, issued to Sacramento Municipal Utility District Financing Authority DBA Procter and Gamble Power Plant | February 23, 2024 | September 25, 2024, 89 FR 78255 | Submitted electronically on April 11, 2024, as an attachment to a letter dated April 10, 2024. See 40 CFR 52.220(c)(617)(i)(A)(14).
(xviii) Sacramento Municipal Utility District Financing Authority (SFA)—Cosumnes Power Plant | Permit to Operate No. 25801—General Electric Gas Turbine 2, issued to Sacramento Municipal Utility District Financing Authority (SFA)—Cosumnes Power Plant | February 23, 2024 | September 25, 2024, 89 FR 78255 | Submitted electronically on April 11, 2024, as an attachment to a letter dated April 10, 2024. See 40 CFR 52.220(c)(617)(i)(A)(15).
(xix) Sacramento Municipal Utility District Financing Authority (SFA)—Cosumnes Power Plant | Permit to Operate No. 25800—General Electric Gas Turbine 3, issued to Sacramento Municipal Utility District Financing Authority (SFA)—Cosumnes Power Plant | February 23, 2024 | September 25, 2024, 89 FR 78255 | Submitted electronically on April 11, 2024, as an attachment to a letter dated April 10, 2024. See 40 CFR 52.220(c)(617)(i)(A)(16).
(xx) Sacramento Municipal Utility District Financing Authority DBA Campbell Power Plant | Permit to Operate No. 27118—Siemens Gas Turbine and No. 27116—Duct Burner, issued to Sacramento Municipal Utility District Financing Authority DBA Campbell Power Plant | February 23, 2024 | September 25, 2024, 89 FR 78255 | Submitted electronically on April 11, 2024, as an attachment to a letter dated April 10, 2024. See 40 CFR 52.220(c)(617)(i)(A)(17).
(xxi) Sacramento Municipal Utility District Financing Authority DBA Carson Power Plant | Permit to Operate No. 27151—General Electric Gas Turbine and No. 27153—Duct Burner, issued to Sacramento Municipal Utility District Financing Authority DBA Carson Power Plant | February 23, 2024 | September 25, 2024, 89 FR 78255 | Submitted electronically on April 11, 2024, as an attachment to a letter dated April 10, 2024. See 40 CFR 52.220(c)(617)(i)(A)(18).
(xxii) Sacramento Municipal Utility District Financing Authority DBA Carson Power Plant | Permit to Operate No. 27154—Cleaver Brooks Boiler, issued to Sacramento Municipal Utility District Financing Authority DBA Carson Power Plant | February 23, 2024 | September 25, 2024, 89 FR 78255 | Submitted electronically on April 11, 2024, as an attachment to a letter dated April 10, 2024. See 40 CFR 52.220(c)(617)(i)(A)(19).
(xxiii) Sacramento Municipal Utility District Financing Authority DBA Carson Power Plant | Permit to Operate No. 27156—General Electric Gas Turbine, issued to Sacramento Municipal Utility District Financing Authority DBA Carson Power Plant | February 23, 2024 | September 25, 2024, 89 FR 78255 | Submitted electronically on April 11, 2024, as an attachment to a letter dated April 10, 2024. See 40 CFR 52.220(c)(617)(i)(A)(20).
(2) San Joaquin Valley Unified Air Pollution Control District
(i) J.R. Simplot Company, Nitric Acid Plant, Helm, CA | Permit #C-705-3-19 | June 21, 2018 | August 17, 2018, 83 41006 | Adopted by the SJVUAPCD, Resolution No. 18-06-14, June 21, 2018. Submitted on June 29, 2018. See 40 CFR 52.220(c)(507)(i)(A)(1).
(ii) Reserved.
(3) South Coast Air Quality Management District
(i) 63500 19th Ave., North Palm Springs, CA 92258 | Facility Permit to Operate (includes only the title page, table of contents, section A (page 1), and section D (pages 1-21)) | July 7, 2017 | September 20, 2017, 82 FR 43850 | Submitted on July 27, 2017 as appendix A to the Supplemental RACM/RACT Analysis for the NOX RECLAIM Program. See 40 CFR 52.220(c)(492)(i)(A)(1).
(ii) 15775 Melissa Lane Rd, North Palm Springs, CA 92258 | Facility Permit to Operate (includes only the title page, table of contents, section A (page 1), and section D (pages 1-49)) | July 7, 2017 | September 20, 2017, 82 FR 43850 | Submitted on July 27, 2017 as appendix B to the Supplemental RACM/RACT Analysis for the NOX RECLAIM Program. See 40 CFR 52.220(c)(492)(i)(A)(2).
(iii) 62575 Power Line Road, Desert Hot Springs, CA 92440 | Resolution No. 10-20 | July 9, 2010 | April 20, 2011, 76 FR 22038 | Submitted on September 10, 2010. See 40 CFR 52.220(c)(384)(i)(A)(1), (2) and (3). Includes two documents incorporated by reference in Resolution 10-20: “Revision to the State Implementation Plan for the South Coast Air Quality Management District, State of California: Sulfur Oxides and Particulate Matter Offset Requirements for the Proposed CPV Sentinel Power Plant to be Located in Desert Hot Springs, California, Including AB 1318 Offset Tracking System” and “CPV Sentinel Energy Project AB 1318 Tracking System.” See also 77 FR 67767 (November 14, 2012).

* * * * *

[FR Doc. 2025-15989 Filed 8-20-25; 8:45 am]

BILLING CODE 6560-50-P